ENVIRONMENTAL PROTECTION AGENCY

40 CFR Part 49

[Docket #: A-2000-25; FRL-7147-9]

RIN 2012-AA01

Federal Implementation Plans Under the Clean Air Act for Indian Reservations in Idaho, Oregon and Washington

AGENCY: Environmental Protection Agency.

ACTION: Proposed rule.

SUMMARY: The Environmental Protection Agency (EPA) proposes to promulgate Federal Implementation Plans (FIPs) under the Clean Air Act (CAA) for Indian reservations in Idaho, Oregon, and Washington. The FIPs would include basic air quality regulations for the protection of communities in and adjacent to such Indian reservations. These rules would be implemented by EPA, or a delegated Tribal Authority, until replaced by Tribal Implementation Plans (TIPs).

DATES: Comments must be received no later than June 13, 2002.

ADDRESSES: Written comments should be addressed to: David Bray, Office of Air Quality (OAQ-107), U.S. EPA Region 10, 1200 Sixth Avenue, Seattle, WA 98101-1128. Please cite the administrative docket, #A-2000-25, upon which you are providing comment.

Copies of all information supporting this action are available for public inspection and copying between 8:30 a.m. and 5:30 p.m. Eastern Standard Time at EPA's Central Docket Section, Office of Air and Radiation, Room 1500M (6102), 401 M Street, SW., Washington, DC 20460, and between 8:30 a.m. and 3:30 p.m. Pacific Standard Time at EPA Region 10, Office of Air Quality, 10th Floor, 1200 Sixth Avenue, Seattle, Washington 98101. A reasonable fee may be charged for copies.

FOR FURTHER INFORMATION CONTACT: David Bray, Office of Air Quality (OAQ-107), U.S. EPA Region 10, 1200 Sixth Avenue, Seattle, WA 98101-1128, (206) 553-4253.

SUPPLEMENTARY INFORMATION:

Table of Contents

I. Background

A. Today's Action

B. Areas and Sources Covered by the Rules

C. Organization of the Rules

D. Delegation

II. Basis for Proposed Action

A. EPA's Authority to Promulgate a FIP in Indian Country

B. Relation to Tribal Authority Rule

III. Summary of FIP Provisions

A. Origin of the Rules

B. Rule Summaries

C. Rules Proposed for Specific Reservations

D. Costs Associated with these Rules and Request for Comment

IV. Request for Public Comments

V. Administrative Requirements

A. Executive Order 12866: Regulatory Planning and Review

B. Regulatory Flexibility Act

C. Unfunded Mandates Reform Act

D. Paperwork Reduction Act

E. Executive Order 13045: Protection of Children From Environmental Health Risks and Safety Risks

F. Executive Order 12875: Enhancing the Intergovernmental Partnership

G. Executive Order 13175: Consultation and Coordination With Indian Tribal Governments

H. Executive Order 13211: Energy Effects

I. National Technology Transfer and Advancement Act

I. Background

A. Today's Action

EPA is proposing to establish Federal Implementation Plans (FIPs) under the Clean Air Act (CAA) for Indian reservations in Idaho, Oregon, and Washington. These rules, when promulgated, would be an important step in ensuring that basic air quality protection is in place to protect health and welfare on Indian reservations located in the Pacific Northwest. In Region 10, EPA has been working with the Tribes to identify the primary sources of air pollution emissions on Indian reservations, and evaluating the CAA statutory authorities available to regulate those sources. EPA's evaluations have identified concerns with unregulated particulate matter, such as from open burning for agricultural purposes. A significant number of industrial major stationary sources subject to Title V of the CAA are located on these Indian reservations. By means of these rules, EPA would impose regulatory requirements on industry and residents on reservations, similar to those imposed by the rules of State and local air agencies in the surrounding areas. EPA believes that it is appropriate to focus initially on the sources in Region 10 that have been identified as ones that may cause or contribute to prevalent air quality problems on reservations and in shared airsheds of the Pacific Northwest. Aside from existing national emissions standards and requirements, the FIPs proposed in this rule are the first building blocks under the CAA to address such emissions.

In the Clean Air Act (42 U.S.C. 7401 to 7671q), Congress gave EPA broad authority to protect air resources throughout the nation, including the air resources on Indian reservations and other areas of Indian country. Based on the authority of section 301 of the CAA, EPA promulgated a final rule entitled “Indian Tribes: Air Quality Planning and Management,” on February 12, 1998, 63 FR 7254. The rule, generally referred to as the “Tribal Authority Rule” or “TAR,” establishes procedures for EPA determinations on Tribal eligibility applications for “treatment in the same manner as a State” (commonly referred to as “TAS”) under CAA authorities for Indian reservations and for non-reservation areas within a Tribe's jurisdiction. The U.S. Court of Appeals for the District of Columbia Circuit recently upheld the TAR in Arizona Public Service Co. v. EPA, 211 F.3d 1280 (D.C. Cir. 2000), cert. denied 121 S. Ct. 1600 (2001).

In the TAR, EPA explained that it intends to use its authority under the CAA “to protect air quality throughout Indian country” ¹ by directly implementing the CAA's requirements where Tribes have chosen not to develop or implement a CAA program. EPA wrote in the final rule at 40 CFR 49.11 that it would “promulgate without unreasonable delay such Federal implementation plan provisions as are necessary or appropriate to protect air quality” for these areas.

¹ “Indian country” is defined under 18 U.S.C. 1151 as: (1) All land within the limits of any Indian reservation under the jurisdication of the United States Government, notwithstanding the issuance of any patent, and including rights-of-way running through the reservation, (2) all dependent Indian communities within the borders of the United States, whether within the original or subsequently acquired territory thereof, and whether within or without the limits of a State, and (3) all Indian allotments, the Indian titles which have not been extinguished, including rights-of-way running through the same. Under this definition, EPA treats as reservations trust lands validly set aside for the use of a Tribe even if the trust lands have not been formally designated as a reservation.

In order to further this commitment to protect air quality, EPA is proposing rules for Indian reservations in Idaho, Oregon, and Washington.² In exercising its authority under sections 301(a) and 301(d)(4) of the CAA and 40 CFR 49.11(a) to promulgate such FIP provisions as are necessary or appropriate to protect air quality in Indian country, EPA has stated that it will carry out this authority in a prioritized way, beginning with sources that pose the greatest threat to public health and the environment. 64 FR at 8255. The FIPs proposed today are the first building block under the CAA to address the most prevalent gaps identified to date on reservations in the Pacific Northwest. EPA will continue to evaluate air quality conditions and the sources that cause or contribute to the degradation of air quality, and expects to promulgate additional FIP provisions, in consultation with Tribes, including Tribes that are developing TIPs. Thus, EPA views these FIP provisions as a first step towards establishing a complete plan for maintaining the NAAQS that, together with approved TIPs, would meet the goals of section 110(a) of the CAA.

² EPA is not proposing at this time to establish rules for Indian country areas in Alaska, and will continue to evaluate the need and appropriateness of air quality rules there in consultation with the Federally recognized Tribes in Alaska. EPA is working with the U.S. Bureau of Indian Affairs (BIA) to complete the mapping of the Indian country in Alaska. Once the extent and specific locations of the Indian country is better known, air quality characterization and subsequent assessment of the needs can be initiated in consultation with the affected Tribal governments. EPA anticipates that conditions and needs in Alaska may warrant a different array of requirements and provisions than are included in these proposed FIPs.

After consulting with the Tribes in Idaho, Oregon, and Washington, EPA Region 10 is concerned that there is currently a gap in air quality requirements in these areas under the CAA. While many Tribes in Region 10 are in the process of developing air quality management programs, EPA Region 10 has approved only one Tribe, the Shoshone-Bannock Tribes of the Fort Hall Reservation in Idaho, to assume certain CAA authorities. Furthermore, States generally lack the authority to regulate air quality in Indian country. See California v. Cabazon Band of Mission Indians, 480 U.S. 202, 216 and n.18 (1987); see also HRI v. EPA, 198 F.3d 1224, 1242 (10th Cir. 2000), Montana v. EPA, 137 F.3d 1135 (9th Cir. 1998), cert. denied 525 U.S. 921 (1998). These proposed rules, as described below, are intended to fill the gap in current regulations until such time as individual Tribes develop and implement approved TIPs.

As discussed in greater detail below, EPA believes that in light of the particular air quality issues generally present on reservations in the Pacific Northwest, it is appropriate to establish each of the air quality rules for each reservation that are proposed today. These rules would regulate activities, pollutants, and sources by supplementing the existing Federal regulatory programs such as the Prevention of Significant Deterioration (PSD), National Emission Standards for Hazardous Air Pollutants (NESHAP), and New Source Performance Standards (NSPS) programs. These proposed rules would provide additional regulatory tools for EPA to use in implementing the CAA on Indian reservations. EPA has adequate enforcement authority under section 113 of the CAA to ensure compliance with the requirements that are proposed.

In Region 10, EPA is continuing to identify the primary sources of air pollution emissions on Indian reservations, and evaluating the CAA statutory authorities available to regulate those sources pending submission of a TIP by a Tribe and approval by EPA. This information is assisting EPA in determining, in consultation with affected Indian Tribes, the activities and sources of air pollution that threaten air resources. EPA believes that it is appropriate to focus its efforts to develop FIPs initially on the sources that may cause or contribute to air quality problems that have been identified.

EPA's evaluations and information from affected Indian Tribes identified concerns with pollution from unregulated sources of particulate matter. Examples of categories of sources of air pollution not currently regulated include emissions from open burning and fugitive dust. Agricultural burning has been identified as a source of uncontrolled particulate matter that if not properly regulated can endanger people's health and safety, as well as cause other environmental impacts such as regional haze. EPA Region 10 is working at a regional level in partnership with States, Tribes, local governments, growers, and citizen groups to support and strengthen tools and programs for addressing particulate matter, including the development of appropriate regulatory controls in each jurisdiction. EPA also is identifying the industrial and commercial sources of emissions that are not fully regulated. There are at least 11 facilities on these reservations that meet the definition of major source, under the Federal Operating Permits provisions in Title V of the CAA. Most of these facilities are in the forest products industry, that can emit plumes of particulate matter at levels that should be controlled. Industrial facilities such as these also use fuels containing sulfur that can cause excessive concentrations of ground-level sulfur dioxide if not properly controlled. Regulating these sources is appropriate in order to protect air quality from the potential for significant deterioration caused by the release of particulate matter and sulfur dioxide. Particulate matter and sulfur dioxide are regulated by National Ambient Air Quality Standards (NAAQS) under section 109 of the CAA. A number of rules proposed today would control emissions of particulate matter and sulfur dioxide to the atmosphere as appropriate for the purpose of maintaining or attaining the NAAQS. Along with the protections these Federal air quality rules would provide, the rules can also assist Tribes in developing air quality management programs by using the Federal rules as templates in drafting TIPs.

It is important to note that these proposed rules are analogous to, but different from, the types of rules generally approved by EPA into State Implementation Plans (SIPs). The rules proposed today represent an average program, and so are more stringent than some SIP rules and less stringent than others. However, while these would be Federal CAA rules, they would not change the minimum criteria in 40 CFR Part 51, the CAA, or the TAR for approval of rules in either a SIP or a TIP.³ EPA encourages Tribes to develop individual TIPs and will work with Tribes seeking to replace these rules with TIPs. These regulations would apply until they are replaced by Tribal regulations in an approved TIP.

³ EPA has used the planning requirements applicable to States as a guide in developing these FIPs.

EPA Region 10 has actively consulted with and encouraged Tribes to assist EPA in developing these proposed regulations to ensure that Tribal considerations are addressed. EPA Region 10 staff has worked with, and will continue to work with, individual Tribes to assess air quality problems, and develop, in consultation with the Tribes, Tribal or Federal strategies for addressing these problems. For example, EPA Region 10 has worked with Tribes to develop emission inventories and air monitoring studies where appropriate, to determine the nature of air quality problems, and to identify a range of potential control strategies. During the development of the rules proposed here, EPA Region 10 staff consulted with affected Tribes in a series of group and individual meetings that are described in detail below in Section V.G, which discusses compliance with Executive Order 13175: Consultation and Coordination with Indian Tribal Governments.

B. Areas and Sources Covered by the Rules

These proposed rules would apply to any person who owns or operates an air pollution source within the exterior boundaries of an Indian reservation in Idaho, Oregon, or Washington, as set forth in 40 CFR Part 49, Subpart M Implementation Plans for Tribes—Region X. Further, as discussed in the TAR at 63 FR 7257-58, EPA interprets the term “reservation” consistent with U.S. Supreme Court case law to include trust lands that have been validly set apart for the use of a Tribe even though the land has not been formally designated as a reservation. EPA is not proposing to establish rules for all of Indian country, e.g., these rules would not apply to allotment lands that are held in trust for individual Indians that are located outside the exterior boundaries of a reservation or for dependent Indian communities. Based on consultations, EPA is not aware of any sources on those types of land outside of reservations to which these rules need to apply. This proposed rulemaking is a step in addressing known air quality concerns on reservations. If in the future, EPA becomes aware of air quality concerns for Indian country outside of reservations, EPA may propose other requirements that are deemed necessary or appropriate.

This proposal includes: (1) Rules of general applicability that would regulate emissions of particulate matter and sulfur dioxide from combustion and process sources, visible emissions and fugitive dust; and (2) additional proposed rules that would control particulate matter emissions from specific types of equipment used to burn wood wastes, sometimes known as “wigwam burners,” and certain wood product industry sources. The proposed rules would also regulate open burning, and allow the Regional Administrator to impose restrictions on emissions during periods of impaired air quality or when emissions from sources are detrimental to human health and welfare. Finally, the proposed rules would require registration of many stationary sources of air pollution and would provide the opportunity for stationary sources with low emission levels to obtain potential to emit limits in operating permits. The specific rules that would apply to sources on a particular reservation are specified in today's proposed rule, at 40 CFR part 49, Subpart M.

EPA will decide whether a source or activity located on an Indian reservation is subject to the provisions of these rules as made applicable in the implementation plan for that reservation. Today's proposed rules include procedures for sources to obtain individual determinations from EPA as to whether they are subject to these regulatory requirements. A source that is uncertain regarding the applicability of a rule may submit a written request to EPA for an applicability determination. In response to a request for an applicability determination, EPA will issue a written determination stating whether the source or activity is subject to a particular Federal air quality rule. In most cases, determining whether the source or activity is on an Indian reservation will be straightforward and non-controversial. For example, in most cases EPA and the source will be able to easily determine whether a source is located within the exterior boundaries of a reservation, including Tribal trust lands. In the rarer, more complex factual cases, EPA will work with the U.S. Department of the Interior, Tribes, and stakeholders to assess the reservation status of the location. After EPA has reviewed the relevant materials, the Agency will send a letter to the source stating EPA's belief whether the source is located within the boundaries of a reservation. For sources or activities located on Indian reservations, the source or activity would be expected to comply with the applicable requirements of these FIPs.

C. Organization of the Rules

EPA has structured these proposed regulations consistent with the “modular” approach described in the TAR to allow for both variation among reservations and to facilitate the development and approval of TIPs to replace all or part of these Federal regulations. EPA is using this modular approach to propose a full set of regulations, and each regulation in today's proposal is effectively a “stand-alone” rule. Each FIP is tailored and is being proposed on a reservation-by-reservation basis. For example, the proposed regulation for particulate matter emissions from wood products industry sources would only be promulgated for reservations that have existing wood products industry sources or for those where such sources might be expected to locate. Similarly, the proposed regulation for forestry burning permits would only be promulgated for reservations with forestry lands where the use of fire as a forest management tool is prevalent.

EPA expects that many Tribes will develop their own air quality programs. However, Tribes are not required to adopt and implement all CAA programs at once. Under section 49.7(c) of the TAR, Tribes that meet the eligibility criteria for TAS have the option of developing severable elements of a TIP and submitting those elements to EPA for approval under the CAA. The modular approach used in these proposed regulations would allow EPA to approve a Tribal rule covering a particular source type or activity and revoke the EPA regulation, while still leaving in place the EPA regulations for other sources and/or activities. For example, a Tribe may initially want to adopt and implement Tribal rules for open burning and rules for the registration of air pollution sources, while EPA would continue to regulate industrial emissions under the FIP for that reservation. This modular approach would allow for an easy incremental transition from Federal regulations to EPA-approved Tribal rules.

While most of the rules in the FIPs constitute a “base program” that EPA is proposing to put in place in all reservations in Idaho, Oregon, and Washington, some of the proposed FIPs would include rules where specific needs exist or where EPA determines, in consultation with the relevant Tribe, that a more stringent provision than would otherwise apply is appropriate. These “additional rules” are being proposed only for certain reservations. For example, EPA is proposing rules specific to particular kinds of woodwaste burners and certain wood products industries that will require better controls for particulate matter emissions than the general limits for visible emissions and particulate matter. These regulations are proposed for reservations where such sources exist and where EPA determines, in consultation with the Tribe, that more stringent provisions are appropriate. The following table identifies the rules summarized below in section III.B that would be included in the “Base Program” and the “Additional Rules” that may be included as appropriate.

Table 1.—Proposed Base Program and Additional Rules
Rule # | Title | Base program | Additional rules
Section 49.123 | General provisions | X
Section 49.124 | Rule for limiting visible emissions | X
Section 49.125 | Rule for limiting the emissions of particulate matter | X
Section 49.126 | Rule for limiting fugitive particulate matter emissions | X
Section 49.127 | Rule for woodwaste burners |  | X
Section 49.128 | Rule for limiting particulate matter emissions from wood products industry sources |  | X
Section 49.129 | Rule for limiting emissions of sulfur dioxide | X
Section 49.130 | Rule for limiting sulfur in fuels | X
Section 49.131 | General rule for open burning | X
Section 49.132 | Rule for open burning permits |  | X
Section 49.133 | Rule for agricultural burning permits |  | X
Section 49.134 | Rule for forestry burning permits |  | X
Section 49.135 or | Rule for emissions detrimental to human health and welfare or | X
Section 49.136 | Tribal Alternative Rule |  | X
| Rule for emissions detrimental to persons or property, cultural or traditional resources
Section 49.137 | Rule for air pollution episodes | X
Section 49.138 | Rule for the registration of air pollution sources and the reporting of emissions | X
Section 49.139 | Rule for non-Title V operating permits | X

The modular approach provides flexibility to promulgate provisions where EPA will have adequate resources to carry out the FIP, including situations where Tribes assist EPA in implementation of FIP provisions. For certain rules that are best administered at a local level, EPA is proposing to establish requirements for a reservation and to delegate to the affected Tribal government the authority to administer that particular program, as discussed below. A delegation agreement will authorize a Tribe, with Federal assistance, to administer the Federal program but refer unresolved noncompliance matters to EPA for Federal enforcement. This approach allows EPA to establish requirements tailored to local needs that can be effectively implemented through a partnership between EPA and the Tribe.

With respect to the rule that would regulate emissions detrimental to persons and property, EPA is proposing two versions. One version of the detrimental emissions regulation, proposed as § 49.135, would allow EPA to address situations where emissions would be injurious to human health and welfare. The Tribal alternative rule, § 49.136, would provide additional protection for situations where emissions would unreasonably interfere with the enjoyment of life or property, or would damage unique Tribal cultural or traditional resources. The second, more inclusive regulation (§ 49.136) is proposed for reservations where EPA, based on a request from the relevant Tribe, has considered and determined that regulatory authority to address such situations is appropriate and will generally include agreements with the Tribe to assist EPA in implementing the programs. EPA requests comment on this proposed determination. EPA developed § 49.136 to address the Tribes' unique concern regarding the holistic concept of health and welfare, which was emphasized by Tribes during consultation. In this rulemaking, EPA is proposing that § 49.136 will apply only on two reservations, the Nez Perce Reservation and the Umatilla Indian Reservation, as shown in Table 2. Section 49.135 will apply on all other reservations in Idaho, Oregon, and Washington. EPA is seeking comment on this proposed approach. If EPA does not finalize § 49.136, § 49.135 will be promulgated for the Nez Perce and Umatilla Indian Reservations.

Finally, EPA is proposing three additional open burning permit programs: general open burning (§ 49.132), agricultural open burning (§ 49.133), and forestry open burning (§ 49.134). These rules differ from the general open burning rule proposed in § 49.131 by requiring that any person who conducts a regulated open burn to obtain and comply with a permit. These permit programs are proposed only for reservations where EPA, in consultation with the relevant Tribe, has determined that the programs are appropriate and will generally include delegations of authority from EPA to the Tribe for implementation of the Federal rules upon promulgation, as discussed below.

D. Delegation

The modular approach will allow Tribes that are building air quality programs to gain experience by assisting with implementation of the Federal rules before they decide to adopt their own rules and regulations. EPA recognizes that a Tribe may choose not to develop a Tribal air program under Tribal law for approval under the TAR, but may still like to assist EPA in implementing the Federal air quality requirements for its reservation and to build its capacity in managing an air quality program. The rule proposed here at § 49.122 provides Tribal governments the alternative of seeking delegation from EPA of the authority to administer all or some of the Federal rules that have been promulgated for their reservation. These rules would allow EPA to delegate distinct and severable Federal regulations to a Tribe for implementation, without requiring a Tribe to take on all aspects of the Federal air regulations. For example, if a Tribe wished to implement the open burning permit program, or run the source registration program, EPA could delegate responsibility to the Tribe for just those regulations. The process EPA would follow to delegate the administration of a Federal program to a Tribal government is similar to the process EPA follows to delegate programs to State governments. As part of the process for delegating the authority to administer one or more of the rules, the Tribe and EPA would enter into an agreement that specifies how the governments would work together for the effective implementation of the particular CAA program(s) at issue on that reservation.

The delegation from EPA to a Tribe to implement a specific Federal air rule proposed in these rules is to be distinguished from EPA's interpretation that the CAA is a delegation of Federal authority from Congress to Tribes, as described in the TAR at 63 FR 7254-7259. It is EPA's position that the CAA TAS provision constitutes a statutory delegation of authority to eligible Tribes over their reservations. As described above, the TAR established how EPA can approve Tribal eligibility applications for a Tribe to operate a CAA program under Tribal law. When EPA approves a Tribal eligibility application and approves a TIP, the approved Tribe will manage the approved air quality program under Tribal law, and the approved Tribal program is Federally enforceable. In contrast, the delegation approach proposed in these rules provides for EPA to administratively delegate its own Federal authority to a qualified Tribe to implement specified Federal rules. EPA has well-established processes for delegating its Federal authority to States for administering Federal rules under the CAA, such as for conducting new source review under 40 CFR part 52, at 40 CFR 52.21(u); and for issuing Federal operating permits under 40 CFR part 71, at 40 CFR 71.4(j). With delegated Federal programs, the Federal requirement administered by the delegated Tribe is subject to enforcement by EPA, not the Tribe, under Federal law.

EPA believes that the modular approach will provide the maximum flexibility for EPA and Tribes to work in partnership to ensure that the goals and objectives of the CAA will be met on Indian reservations and to make real the principles set out in the TAR. It will allow EPA and Tribes to jointly manage air quality on Indian reservations through a combination of TIP and FIP elements, and delegations to Tribes of FIP elements. Under this modular approach, Tribes may adopt and submit severable elements of TIPs that replace elements of FIPs while leaving in place FIP provisions that Tribes are not yet willing or able to take on.

II. Basis for Proposed Action

A. EPA's Authority To Promulgate a FIP in Indian Country

EPA's conclusion that CAA jurisdiction over Indian country generally lies with EPA and Federally recognized Indian Tribes leads to the conclusion that a regulatory gap exists with regard to air pollution sources there. EPA is proposing to take an initial step towards remedying this gap with a FIP for each Indian reservation in Idaho, Oregon, and Washington. These FIPs will establish new Federal requirements where no general air pollution control program other than nationally applicable rules is currently in effect.

As described above, the CAA Amendments of 1990 greatly expanded the role of Indian Tribes in implementing the provisions of the CAA in Indian country. Section 301(d) of the CAA authorizes EPA to issue regulations specifying the provisions of the CAA for which Indian Tribes may be treated in the same manner as States. See CAA sections 301(d)(1) and (2). Based on that authority, EPA promulgated the TAR.

In the preamble to the proposed and final TAR, EPA discusses generally the legal basis under the CAA by which EPA and Tribes are authorized to regulate sources of air pollution in Indian country. EPA concluded that the CAA constitutes a statutory delegation of Federal authority to eligible Indian Tribes over all sources on their reservations. Under the CAA, Tribes are allowed to develop air programs covering their reservations and non-reservation areas within their jurisdiction for submission to EPA for approval in the same manner as States. 63 FR 7254-7259; 59 FR 43958-43960.

EPA also concluded that the CAA authorizes EPA to protect air quality throughout Indian country, including on fee lands, until a Tribe is approved for TAS and Tribal programs are approved. See 63 FR 7262; 59 FR 43960-43961 (citing to CAA sections 101(b)(1), 301(a), and 301(d)); see also Federal Operating Permits Program, Final Rule, 64 FR 8251-8254. EPA decided that in areas of Indian country where no Tribal program has been explicitly approved by EPA, a gap exists in air quality requirements under the CAA that EPA is authorized to fill. In fact, in promulgating the TAR, EPA specifically stated that, pursuant to the discretionary authority explicitly granted to EPA under sections 301(a) and 301(d)(4) of the CAA, EPA:

shall promulgate without unreasonable delay such Federal implementation plan provisions as are necessary or appropriate to protect air quality, consistent with the provisions of sections 301(a) and 301(d)(4), if a Tribe does not submit a Tribal implementation plan meeting the completeness criteria of 40 CFR Part 51, Appendix V, or does not receive EPA approval of a submitted Tribal implementation plan. 63 FR 7273 (codified at 40 CFR 49.11(a)).⁴

⁴ In the preamble to the final TAR, EPA explained that it believed it was inappropriate to treat Tribes in the same manner as States with respect to section 110(c) of the CAA, that directs EPA to promulgate a FIP within two years after EPA finds a State has failed to submit a complete State plan or within two years after EPA disapproval of a State plan. Although EPA is not required to promulgate a FIP within the two-year period for Tribes, EPA promulgated 40 CFR 49.11(a) to clarify that EPA will continue to be subject to the basic requirement to issue any necessary or appropriate FIP provisions for affected Tribal areas within a reasonable time. See 63 FR 7264-7265.

It is EPA's policy to aid Tribes in developing comprehensive and effective air quality management programs by providing technical and other assistance to them. EPA recognizes, however, that just as it required many years to develop the current State and Federal programs to cover State areas, it will also require time to develop Tribal and Federal programs to cover reservations and other areas of Indian country. 59 FR 43961.

Many of the Tribal governments in Idaho, Oregon, and Washington have expressed a strong interest in seeking authority under the TAR to regulate sources of air pollution located on their reservations and in non-reservation areas under Tribal jurisdiction pursuant to the CAA. Based on discussions with the Tribes, however, EPA believes that it will be some time before most Tribes will be ready to seek authority under the TAR to assume CAA planning and regulatory responsibilities and that, when they do, the Tribes are likely to build their capacity and seek authority for the various CAA programs over time, rather than all at once. Through government-to-government consultation between EPA and Tribal governments, the Tribes have advised EPA that they support EPA's efforts to impose such controls on Indian reservation air pollution sources as are necessary or appropriate to protect air quality in the interim.

Therefore, in these proposed FIPs, EPA is exercising its authority under sections 301(a) and 301(d)(4) of the CAA and 40 CFR 49.11(a) to promulgate FIPs in order to remedy an existing regulatory gap under the CAA with respect to Indian reservations located in the States of Idaho, Oregon, and Washington. Although many facilities in these areas have historically followed State, regional, and local government air quality programs, with only one exception EPA has never approved those governments to exercise regulatory authority under the CAA on any Indian reservations.⁵ It is EPA's position that absent an explicit finding of jurisdiction and approval in Indian country, those governments lack authority under the CAA over the sources or their owners or operators for compliance or enforcement purposes. Given the longstanding air quality concerns in some areas and the need to establish requirements in all areas to maintain CAA standards, EPA believes that the proposed FIP provisions are appropriate to protect air quality on the identified reservations.

⁵ For purposes of approving the Washington Department of Ecology (WDOE) operating permits program under 40 CFR Part 70, EPA explicitly found that WDOE demonstrated that the Washington Indian Puyallup Land Claims Settlement Act, 25 U.S.C. 1773, gives explicit authority to State and local governments to administer their environmental laws on all non-trust lands within the 1873 Survey Area of the Puyallup Reservation in Tacoma, Washington.

B. Relation to Tribal Authority Rule

The TAR provides the framework for Tribes to obtain authority to administer Federally-approved and Federally-enforceable programs under the CAA. See 59 FR 43956, August 25, 1994 (proposed rule) and 63 FR 7254, February 12, 1998 (final rule). Thus, each Federally recognized Indian Tribe now has the option of assuming responsibility for the development and implementation of Federally-enforceable air quality programs under the CAA by seeking EPA approval of a Tribal air program established under Tribal law, i.e., a TIP. Until a Federally-approved implementation plan that covers a source is in place, however, EPA has the authority to regulate the source under the CAA. The regulations proposed here also offer another alternative. Specifically, Tribes in Idaho, Oregon, or Washington may seek delegation from EPA to assist EPA in implementing a Federal regulation (FIP).

III. Summary of FIP Provisions

A. Origin of the Rules

EPA's intention is to promulgate Federal regulations that reflect an important initial step to fill the “regulatory gap” on Indian reservations in Idaho, Oregon, and Washington. As described above, EPA has been evaluating, in consultation with affected Indian Tribes, the activities and sources of air pollution that threaten air resources. EPA believes it is appropriate to focus its efforts initially on developing FIPs for the most prevalent sources that cause or contribute to identified air quality problems.

However, EPA does not intend, nor does it expect, these gap-filling regulations to impose significantly different regulatory burdens upon industry or residents within reservations than those imposed by the rules of State and local air agencies in the surrounding areas. This approach is intended to formally “level the playing field”. In other words, EPA intends that people living within reservation boundaries receive equivalent air quality protection, and that emissions from sources located within reservations are controlled to levels similar to those of sources located outside the reservations.

To do this, EPA Region 10 first determined what types of air pollution sources and pollutant-emitting activities were most prevalent on Indian reservations in Idaho, Oregon, and Washington. Then EPA Region 10 reviewed the State and local rules from air pollution agencies throughout the western United States that are included in SIPs that EPA has approved for those types of sources and activities. The gap-filling rules proposed here are generally based upon the aspects of these State and local rules most relevant to the air polluting activities on reservations in the Pacific Northwest, and follow a level of control of a typical air quality control program. The proposed regulations are not as restrictive as the most stringent State and local rules for the same class of sources or activities; likewise, they are not as lenient as the least stringent of the State and local rules. Nor do the proposed regulations look like State or local rules because they use the Federal regulatory structure and are written in a “plain language” format in accordance with the Plain Language Executive Memorandum, dated June 1, 1998. EPA invites your comments on ways to make these proposed rules easier to understand. Included in the docket for this proposed rulemaking are copies of all the State and local rules that EPA considered in this process, as well as a technical support document with summary tables showing the State and local agency levels of control as compared with the proposed regulations and a description of why EPA believes the proposed rules are appropriate.

Each of the rules proposed as part of the Base Program to be applicable on all reservations in Idaho, Oregon and Washington either addresses particular sources, activities or pollutants identified by EPA as the most prevalent and in need of regional regulation or implements an important structural aspect of the CAA regulatory scheme for Indian reservations. A number of the Base Program rules are proposed in order to protect air quality from the potential for significant deterioration caused by the release of particulate matter, which is regulated by a NAAQS under section 109 of the CAA (see § 49.124 Rule limiting visible emissions; § 49.125 Rule for limiting the emissions of particulate matter; § 49.126 Rule for limiting fugitive particulate matter emissions; and § 49.129 General rule for open burning). Two Base Program rules would protect air quality from the potential for significant deterioration caused by the release of sulfur dioxide, which is regulated by a NAAQS under section 109 of the CAA. These rules would limit the amount of sulfur dioxide emitted to the atmosphere from certain air pollution sources in order to control ground-level concentrations of sulfur dioxide (see § 49.130 Rule for limiting emissions of sulfur dioxide and § 49.131 Rule for limiting sulfur in fuels). The Base Program would also include a number of provisions to establish the infrastructure of a CAA regulatory program. Provisions at § 49.122 describe how EPA would process delegation requests from a Tribe; § 49.123 would define the terms that are used throughout the FIPs; § 49.135 would establish a process for EPA to limit emissions that are detrimental to human health and welfare; § 49.137 would establish the measures EPA could take to address excessive buildup of certain air pollutants during periods of stagnant air; § 49.138 would provide for the registration of air pollution sources and reporting of emissions so that EPA can maintain a current and accurate record of air pollution sources within an Indian reservation; and § 49.139 would set up a permitting program for non-Title V sources that would establish federally-enforceable requirements.

Further, EPA is proposing certain Additional Rules to be applicable on specified reservations where EPA has determined, in consultation with the relevant Tribe, that such additional regulatory measures are appropriate. During the course of its consultation with Tribes and analysis of regulatory needs, EPA attempted to identify instances where specific sources or pollution control needs beyond those addressed in the Base Program exist on particular reservations. For example, certain types of wood products industries, or certain practices of agricultural or forestry burning, may be prevalent on particular reservations and may be important contributors to air pollution concerns. In order to address these concerns, EPA has developed the current set of Additional Rules. As an initial step, EPA is proposing to promulgate some or all of these rules for those reservations where relevant sources have been identified as prevalent and where particular Tribes have indicated an interest in the additional regulation. For example, at the request of specific Tribes, EPA considered and is now proposing to promulgate a rule that would provide additional protections against emissions detrimental to their unique Tribal cultural or traditional resources. EPA considers this approach an appropriate first step in prioritizing its efforts to address these concerns consistent with CAA responsibilities. EPA anticipates that relevant Tribes may choose to assist in the implementation of the Additional Rules through the delegation process described above. EPA is continuing to consult with Tribes regarding sources of air pollution and air regulatory needs on their reservations and may propose some or all of the Additional Rules, or may propose further additional rules, for reservations as needs and priorities are identified. As described in section I.C, the current package of Additional Rules includes § 49.127 Rule for woodwaste burners; § 49.128 Rule for limiting particulate matter emissions from wood products industry sources; § 49.132 Rule for open burning permits, § 49.133 Rule for agricultural burning permits, § 49.134 Rule for forestry burning permits; and § 49.136 Rule for emissions detrimental to persons or property, cultural or traditional resources. With this proposal, EPA is seeking comment on these Additional Rules, whether the criteria EPA used for selecting the Additional Rules are appropriate, and whether EPA has appropriately applied those criteria in this proposal.

In developing these regulations EPA also had two other objectives in mind, in addition to filling the regulatory gap. First, EPA is proposing only those regulations that it believes it has the resources to implement and enforce. To the extent practicable, these regulations minimize the implementation burdens upon EPA and the regulated community while establishing requirements that are unambiguous and enforceable. Second, EPA anticipates that these regulations can serve as models for Tribes as they develop their own air quality programs. To that end, the regulations are designed so they can be implemented by a small air pollution agency, and can be readily delegated to a Tribe for implementation.

B. Rule Summaries

These proposed rules would establish emission limitations and other requirements for air pollution sources located within Indian reservations in Idaho, Oregon, and Washington to ensure a basic level of air pollution control that protects public health and welfare. The following paragraphs summarize each of the proposed rules. The actual rule requirements being proposed are set forth in 40 CFR part 49, subpart C.

Section 49.122—Delegation of authority to a Tribe. This section would provide a mechanism for delegating to a Tribe, for administration, all or a portion of the FIP rules that apply within a reservation. It sets out the process a Tribe must follow to request delegation, how that delegation will be accomplished, and how the public and regulated sources will be informed of the delegation. The Regional Administrator will not delegate authority to a Tribe for areas for which EPA believes the Indian reservation status is in question. This section would not affect the requirements established under the TAR for Tribal applications to administer EPA-approved Tribal CAA programs or requirements for delegation of other EPA air programs such as Part 71 operating permits or PSD permits under 40 CFR 52.21.

Section 49.123—General provisions. This section includes definitions of the terms used in these rules as well as general provisions regarding requirements for emission testing, monitoring, recordkeeping, reporting, the use of credible evidence in compliance certifications and for establishing violations, and the incorporation by reference of the American Society for Testing and Materials Methods referenced in this rulemaking.

Section 49.124—Visible emissions. Section 49.124 would restrict visible emissions from air pollution sources to 20% opacity, averaged over 6 consecutive minutes, as measured by EPA Method 9. This rule would not apply to certain sources, such as: Open burning; agricultural activities; non-commercial smoke houses; sweat houses or lodges; smudge pots; furnaces and boilers used exclusively to heat residential buildings with four or fewer units; fugitive dust from public roads owned or maintained by any Federal, Tribal, State or local government; and emissions from fuel combustion in mobile sources. The visible emissions from an oil-fired boiler or solid fuel-fired boiler that continuously measures opacity with a continuous opacity monitoring system (COMS) may exceed the 20% opacity limit during start-up, soot blowing, and grate cleaning for a single period of up to 15 minutes in any 8 consecutive hours, but must not exceed 60% opacity at any time.

All of the State and local air agency rules that EPA reviewed contain a 20% opacity limit. Most of these visible emissions rules allow a 3-minute exception over a 60-minute period. However, EPA decided to use the method with an average opacity over a 6-minute interval to be consistent with the only Federally promulgated opacity measurement method, which is EPA Method 9, found at 40 CFR Part 60, Appendix A. This method is used to determine compliance with Federal New Source Performance Standards for numerous categories of industrial sources. This rule does not require any person to conduct Method 9 opacity readings or to install a COMS unless specifically required by the Regional Administrator in an information request pursuant to section 114 of the Act, a permit to construct, or permit to operate.

Section 49.125—Particulate matter. Particulate matter emissions from combustion (except for wood-fired boilers) and process sources would be limited to an average of 0.23 grams per dry standard cubic meter (0.1 grains per dry standard cubic foot), corrected to 7% oxygen (for combustion sources), during any 3-hour period. Particulate matter emissions from wood-fired boilers would be limited to an average of 0.46 grams per dry standard cubic meter (0.2 grains per dry standard cubic foot), corrected to 7% oxygen, during any 3-hour period. Woodwaste burners, furnaces, and boilers used exclusively for space heating with a rated heat input capacity of less than 400,000 British thermal units (Btu) per hour, non-commercial smoke houses, sweat houses or lodges, and mobile sources would be exempt from this rule.

For combustion sources and wood-fired boilers, the particulate matter limit in this rule is the same as the limit in most of the State and local agency air rules that EPA reviewed. For process sources, many State and local air agencies employ process weight rate tables in their rules to limit particulate matter. EPA is proposing to use a concentration limit rather than a process weight rate table for this rule to be consistent with the EPA method for measuring particulate matter, which is EPA Method 5, found at 40 CFR Part 60, Appendix A. The particulate matter limit for process sources in this rule equals the control of all but one of the concentration-based rules that EPA reviewed. This rule does not require any person to conduct a Method 5 source test unless specifically required by the Regional Administrator in an information request pursuant to section 114 of the Act, a permit to construct, or permit to operate.

Section 49.126—Fugitive particulate matter. The owner or operator of any source of fugitive particulate matter emissions would be required to take all reasonable precautions to prevent fugitive particulate matter emissions and to maintain and operate the source to minimize these emissions. A person subject to this rule would be required to periodically survey the air pollution source to determine if there are sources of fugitive particulate matter emissions, determine and document in a written plan the reasonable precautions that would be taken to prevent fugitive particulate matter emissions, and then implement the plan. This rule would not apply to activities associated with single-family residences or residential buildings with four or fewer dwelling units, agricultural activities, or public roads owned or maintained by any Federal, Tribal, State, or local government.

All but one of the State and local air agency rules that EPA reviewed have rules for controlling fugitive particulate matter. All of these rules contain reasonable precautions provisions similar to the ones in § 49.126. A few rules control fugitive emissions beyond reasonable precautions, but these rules are primarily for nonattainment areas so EPA believes they are not appropriate here because the reservations at issue are generally not designated nonattainment for PM10.

Section 49.127—Woodwaste burners. Section 49.127 would phase out the operation of woodwaste burners (commonly known as wigwam or teepee burners). In the interim, visible emissions from a woodwaste burner would not be allowed to exceed 20% opacity, averaged over 6 consecutive minutes, as measured by EPA Method 9, and only wood waste generated onsite could be burned or disposed of in the woodwaste burner. The owner or operator would be required to submit a plan for shutting down the woodwaste burner to EPA within 180 days after the effective date of these rules and to shut down and dismantle the woodwaste burner by no later than 2 years after the effective date of these rules. Sources could apply to EPA for an extension of the 2-year deadline if there is no reasonably available alternative method of disposal for the wood waste.

EPA recognizes that on some reservations particulate matter from woodwaste burners can contribute to air quality deterioration. This section would be promulgated in Part 49 Subpart M on reservations only where EPA finds, in consultation with the relevant Tribe, that it is appropriate to establish this requirement in order to control air pollution. This section is designed to protect air quality from the potential for significant deterioration caused by the release of particulate matter, which is regulated by a NAAQS under section 109 of the CAA. This rule would limit the amount of particulate matter emitted to the atmosphere. EPA will base the determination of whether this rule is appropriate for a particular reservation on a number of factors, including the prevalence of these sources on the reservation, the significance of the resulting pollution on air quality in the area, and the absence of Tribal laws to control the pollution. In this rulemaking, EPA is proposing that § 49.127 will apply only on the Nez Perce Reservation and the Colville Indian Reservation, as shown in Table 2.

Most woodwaste burners under programs of State and local air agencies have already been shut down. All but one of the State and local air agency rules that control the woodwaste burners that still exist have a 20% opacity limit. Most of these rules use an opacity measurement method with a 3-minute exception over a 60-minute period. However, EPA is proposing use of the method with an average opacity over a 6-minute interval to be consistent with the only Federally promulgated opacity measurement method, which is EPA Method 9, found at 40 CFR Part 60, Appendix A. This method is used to determine compliance with Federal New Source Performance Standards for numerous categories of industrial sources. This rule does not require any person to conduct Method 9 opacity readings unless specifically required by the Regional Administrator in an information request pursuant to section 114 of the Act, a permit to construct, or permit to operate.

Section 49.128—Particulate matter emissions from wood products industry sources. Section 49.128 would apply to any person who owns or operates any of the following wood products industry sources: veneer manufacturing operations, plywood manufacturing operations, particleboard manufacturing operations, or hardboard manufacturing operations. This section would impose limits on the amount of particulate matter that could be emitted from such sources, in addition to the particulate matter limits for combustion and process sources in § 49.125. The reference method for determining compliance with the particulate matter limits is EPA Method 202, found at 40 CFR part 51, Appendix M. This rule does not require any person to conduct a Method 202 source test unless specifically required by the Regional Administrator in an information request pursuant to section 114 of the Act, a permit to construct, or permit to operate.

In Part 49 Subpart M, EPA is proposing this requirement on reservations where EPA finds, in consultation with the relevant Tribe, that it is appropriate to establish this requirement in order to control air pollution. This section is appropriate to protect air quality from the potential for significant deterioration caused by the release of particulate matter, which is regulated by a NAAQS under section 109 of the CAA. This rule would limit the amount of particulate matter emitted to the atmosphere from those specific wood products industry sources. EPA will base this determination on a number of factors, including the prevalence of these sources on the reservation, the significance of the resulting pollution on air quality in the area, and the absence of Tribal laws to control the pollution. In this rulemaking, EPA is proposing that § 49.128 will apply only on the Nez Perce Reservation and the Colville Indian Reservation, as shown in Table 2.

One State has both State-wide rules and area-specific rules to control particulate matter emissions from the wood products industry. The limits that EPA is proposing in this rule closely resembles the area-specific rules for that State.

Section 49.129—Sulfur dioxide. This rule would restrict sulfur dioxide emissions from combustion and process sources to no more than an average of 500 parts per million by volume, on a dry basis, and corrected to 7% oxygen (for combustion sources), during any 3-hour period. Furnaces and boilers used exclusively for space heating with a rated heat input capacity of less than 400,000 Btu per hour and mobile sources would be exempt from this rule.

This rule is appropriate to protect air quality from the potential for significant deterioration caused by the release of sulfur dioxide, which is regulated by a NAAQS under section 109 of the CAA. This section would limit the amount of sulfur dioxide emitted to the atmosphere from certain air pollution sources in order to control ground-level concentrations of sulfur dioxide. All of the concentration-based rules that EPA reviewed have one of two sulfur dioxide concentration limits: 500 ppm averaged over a 3-hour period or 1,000 ppm average over a 1-hour period. EPA is proposing to use the 500 ppm, 3-hour average limit because it does a better job of accounting for the short-term variability in process emissions and in the sulfur content of fuels. The reference methods for determining compliance with the SO2 limits are EPA Methods 6, 6A, 6B, and 6C as specified in the applicability section of each Method. These methods are found at 40 CFR 60, Appendix A. This rule does not require any person to conduct Method 6, 6A, 6B, or 6C source tests or to install a continuous emissions monitoring system (CEMS) unless specifically required by the Regional Administrator in an information request pursuant to section 114 of the Act, a permit to construct, or permit to operate.

Section 49.130—Sulfur content of fuels. This section would apply to any person who sells, distributes, uses, or makes available for use, any fuel oil, coal, solid fuel, or gaseous fuel on Indian reservations. This rule restricts the sulfur content of the previously listed types of fuels. Fuels used exclusively for mobile sources, such as automotive or marine diesel fuel, would be exempt from this rule. A person subject to this rule would be required to demonstrate compliance through recordkeeping and/or continuous monitoring or sampling. Owners or occupants of a single-family residence and the owners or managers of a residential building with four or fewer units are not subject to the sulfur content recordkeeping requirements if the furnace fuel is purchased from a licensed fuel distributor.

This section is appropriate to protect air quality from the potential for significant deterioration caused by the release of sulfur dioxide, which is regulated by a NAAQS under section 109 of the CAA. Fuel combustion sources can emit sulfur dioxide. This section would limit the amount of sulfur in fuels to control the amount of sulfur dioxide emitted to the atmosphere and minimize ground-level concentrations of sulfur dioxide.

The majority of the State and local air agency rules that EPA reviewed contain the same level of control that EPA is proposing for the sulfur content in each type of fuel.

Section 49.131—Open burning. This rule would prohibit certain materials from being open burned, such as: Garbage, dead animals, junked motor vehicles, tires or rubber materials, plastics, asphalt or composition roofing, tar, tarpaper, petroleum products, paints, paper or cardboard other than what is necessary to start a fire, lumber or timbers treated with preservatives, construction debris or demolition waste, pesticides, herbicides, hazardous wastes, or any material other than natural vegetation that normally emits dense smoke or noxious fumes when burned (see rule for a complete list). The following situations would be exempt from certain provisions of this rule: Fires set for cultural or traditional purposes, including fires within structures such as sweat houses or lodges; fires set for recreational purposes, provided that no prohibited materials are burned; the burning of combustible household waste in burn barrels at single-family residences or residential buildings with four or fewer dwelling units; with permission from the Regional Administrator, open outdoor fires used by qualified personnel to train firefighters in the methods of fire suppression and fire fighting techniques, provided that training fires are not allowed to smolder after the training session has terminated; with permission from the Regional Administrator, one open outdoor fire each year to dispose of fireworks and associated packaging materials; and open burning for the disposal of diseased animals or infested material by order of a public health official. All open burning, except for cultural and traditional purposes, would be prohibited under the following circumstances: The Regional Administrator declares a burn ban due to deteriorating air quality; the National Weather Service issues an air stagnation advisory; or the Regional Administrator declares an air pollution alert, air pollution warning, or air pollution emergency. This section also describes the practices a person subject to this rule must follow in conducting an open burn.

This section is appropriate to protect air quality from the potential for significant deterioration caused by the release of particulate matter, which is regulated by a NAAQS under section 109 of the CAA. This rule would limit the amount of particulate matter emitted to the atmosphere. All of the State and local air agency rules that EPA examined have an open burning rule with procedures, conditions, prohibitions and exemptions similar to those in the rule that EPA is proposing.

Section 49.132—Open burning permits. Any person who conducts an open burn would be required to: (1) Apply for and obtain a permit for each open burn; (2) have the permit available on site during the open burn; (3) conduct the open burn in accordance with the terms and conditions of the permit; and (4) comply with the General rule for open burning (§ 49.131) or the EPA-approved Tribal open burning rules in a TIP, as applicable. The following activities are exempt: Fires set for cultural or traditional purposes, including fires within structures such as sweat houses or lodges; fires for recreational purposes, provided that no prohibited materials are burned; forestry or silvicultural burning; agricultural burning; and the burning of combustible household waste in burn barrels at single family residences or residential buildings with four or fewer dwelling units. The Regional Administrator shall take into consideration the size, duration, and location of the proposed open burn, the current and projected air quality conditions, forecasted meteorological conditions, and other scheduled burning activities in the surrounding area in determining whether to issue the permit.

This section is designed to protect air quality from the potential for significant deterioration caused by the release of particulate matter, which is regulated by a NAAQS under section 109 of the CAA. EPA is proposing to promulgate this rule only for reservations where EPA finds, in consultation with the relevant Tribe, that the rule is appropriate. EPA will base the determination of whether this rule is appropriate for a particular reservation on a number of factors, including the prevalence of these activities on the reservation, the significance of the resulting pollution on air quality in the area and adjacent airsheds, and the absence of Tribal laws to control the pollution. EPA anticipates that Tribes will seek EPA delegation to implement this rule on their reservation. In this rulemaking, EPA is proposing that § 49.132 will apply only on the Nez Perce Reservation and the Umatilla Indian Reservation, as shown in Table 2.

Most of the State and local air agency rules that EPA reviewed have a permitting program for open burning with procedures, conditions, prohibitions and exemptions similar to those in the rule that EPA is proposing.

Section 49.133—Agricultural burning permits. Any person who conducts an agricultural burn would be required to: (1) Apply for and obtain a permit for each agricultural burn; (2) have the permit available on site during the agricultural burn; (3) conduct the burn in accordance with the terms and conditions of the permit; and (4) comply with the General rule for open burning (§ 49.131) or the EPA-approved Tribal open burning rules in a TIP, as applicable.

This section is designed to protect air quality from the potential for significant deterioration caused by the release of particulate matter, which is regulated by a NAAQS under section 109 of the CAA. This rule would limit the amount of particulate matter emitted to the atmosphere from unregulated agricultural burning activities. EPA is proposing to promulgate this rule only for reservations where EPA finds, in consultation with the relevant Tribe, that the rule is appropriate. EPA will base the determination of whether this rule is appropriate for a particular reservation on a number of factors, including the prevalence of agricultural burning activities on the reservation, the significance of the resulting pollution on air quality in the area and adjacent airsheds, and the absence of Tribal laws to control the pollution. EPA anticipates that Tribes will seek EPA delegation to implement this rule on their reservation. In this rulemaking, EPA is proposing that § 49.133 will apply only on the Nez Perce Reservation and the Umatilla Indian Reservation, as shown in Table 2.

Two of the States, three local air agencies, and one Tribe in Region 10 have established a permitting program for agricultural burning with procedures, conditions, prohibitions, and exemptions similar to those in the rule that EPA is proposing.

Section 49.134—Forestry burning permits. Any person who conducts a forestry burn would be required to: (1) Apply for and obtain a permit for each forestry burn; (2) have the permit available on site during the forestry burn; (3) conduct the burn in accordance with the terms and conditions of the permit; and (4) comply with the General rule for open burning (§ 49.131) or the EPA-approved Tribal open burning rules in a TIP, as applicable.

This section is designed to protect air quality from the potential for significant deterioration caused by the release of particulate matter, which is regulated by a NAAQS under section 109 of the CAA. This rule would limit the amount of particulate matter emitted to the atmosphere from unregulated forestry burning activities. EPA is proposing to promulgate this rule only for reservations where EPA finds, in consultation with the relevant Tribe, that the rule is appropriate. EPA will base the determination of whether this rule is appropriate for a particular reservation on a number of factors, including the prevalence of forestry burning activities on the reservation, the significance of the resulting pollution on air quality in the area and adjacent airsheds, and the absence of Tribal laws to control the pollution. This rule would protect air quality on those reservations where forestry burning can contribute to air quality deterioration. EPA anticipates that Tribes will seek EPA delegation to implement this rule on their reservation. In this rulemaking, EPA is proposing that § 49.134 will apply only on the Nez Perce Reservation and the Umatilla Indian Reservation, as shown in Table 2.

Three of the States in Region 10 have established a permitting program for forestry burning with procedures, conditions, prohibitions, and exemptions similar to those in the rule that EPA is proposing.

Sections 49.135 and 49.136—Emissions detrimental to persons or property. These are two alternatives to regulate emissions that are detrimental, and EPA would promulgate one of the rules for each reservation. For both §§ 49.135 and 49.136, an owner or operator of an air pollution source would not be allowed to cause or allow the emission of any air pollutants, in sufficient quantities and of such characteristics and duration, that the Regional Administrator determines is, or would likely be, injurious to human health and welfare. The Tribal alternative rule § 49.136 would include the same requirements as § 49.135, and also authorize controls when the Regional Administrator determines an emission does, or is likely to, unreasonably interfere with the enjoyment of life or property or damage unique Tribal cultural or traditional resources. If the Regional Administrator makes such a determination under § 49.135 or § 49.136, EPA is proposing that the Regional Administrator would be able to require the source to install air pollution controls or to take reasonable precautions to reduce or prevent the emissions.

Section 49.136 would provide additional protection of unique Tribal resources, and would be promulgated on reservations only where EPA finds, in consultation with the relevant Tribe, that the rule is appropriate. EPA will base this determination on a number of factors, including the prevalence of activities on the reservation which can affect unique Tribal cultural or traditional resources, the significance of the resulting pollution on those resources, and the absence of Tribal laws to control the pollution. In this rulemaking, EPA is proposing that the Tribal alternative rule § 49.136 will apply only on the Nez Perce Reservation and the Umatilla Indian Reservation, as shown in Table 2.

Most State and local air agency rules incorporate similar provisions prohibiting emissions detrimental to persons or property.

Section 49.137—Air pollution episodes. Under § 49.137, the Regional Administrator could issue warnings about air quality that would apply to any person who owns or operates an air pollution source on Indian reservations. An air pollution alert, air pollution warning, or air pollution emergency could be declared by the Regional Administrator whenever it is determined that the accumulation of air pollutants in any place is attaining, or has attained, levels that could lead to a threat to human health. These announcements would be broadcast on local television and radio stations in the affected area and posted on their websites. Announcements will also be posted on the EPA Region 10 website and, where possible, on the websites of Tribes within the affected area. These announcements will indicate that air pollution levels exist that could potentially be harmful to human health, describe actions that people can take to reduce exposure, request voluntary actions to reduce emissions from sources of air pollutants, and indicate that a ban on open burning is in effect. Voluntary or mandatory curtailment of emissions could be declared by the Regional Administrator.

Most State and local air agencies have rules for air pollution episodes with procedures and conditions similar to those in the rule that EPA is proposing. Section 110(a)(2)(G) of the Clean Air Act and 40 CFR part 51, Subpart H of EPA's regulations require agencies to have pre-planned procedures to follow in the event of an air pollution episode as well as adequate authorities to require sources to reduce emissions in order to protect public health. Section 49.137 is consistent with EPA's requirements for State and local agencies as set forth in 40 CFR part 51, Subpart H and the model procedures in 40 CFR part 51, Appendix L.

Section 49.138—Registration of air pollution sources and reporting of emissions. Any person who owns or operates an air pollution source except those exempted below would be required to register the source with EPA. A person subject to this rule must register the air pollution source by no later than one year after the effective date of these rules. A new air pollution source must register within 90 days after beginning operation. Sources must re-register each year and provide updates on any changes since the previous registration. The following sources are exempt from this rule: mobile sources; single family residences, and residential buildings with four or fewer units; air conditioning units used for human comfort that are not subject to applicable requirements under Title VI of the CAA and do not exhaust air pollutants into the atmosphere from any manufacturing or industrial process; ventilating units used for human comfort that do not exhaust air pollutants into the atmosphere from any manufacturing or industrial process; furnaces and boilers used exclusively for space heating with a rated heat input capacity of less than 400,000 Btu per hour; cooking of food, except for retail and wholesale businesses that both cook and sell cooked food; consumer use of office equipment and products; janitorial services and consumer use of janitorial products; maintenance and repair activities, except for air pollution sources engaged in the business of maintaining and repairing equipment, such as automobile repair shops or appliance repair shops; agricultural activities and forestry activities, including agricultural burning and forestry burning; and open burning.

This requirement is appropriate as it would enable EPA to develop and maintain accurate records of air pollution sources and their emissions on reservation lands. Maintaining an accurate inventory of sources and emissions would help EPA protect air quality from potential significant deterioration that can occur if many sources within a particular area increase their air pollutant emissions. While the emission increase at each facility may be de minimis, the cumulative effect of the increases may be significant. The registration program would enable EPA to track trends and identify potential problems before they arise.

Many State and local air agencies have a registration program or a permitting program to collect information similar to that required by the registration program in this section.

Section 49.139—Rule for non-Title V operating permits. This section would create a permitting program to provide for the establishment of Federally-enforceable requirements for air pollution sources on Indian reservations. This rule would apply in the following three situations: (1) The owner or operator of any source wishes to obtain a Federally-enforceable limitation on the source's actual emissions or potential to emit and submits an application to the Regional Administrator requesting such limitation; (2) the Regional Administrator determines that additional Federally-enforceable requirements for a source are necessary to ensure compliance with the Federal or, if applicable, Tribal Implementation Plan; or (3) the Regional Administrator determines that additional Federally-enforceable requirements for a source are necessary to ensure the attainment and maintenance of any NAAQS or PSD increment. A source that would otherwise require a Part 71 Federal operating permit may instead obtain an operating permit under this section that limits its potential to emit to below major source thresholds so that the source is not subject to Part 71. The Regional Administrator would write the operating permit and follow the consultation and public comment procedures described in this rule.

This rule would provide air pollution sources on reservations with air quality control requirements and regulatory alternatives similar to those available to sources located off-reservation. The rule also would enable the Regional Administrator to require further air emission reductions if necessary to attain or maintain the NAAQS or PSD increment.

All State and local air agencies have a permitting mechanism to control emissions and to allow a source to limit its potential to emit so that it is not subject to Title V or other requirements for major stationary sources with procedures, conditions, prohibitions, and exemptions similar to those in the rule that EPA is proposing.

C. Rules Proposed for Specific Reservations

The proposed rules that follow this discussion identify for each Indian Tribe listed in Subpart M the specific rules that EPA is proposing to promulgate as a FIP for the Indian reservation of that Tribe. Subpart M is organized to contain the implementation plan for each Indian Tribe with a reservation. This plan will consist of a combination of Tribal rules and measures and Federal regulations and measures that apply to all applicable sources within the specific reservation, including trust lands set aside for the Tribe.

While most of the rules in the FIPs constitute a base program that EPA is proposing for all reservations in Idaho, Oregon, and Washington, some of the proposed FIPs would include additional rules where specific needs have been identified through consultation with Tribes. Table 1 lists the “Base Program” rules, as well as the “Additional Rules”. The following “Additional Rules” are being proposed for three reservations (see Table 2 below) where EPA has found, in consultation with the relevant Tribe, that it is appropriate to establish these requirements in order to control air pollution.

EPA is proposing the rules listed in Table 2 for the Nez Perce Reservation to limit the amount of particulate matter emitted to the atmosphere in the airsheds in and around the Reservation. EPA has found, in consultation with the Nez Perce Tribe, that these rules are appropriate because the activities that would be regulated by these rules are taking place on the Nez Perce Reservation. Specifically, the woodwaste burners, the wood products industries, open burning, agricultural, and forestry activities may be significant contributors to air quality concerns in the area. Based on consultations with the Nez Perce Tribe, EPA also is concerned that air pollution sources could adversely affect cultural or traditional resources of the Tribe in ways that may not be adequately protected by Tribal law.

For the Umatilla Reservation, EPA is proposing the rules listed in Table 2 to limit the amount of particulate matter emitted to the atmosphere and airsheds in and around the Reservation. EPA has found, in consultation with the Confederated Tribes of the Umatilla Reservation, that these rules are appropriate because the activities that would be regulated by these rules are taking place on the Umatilla Reservation. Specifically, open burning, agricultural, and forestry activities may be significant contributors to air quality concerns in the area. Based on consultations with the Confederated Tribes of the Umatilla Reservation, EPA also is concerned that air pollution sources could adversely affect cultural or traditional resources of the Tribes in ways that may not be adequately protected by Tribal law.

Finally, EPA is proposing the rules listed in Table 2 for the Colville Reservation to limit the amount of particulate matter emitted to the atmosphere in the airsheds in and around the area. EPA has found, in consultation with the Confederated Tribes of the Colville Reservation, that these rules are appropriate because the operations of woodwaste burners and wood products facilities located on the Colville Reservation cause the release of particulate matter which may adversely affect air quality in ways that may not be adequately protected by Tribal law.

Correspondence from these Tribes providing relevant information and requesting that EPA propose these Additional Rules are included in the docket for this proposal.

Table 2.—Reservation Specific Additional Rules
Rule # | Additional rules
Nez Perce Reservation, Lapwai, Idaho
Section 49.127 | Rule for woodwaste burners.
Section 49.128 | Rule for limiting particulate matter emissions from wood products industry sources.
Section 49.132 | Rule for open burning permits.
Section 49.133 | Rule for agricultural burning permits.
Section 49.134 | Rule for forestry burning permits.
Section 49.136 | Rule for emissions detrimental to persons, property, cultural or traditional resources.
Umatilla Indian Reservation, Pendleton, Oregon
Section 49.132 | Rule for open burning permits.
Section 49.133 | Rule for agricultural burning permits.
Section 49.134 | Rule for forestry burning permits.
Section 49.136 | Rule for emissions detrimental to persons, property, cultural or traditional resources.
Colville Indian Reservation, Nespelem, Washington
Section 49.127 | Rule for woodwaste burners.
Section 49.128 | Rule for limiting particulate matter emissions from wood products industry sources.

D. Costs Associated With These Rules and Request for Comment

As part of developing these proposed rules, EPA conducted an analysis of the expected costs should these rules be adopted. Included in the docket for this rulemaking is an Economic Impact Analysis (EIA) that was prepared to assist EPA in estimating the costs of compliance for the sources that would be subject to these rules.

For the purposes of generating cost estimates for each of the proposed rules, EPA assumed that there will be no capital costs incurred under any of these rules. EPA makes this assumption because the unique nature of this rule—sources are believed to be complying in the absence of the rule because they thought they were subject to State and local rules—makes it difficult to establish a counterfactual baseline showing what sources would be doing had they realized they were not subject to those rules under the CAA. Furthermore, based on information obtained from State, local, and Tribal authorities, as well as the businesses and other entities affected by these rules, EPA does not anticipate that facilities will add control devices as a result of these rules. In addition, EPA has not estimated operation and maintenance (O&M) costs to comply with these rules. EPA believes that O&M costs should be considered, but insufficient data were available to estimate them. O&M costs estimates based on information gathered from comments on the proposal will be included in the analysis for the final rule.

Thus the costs estimated for these rules are primarily the labor costs associated with record keeping and reporting under the regulations. Costs for both the basic rules and additional rules were estimated in the EIA. For the basic rules, the annualized labor costs and non-labor costs were estimated to be $117,000 and $17,000, respectively, while incremental capital costs and incremental O&M costs were assumed to be zero. Thus, the total estimated cost associated with the basic rules is $134,000. Cost estimates for the additional rules only account for costs on those reservations for which EPA has proposed additional rules. The additional rules were estimated to have annualized labor costs of $23,000, while non-labor costs, incremental capital costs, and incremental O&M costs were each assumed to equal zero for a total of $23,000. Overall, annualized labor costs were estimated to be $140,000, annualized non-labor costs are estimated to be $17,000, incremental capital costs are assumed to be zero, and incremental O&M costs are assumed to be zero for a total estimated cost of $157,000.

The information available to EPA for this analysis was assembled from a number of sources, including surveys of sources on the reservations, consultations with the sources and Tribal governments, and EPA's experience with air quality issues in the Pacific Northwest. Based on this information, several assumptions were made in order to estimate the expected compliance costs associated with these rules. EPA is now seeking comment on these assumptions. While comments on all aspects of the analysis are solicited, EPA specifically is soliciting comments on the assumptions described below regarding capital costs, O&M costs, and the costs of meeting visible emission and fugitive emission requirements, conducting source tests, and meeting the sulfur content in fuel limits.

EPA is seeking comments on the assumption that no incremental capital costs would be required by these rules. The O&M costs associated with the continued compliance with these rules are expected to be small. However, there were insufficient data to estimate the magnitude of these costs. Therefore, EPA is requesting comment and supplemental information if appropriate on the expected O&M costs that would result from continued compliance with these rules. In addition, EPA would like comments on the following assumptions used for costing several of the individual rules. For the visible emission rule, it was assumed for costing purposes that two facilities would voluntarily train their own visible emissions readers and would send them to retraining each year. For the fugitive particulate matter emissions rule, it was assumed that an average of one construction project per reservation per year would need to develop and update particulate matter control plans. Under the particulate matter rule and the sulfur dioxide rule, it was assumed that six facilities and one facility, respectively, would conduct source tests within the first three years (Method 5 tests for the particulate matter rule and Method 6 tests for the sulfur dioxide rule). Finally, for the sulfur content of fuels rule, EPA assumed that fuel distributors have access to data on the sulfur content of delivered fuel and that fuel purchases would be unaffected because the fuel currently available already meets the sulfur limits established in the rule. EPA would like feedback from interested parties on the accuracy of these assumptions and suggestions for modifications, if applicable. For additional details on the assumptions used in the development of the estimated compliance costs associated with these rules, the reader is referred to the EIA.

IV. Request for Public Comment

EPA solicits comments on all aspects of today's proposal. In this proposal, EPA is trying to create a level playing field without imposing significant new costs to sources. Interested parties should submit comments by mail or in person to the address listed in the front of this proposal. Be sure to identify the appropriate docket control number (#A-2000-25) in your correspondence. Your comments must be received by June 13, 2002 to be considered in the final action taken by EPA.

You may also comment on this proposal by attending the public hearing if one is held and providing oral comments. If EPA determines that a hearing should be held, the date and time will be announced in the local papers. You may also call David Bray at (206) 553-4253 to determine if a hearing will be held and to obtain the time and location.

V. Administrative Requirements

A. Executive Order 12866: Regulatory Planning and Review

Under Executive Order 12866 (58 FR 51735 (October 4, 1993)), EPA must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, EPA has determined that this proposed rulemaking is a “significant regulatory action” because it may raise novel legal or policy issues. The rulemaking marks the first time that, under the Clean Air Act, EPA has proposed Federal Implementation Plans for specific reservations that would be generally applicable to all sources within the exterior boundaries of those reservations.

However, EPA's analysis indicates that this rulemaking will not have a significant economic impact. EPA is finding that many sources on Indian reservations have historically been following similar air programs that are established by State and local agencies acting under State law or local rules. Although EPA has not approved SIPs as extending into Indian country under the CAA, some sources located on Indian reservations have made efforts to follow those programs. Most industrial sources on the Region 10 reservations have installed or upgraded air pollution control equipment to conform with State or local air programs without challenging the authority of those agencies within Indian country. As a result, these sources already have pollution controls that would satisfy State and local rules.

As discussed above in section III.A, this rulemaking would establish regulatory requirements for sources under the authority of the CAA that are substantially similar to the requirements of adjacent jurisdictions that most sources already meet. Thus, it is EPA's expectation that these rules would not impose significant costs or require changes at regulated sources. Nevertheless, because of the limited precedent this rulemaking would set, this action was submitted to OMB for review. Any written comments from OMB to EPA, any written EPA response to those comments, and any changes made in response to OMB suggestions or recommendations are included in the docket. The docket is available for public inspection at the EPA's Air Docket Section in Washington DC and at EPA Region 10 in Seattle, Washington. See the ADDRESSES section of this preamble for specific addresses and times when the docket may be reviewed.

B. Regulatory Flexibility Act

The Regulatory Flexibility Act, (5 U.S.C. 601 et seq.) (RFA), as amended by the Small Business Regulatory Enforcement Fairness Act (Pub. L. 104-121) (SBREFA), generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rulemaking on small entities, small entity is defined as: (1) A small business as defined by the RFA (based on Small Business Administration size standards); (2) a small governmental jurisdiction that is a government of a city, county, town, school district or special district with a population of less than 50,000; and (3) a small organization that is any not-for-profit enterprise which is independently owned and operated and is not dominant in its field.

Based on our economic analysis, we certify that this action will not have a significant economic impact on a substantial number of small entities. The economic analysis shows the total annual compliance costs of the basic and additional rules to be approximately $1,000 per small business. The cost-to-sales ratio for small business entities is expected to be less than one percent, with the exception of one facility whose estimated ratio is 1.15, when the worst-case scenario is applied.

Although this proposed rulemaking will not have a significant economic impact on a substantial number of small entities, EPA also has included a number of exemptions in the rules where appropriate to reduce impacts of this rulemaking on small entities. There are 13 rules that EPA proposes to apply to all reservations in Idaho, Oregon and Washington. Of these 13 rules, one (§ 49.121) provides an introduction, one (§ 49.122) provides delegation procedures for Tribes, and one (§ 49.123) provides definitions. The remaining ten (§§ 49.124, 49.125, 49.126, 49.129, 49.130, 49.131, 49.135, 49.137, 49.138, 49.139) have some regulatory effect. Eight of these ten contain exemptions for sources considered sufficiently small, such as households or the owners of mobile sources. Only two rules, one that addresses emissions detrimental to persons (§ 49.135) and one that addresses air pollution episodes (§ 49.137), do not include exemptions. These two rules require determinations by the Regional Administrator and would only be used when EPA determines that adverse effects of air pollution warrant their use.

In developing this proposal, EPA consulted extensively with Tribal governments regarding the potential impacts of these rules (see section G below). In order to better understand the implications of these rules for small entities, as part of the consultations with Tribal representatives, EPA also explored the possible effects for small businesses operating on Tribal lands. Moreover, while making site visits to Tribal reservations, EPA staff met one-on-one with numerous small business owner/operators and discussed today's proposal. Also during the course of these rules' development, EPA attended and made presentations about this activity at numerous public meetings and conferences; venues at which representatives of Tribally-owned and Indian-owned small businesses were present and had opportunities to comment on the rule. We continue to be interested in the potential impacts of the proposed rulemaking on small entities and welcome comments on issues related to such impacts. In addition, EPA intends to continue outreach to affected businesses, especially small businesses, during the public comment period to provide additional opportunities for input from small entities.

C. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures by State, local, and Tribal governments, in the aggregate, or to the private sector, of $100 million or more in any one year. Section 205 generally requires that, before promulgating a rule for which a written statement must be prepared, EPA identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator explains why that alternative was not adopted. Finally, section 203 requires that, before establishing any regulatory requirements that may significantly or uniquely affect small governments, EPA must have developed a small government agency plan. The plan must provide for notifying any potentially affected small governments to have meaningful and timely input in the development of EPA regulatory proposals with significant Federal intergovernmental mandates, and informing, educating, and advising small governments on compliance with the regulatory requirements.

EPA has determined that this rulemaking does not contain a Federal mandate that may result in expenditures of $100 million or more for State, local, and Tribal governments, in the aggregate, or the private sector in any one year. With regard to State and local governments, there is no expenditure because these rules only apply on Indian reservations. With regard to Tribal governments, there is no expenditure in implementing and enforcing the rules because the rules would provide that EPA would take on that responsibility unless a Tribe chooses to assist EPA or assume responsibility for its own reservation. In such a case, EPA would seek to provide funding to support these efforts. Thus, today's rules are not subject to the requirements of sections 202 and 205 of UMRA.

In developing this rulemaking, EPA consulted with small governments pursuant to its interim plan established under section 203 of the UMRA to address impacts of regulatory requirements in the rules that might significantly or uniquely affect small governments. As explained in the discussion of Executive Order 13175 in section G below, among other things, we notified all potentially affected Tribal governments of the requirements in these proposed rules. Further, although there are no significant Federal intergovernmental mandates, we provided officials of all potentially affected Tribal governments an opportunity for meaningful and timely input in the development of the regulatory proposals. Finally, through consultation meetings and other forums, we will continue to keep Tribal governments involved by providing them with opportunities for learning about and receiving advice on compliance with the regulatory requirements.

D. Paperwork Reduction Act

The information collection requirements in this proposed rulemaking have been submitted for approval to the Office of Management and Budget (OMB) under the Paperwork Reduction Act, 44 U.S.C. 3501 et seq. An Information Collection Request (ICR) document has been prepared by EPA (ICR No. 2020.01) and a copy may be obtained from Sandy Farmer by mail at Collection Strategies Division; U.S. Environmental Protection Agency (2822); 1200 Pennsylvania Ave., NW, Washington, DC 20460, by email at farmer.sandy@epamail.epa.gov, or by calling (202) 260-2740. A copy may ­also be downloaded off the internet at http://www.epa.gov/icr.

The proposed FIPs include information collection requirements related to the registration of and reporting of emissions from air pollution sources. EPA believes these information collection requirements are appropriate because they would enable EPA to develop and maintain accurate records of air pollution sources and their emissions on reservation lands. As discussed in the summary of § 49.138 in section III.A. of this preamble, maintaining an accurate inventory of sources and emissions would, among other things, help EPA protect air quality from potential significant deterioration that can occur if many sources within a particular area increase their air pollutant emissions. These registration requirements would be mandatory under § 49.138. Regulated entities would be able to assert claims of business confidentiality and EPA would treat these claims in accordance with the provisions of 40 CFR part 2, Subpart B.

The reporting and record keeping burden for this collection of information is described below. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA estimates that the owners or operators of facilities affected by these basic and additional rules will incur a total of $140,000 in labor costs and $17,000 in non-labor costs to comply with the information collection requirements of these rules.

An Agency may not conduct or sponsor, and a person is not required to respond to, a collection of information unless it displays a currently valid OMB control number. The OMB control numbers for EPA's regulations are listed in 40 CFR Part 9 and 48 CFR Chapter 15. Comments are requested on the Agency's need for this information, the accuracy of the provided burden estimates, and any suggested methods for minimizing respondent burden, including through the use of automated collection techniques. Send comments on the ICR to the Director, Collection Strategies Division; U.S. Environmental Protection Agency (2822); 1200 Pennsylvania Ave., NW., Washington, DC 20460; and to the Office of Information and Regulatory Affairs, Office of Management and Budget, 725 17th St., NW., Washington, DC 20503, marked “Attention: Desk Officer for EPA.” Include the ICR number in any correspondence. Since OMB is required to make a decision concerning the ICR between 30 and 60 days after March 15, 2002, a comment to OMB is best assured of having its full effect if OMB receives it by April 15, 2002. The final rule will respond to any OMB or public comments on the information collection requirements contained in this proposal.

E. Executive Order 13045: Protection of Children From Environmental Health Risks and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This proposed rulemaking is not subject to the Executive Order because it is not economically significant as defined in Executive Order 12866. Further, it does not concern an environmental health or safety risk that EPA has reason to believe may have disproportionate effect on children.

F. Executive Order 13132: Federalism

Executive Order 13132, entitled “Federalism” (64 FR 43255, August 10, 1999), requires EPA to develop an accountable process to ensure “meaningful and timely input by State and local officials in the development of regulatory policies that have Federalism implications.” “Policies that have Federalism implications” is defined in the Executive Order to include regulations that have “substantial direct effects on the States, on the relationship between the national government and the States, or on the distribution of power and responsibilities among the various levels of government.”

Under section 6 of Executive Order 13132, EPA may not issue a regulation that has Federalism implications, that imposes substantial direct compliance costs, and that is not required by statute, unless the Federal government provides the funds necessary to pay the direct compliance costs incurred by State and local governments, or EPA consults with State and local officials early in the process of developing the proposed regulation. EPA also may not issue a regulation that had Federalism implications and that preempts State law, unless the Agency consults with State and local officials early in the process of developing the proposed regulation.

This proposed rulemaking does not have Federalism implications. It will not have substantial direct effects on the States, on the relationship between the national government and the States, or on the distribution of power and responsibilities among the various levels of government, as specified in Executive Order 13132. These rules only prescribe regulations for facilities in areas where a State does not administer an approved Clean Air Act program, and thus does not have any direct effect on any State. Moreover, it does not alter the relationship or the distribution of power and responsibilities established in the Clean Air Act. Thus, Executive Order 13132 does not apply to this rulemaking. EPA has provided advance draft copies of the proposed rules to State and local authorities in Idaho, Oregon and Washington. Generally, the States are pleased that EPA is developing rules for Indian reservations, as the rules will create more parity in the regulatory environment between on-reservation and off-reservation lands. In the spirit of Executive Order 13132, and consistent with EPA policy to promote communications between EPA and State and local governments, EPA specifically solicits comment on this proposed rulemaking from State and local officials.

G. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

Under section 5(b) of Executive Order 13175, EPA may not issue a regulation that has Tribal implications, that imposes substantial direct compliance costs, and that is not required by statute, unless the Federal government provides the funds necessary to pay the direct compliance costs incurred by Tribal governments, or EPA consults with Tribal officials early in the process of developing the proposed regulation. Under section 5(c) of Executive Order 13175, EPA may not issue a regulation that has Tribal implications and that preempts Tribal law, unless the Agency consults with Tribal officials early in the process of developing the proposed regulation.

EPA has concluded that this proposed rule will have Tribal implications. These regulations would significantly affect specific Indian reservation communities by filling the gap in air quality regulations and thus creating a level of air quality protection not previously provided under the CAA. However, the air quality requirements proposed here are applicable broadly to all sources within the identified Indian reservation areas, and are not uniquely applicable to Tribal governments. The gap-filling approach used in this proposal would create Federal requirements similar to those that are already in place in jurisdictions adjacent to the reservations covered by the proposal. Tribal governments may incur some compliance costs in meeting those requirements that apply to sources they own or operate; however, the economic impacts analysis does not indicate that those costs will be significant. Finally, although Tribal governments are encouraged to partner with EPA on the implementation of these regulations, they are not required to do so. EPA will seek to provide funding to Tribes that apply for delegation of EPA's authority to administer specific rules to support their activities. Since this proposed rulemaking will neither impose substantial direct compliance costs on Tribal governments, nor preempt Tribal law, the requirements of sections 5(b) and 5(c) of the Executive Order do not apply to this rule.

Consistent with EPA policy, EPA consulted with Tribal officials and representatives of Tribal governments early in the process of developing this regulation to permit them to have meaningful and timely input into its development. The concept for this rulemaking grew from discussions related to implementation of the CAA and the TAR with Tribes throughout Region 10 who are engaged in developing Tribal air quality programs. EPA Region 10 began assembling an inventory of air pollution sources in 1995, and EPA has been working with Tribes and other air management agencies since then to better determine the need for specific rules and to evaluate alternatives for Tribal and Federal programs. Based on the discussions and inventory development, EPA decided to develop the proposed approach to rulemaking that would be tailored to the air quality issues of Tribes in Idaho, Oregon and Washington.

In June 1999, EPA Region 10 met in Seattle, Washington, with Tribal leaders, managers, and attorneys to introduce the Tribal Air Rules Project. A generally favorable response from Tribal leadership to the project led EPA to prepare a formal consultation package that included preliminary rules, and the package was distributed for review to the leadership of all of the potentially affected Tribes in Idaho, Oregon, and Washington. In August 1999, EPA Region 10 held three technical meetings with Tribal staff who are air specialists for in-depth discussions. Thirteen Tribes participated in these technical meetings. The Consultation Record in the docket for this proposal provides detailed information on the consultations.

In July 2000, a complete draft of the proposed rules was formally distributed to all 41 of the Tribal governments in Idaho, Oregon, and Washington. At the time of this proposal, 39 of the 41 Tribes have reservations. Two Tribes recently received Federal recognition and do not have reservation lands yet. The letter that transmitted the rule package was addressed to the Tribal Chair and sent by certified mail. Complete copies of the package were sent to the Natural Resource or Environmental Director at each Tribe and to the air specialist, in cases where the Tribe has one. In the letter, EPA Region 10 requested that the Tribe provide their views and comments on the proposed rules by September 30, 2000, and identify any additional rules that the Tribe would like EPA to propose for a particular reservation.

EPA Region 10 conducted follow-up telephone inquiries to offer opportunities for Tribes to participate in conference calls, group consultation meetings with EPA Region 10, and individual meetings with EPA Region 10. EPA Region 10 reached 39 of the 41 Tribes through these initial telephone contacts. In September and October of 2000, EPA Region 10 held four consultation meetings to discuss the draft proposed rulemaking package in Spokane, Puyallup, the Swinomish Reservation, and Portland. In the 2000 consultation round, 19 Tribes participated in face-to-face meetings with EPA Region 10. Another seven tribes consulted with EPA Region 10 through individual or group conference calls. Three Tribes submitted comments supporting the rule and requesting that EPA propose specific rules for their reservation. Please see the consultation record for more detailed information on the consultations. In the spirit of Executive Order 13175, and consistent with EPA policy to promote communications between EPA and Tribal governments, EPA specifically solicits additional comment on this proposed rule from Tribal officials.

H. Executive Order 13211: Energy Effects

This rule is not a “significant energy action” as defined in Executive Order 13211, “Actions Concerning Regulations That Significantly Affect Energy Supply, Distribution, or Use” (66 FR 28355 (May 22, 2001)) because it is not likely to have a significant adverse effect on the supply, distribution, or use of energy. Further, we have concluded that this rule is not likely to have any adverse energy effects, because the facilities affected already have the pollution controls in place to enable them to comply with these rules.

I. National Technology Transfer and Advancement Act of 1995 (NTTAA)

Section 12(d) of NTTAA, Public Law 104-113, section 12(d) (15 U.S.C. 272 note) directs EPA to use voluntary consensus standards in its regulatory activities unless to do so would be inconsistent with applicable law or otherwise impractical. Voluntary consensus standards are technical standards (e.g., materials specifications, test methods, sampling procedures, business practices) that are developed or adopted by voluntary consensus standards bodies. The NTTAA directs EPA to provide Congress, through OMB, explanations when the Agency decides not to use available and applicable voluntary standards.

This proposed rulemaking involves technical standards. EPA proposes to use American Society for Testing and Materials (ASTM) Methods and generally accepted test methods previously promulgated by EPA. Because all of these methods are generally accepted and are widely used by State and local agencies for determining compliance with similar rules, EPA believes it would be impracticable and potentially confusing to put in place methods that vary from what is already accepted. As a result, EPA believes it is unnecessary and inappropriate to consider alternative technical standards. Nevertheless, EPA welcomes comments on this aspect of the proposed rulemaking and, specifically, invites the public to identify potentially-applicable voluntary consensus standards and to explain why such standards should be used in these regulations.

List of Subjects in 40 CFR Part 49

Environmental protection, Air pollution control, Indians, Intergovernmental relations, Reporting and recordkeeping requirements.

Dated: February 13, 2002.
Christine Todd Whitman,
Administrator.

For the reasons set out in the preamble, title 40, chapter I of the Code of Federal Regulations is proposed to be amended as follows:

PART 49—TRIBAL CLEAN AIR ACT AUTHORITY

1. The authority citation for part 49 continues to read as follows:

Authority: 42 U.S.C. 7401, et seq.

2. Part 49 is amended by revising subpart C to read as follows:

Subpart C—General Federal Implementation Plan Provisions
Sec.
49.101-49.120 [Reserved]
General Rules for Application to Indian Reservations in EPA Region 10
49.121 Introduction.
49.122 Delegation of authority to a Tribe.
49.123 General provisions.
49.124 Rule for limiting visible emissions.
49.125 Rule for limiting the emissions of particulate matter.
49.126 Rule for limiting fugitive particulate matter emissions.
49.127 Rule for woodwaste burners.
49.128 Rule for limiting particulate matter emissions from wood products industry sources.
49.129 Rule for limiting emissions of sulfur dioxide.
49.130 Rule for limiting sulfur in fuels.
49.131 General rule for open burning.
49.132 Rule for open burning permits.
49.133 Rule for agricultural burning permits.
49.134 Rule for forestry burning permits.
49.135 Rule for emissions detrimental to human health and welfare.
49.136 Rule for emissions detrimental to persons, property, cultural or traditional resources.
49.137 Rule for air pollution episodes.
49.138 Rule for the registration of air pollution sources and the reporting of emissions.
49.139 Rule for non-Title V operating permits.
49.140-49.200 [Reserved]

Subpart C—General Federal Implementation Plan Provisions

§§ 49.101-49.120 [Reserved]

General Rules for Application to Indian Reservations in EPA Region 10

§ 49.121 Introduction.

(a) What is the purpose of these rules? These “General Rules for Application to Indian Reservations in EPA Region 10” establish emission limitations and other requirements for air pollution sources located within Indian reservations in Idaho, Oregon, and Washington that are appropriate in order to ensure a basic level of air pollution control and to protect public health and welfare.

(b) How were these rules developed? These “General Rules for Application to Indian Reservations in EPA Region 10” were developed through consultation with the Indian Tribes located in Idaho, Oregon, and Washington. The rules take into consideration the current air quality situations within Indian reservations, the known sources of air pollution, the needs and concerns of the Indian Tribes in that portion of Region 10, and the air quality rules in adjacent jurisdictions.

(c) When are these rules applicable to sources on a particular Indian reservation? These “General Rules for Application to Indian Reservations in EPA Region 10” apply to air pollution sources on a particular Indian reservation when EPA has specifically promulgated one or more rules into effect for that reservation. Rules shall be promulgated into effect through notice and comment rulemaking and will be specifically identified in the implementation plan for that reservation in Subpart M—Implementation Plans for Tribes—Region 10, of this Part. These “General Rules for Application to Indian Reservations in EPA Region 10” will not apply to air pollution sources located on newly established Tribal trust lands located outside the exterior boundaries of an Indian reservation until after they are promulgated into effect through notice and comment rulemaking.

§ 49.122 Delegation of authority to a Tribe.

(a) What is the purpose of this rule? The purpose of this rule, § 49.122, is to establish the process by which the Regional Administrator may delegate to an Indian Tribe the authority to administer all, or a portion of, the rules that have been promulgated into effect in Subpart M of this Part for a particular Indian reservation. This section provides for administrative delegation and does not affect the eligibility criteria under 40 CFR 49.6 for treatment in the same manner as a State.

(b) How does a Tribe request delegation? In order to be delegated authority to administer the rules that are in effect in Subpart M of this Part for a particular Indian reservation, the authorized representative of a Tribe must submit a request to the Regional Administrator that:

(1) Identifies the specific rules and provisions for which delegation is requested;

(2) Identifies the Indian reservation for which delegation is requested;

(3) Includes a statement by the applicant's legal counsel (or equivalent official) that includes the following information:

(i) A statement that the applicant is an Indian Tribe recognized by the Secretary of the Interior;

(ii) A descriptive statement demonstrating that the applicant is currently carrying out substantial governmental duties and powers over a defined area and that meets the requirements of § 49.7(a)(2); and

(iii) A description of the laws of the Indian Tribe that provide adequate authority to carry out the aspects of the rules and provisions for which delegation is requested; and

(4) Demonstrates that the Tribe has, or will have, adequate resources to carry out the aspects of the rules and provisions for which delegation is requested.

(c) How is the delegation of authority accomplished?

(1) A Delegation of Authority Agreement will set forth the terms and conditions of the delegation, will specify the rules and provisions that the Tribe shall be authorized to implement, and shall be entered into by the Regional Administrator and the Tribe. The Regional Administrator will not delegate authority to a Tribe for areas for which EPA believes the Indian reservation status is in question. The Agreement will become effective upon the date that both the Regional Administrator and the authorized representative of the Tribe have signed the Agreement. Once the delegation becomes effective, the Tribe will have the authority under the Act, to the extent specified in the Agreement, for administering the rules in effect in Subpart M of this Part for the particular Indian reservation and shall act as the Regional Administrator as that term is used in these regulations.

(2) A Delegation of Authority Agreement may be modified, amended, or revoked, in part or in whole, by the Regional Administrator after consultation with the Tribe.

(d) How will any delegation of authority be publicized? The Regional Administrator shall publish a notice in the Federal Register informing the public of any delegation of authority to a Tribe to administer all or a portion of the rules in Subpart M of this Part that apply for an Indian reservation and will indicate such delegation in the implementation plan for the Indian reservation. The Regional Administrator shall also publish an announcement of the delegation in local newspapers.

§ 49.123 General provisions.

(a) Definitions. The following definitions apply for the purposes of the “General Rules for Application to Indian Reservations in EPA Region 10”. Terms not defined herein have the meaning given to them in the Act.

Act means the Clean Air Act, as amended (42 U.S.C. 7401 et seq.).

Actual emissions means the actual rate of emissions, in tons per year, of an air pollutant from an air pollution source. For an existing source, the actual emissions are the actual rate of emissions for the most recently completed calendar year and must be calculated using the actual operating hours, production rates, and types of materials processed, stored, or combusted during that calendar year. For a new source that has not operated for a complete calendar year, the actual emissions are the estimated actual rate of emissions for the current calendar year.

Administrator means the Administrator of the United States Environmental Protection Agency (EPA) or an authorized representative of the Administrator.

Agricultural activities means the usual and customary activities of cultivating the soil, producing crops, and raising livestock for use and consumption. Agricultural activities do not include manufacturing, bulk storage, handling for resale, or the formulation of any agricultural chemical.

Agricultural burning means burning of vegetative debris from an agricultural activity that is necessary for disease or pest control, or for crop propagation and/or crop rotation.

Air pollutant means any air pollution agent or combination of such agents, including any physical, chemical, biological, radioactive (including source material, special nuclear material, and by-product material) substance or matter that is emitted into or otherwise enters the ambient air. Such term includes any precursors to the formation of any air pollutant, to the extent the Administrator has identified such precursor or precursors for the particular purpose for which the term air pollutant is used.

Air pollution source means any building, structure, facility, installation, activity, or equipment that emits, or may emit, an air pollutant.

Allowable emissions means the emission rate of an air pollution source calculated using the maximum rated capacity of the source (unless the source is subject to Federally-enforceable limits that restrict the operating rate, hours of operation, or both) and the most stringent of the following:

(1) The applicable standards in 40 CFR parts 60, 61, 62 and 63;

(2) The applicable implementation plan emission limitations, including those with a future compliance date; or

(3) The emissions rates specified in Federally-enforceable permit conditions.

Ambient air means that portion of the atmosphere, external to buildings, to which the general public has access.

British thermal unit (Btu) means the quantity of heat necessary to raise the temperature of one pound of water one degree Fahrenheit.

Burn barrel means a cylindrical steel vessel, no greater than 55 gallons in size, with an open top, bottom air holes, and equipped with a steel spark screen, used for burning combustible household waste.

Coal means all fuels classified as anthracite, bituminous, sub-bituminous, or lignite by the American Society for Testing and Materials (ASTM) in ASTM Method D388-99, Standard Classification of Coals by Rank.

Combustible household waste means paper, paper products, cardboard, food packaging, plastic containers, garbage, rags, wood, and other combustible waste materials resulting from general residential activities, but does not include the following household wastes: tires; rubber materials or products; plastic materials or products (except containers); asphalt or composition roofing, or any other asphaltic material or product; tar or tarpaper; petroleum products; paints; timbers treated with preservatives; pesticides, herbicides, or fertilizers; insulated wire; batteries; light bulbs; materials containing mercury; or materials containing asbestos.

Combustion source means any source that combusts a solid fuel, liquid fuel, or gaseous fuel, or an incinerator.

Continuous emissions monitoring system (CEMS) means the total equipment used to sample, condition (if applicable), analyze, and provide a permanent record of emissions.

Continuous opacity monitoring system (COMS) means the total equipment used to sample, analyze, and provide a permanent record of opacity.

Distillate fuel oil means any oil meeting the specifications of ASTM Grade 1 or Grade 2 fuel oils in ASTM Method D396-98, Standard Specification for Fuel Oils.

Emission means a direct or indirect release into the atmosphere of any air pollutant; or the air pollutants released into the atmosphere.

Emission factor means an estimate of the rate at which an air pollutant is released into the atmosphere, as the result of some activity, divided by the rate of that activity.

Emission unit means any part of an air pollution source that emits, or may emit air pollutants into the atmosphere.

Federally enforceable means enforceable by the Administrator under the Act.

Fuel means any solid, liquid, or gaseous material that is combusted in order to produce heat or energy.

Fuel oil means a liquid fuel derived from crude oil or petroleum, including distillate oil, residual oil, and used oil.

Forestry or silvicultural burning means burning of vegetative debris from a forestry or silvicultural activity that is necessary for disease or pest control, reduction of fire hazard, reforestation, or ecosystem management.

Fugitive dust means a particulate matter emission made airborne by forces of wind, mechanical disturbance of surfaces, or both. Unpaved roads, construction sites, and tilled land are examples of sources of fugitive dust.

Fugitive particulate matter means particulate matter emissions that do not pass through a stack, chimney, vent, or other functionally equivalent opening. Fugitive particulate matter includes fugitive dust.

Garbage means food wastes.

Gaseous fuel means any fuel that exists in a gaseous state at standard conditions, including but not limited to natural gas, propane, fuel gas, process gas, and landfill gas.

Grate cleaning means removing ash from fireboxes.

Hardboard means a flat panel made from wood that has been reduced to basic wood fibers and bonded by adhesive properties under pressure.

Heat input means the total gross calorific value (where gross calorific value is measured by ASTM Method D240-92(1997)e2, D1826-94(1998), D5865-99a, or E711-87(1996)) of all fuels burned.

Implementation plan means a Tribal implementation plan approved by EPA pursuant to this Part or 40 CFR Part 51, or a Federal implementation plan promulgated by EPA in this Part or in 40 CFR Part 52 that applies in Indian country, or a combination of Tribal and Federal implementation plans.

Incinerator means any device, including a flare, designed to reduce the volume of solid, liquid, or gaseous waste by combustion. This includes air curtain incinerators, but does not include open burning.

Indian country means:

(1) All land within the limits of any Indian reservation under the jurisdiction of the United States government, notwithstanding the issuance of any patent, and including rights-of-way running through the reservation;

(2) All dependent Indian communities within the borders of the United States whether within the original or subsequently acquired territory thereof, and whether within or without the limits of a State; and

(3) All Indian allotments, the Indian titles to which have not been extinguished, including rights-of-way running through the same.

Marine vessel means a waterborne craft, ship, or barge.

Mobile sources means locomotives, aircraft, motor vehicles, non-road vehicles, non-road engines, and marine vessels.

Motor vehicle means any self-propelled vehicle designed for transporting people or property on a street or highway.

New air pollution source means an air pollution source that begins actual construction after the effective date of the “General Rules for Application to Indian Reservations in EPA Region 10”.

Noncombustibles means materials that are not flammable, capable of catching fire, or burning.

Non-road engine means:

(1) Except as discussed below, any internal combustion engine:

(i) In or on a piece of equipment that is self-propelled or that serves a dual purpose by both propelling itself and performing another function (such as garden tractors, off-highway mobile cranes and bulldozers); or

(ii) In or on a piece of equipment that is intended to be propelled while performing its function (such as lawnmowers and string trimmers); or

(iii) That, by itself or in or on a piece of equipment, is portable or transportable, meaning designed to be and capable of being carried or moved from one location to another. Indicia of transportability include, but are not limited to, wheels, skids, carrying handles, dolly, trailer, or platform.

(2) An internal combustion engine is not a nonroad engine if:

(i) The engine is used to propel a motor vehicle or a vehicle used solely for competition, or is subject to standards promulgated under section 202 of the Act; or

(ii) The engine is regulated by a Federal new source performance standard promulgated under section 111 of the Act; or

(iii) The engine that is otherwise portable or transportable remains or will remain at a location for more than 12 consecutive months or a shorter period of time for an engine located at a seasonal source. A location is any single site at a building, structure, facility, or installation. Any engine (or engines) that replaces an engine at a location and that is intended to perform the same or similar function as the engine replaced will be included in calculating the consecutive time period. An engine located at a seasonal source is an engine that remains at a seasonal source during the full annual operating period of the seasonal source. For purposes of this paragraph, a seasonal source is a stationary source that remains in a single location on a permanent basis (i.e., at least 2 years) and that operates at that single location approximately 3 months (or more) each year. This paragraph does not apply to an engine after the engine is removed from the location.

Non-road vehicle means a vehicle that is powered by a nonroad engine and that is not a motor vehicle or a vehicle used solely for competition.

Oil-fired boiler means a furnace or boiler used for combusting fuel oil for the primary purpose of producing steam or hot water by heat transfer.

Opacity means the degree to which emissions reduce the transmission of light and obscure the view of an object in the background. For continuous opacity monitoring systems, opacity means the fraction of incident light that is attenuated by an optical medium.

Open burning means the burning of a material that results in the products of combustion being emitted directly into the atmosphere without passing through a stack. Open burning includes burning in burn barrels.

Owner or operator means any person who owns, leases, operates, controls or supervises an air pollution source.

Particleboard means a matformed flat panel consisting of wood particles bonded together with synthetic resin or other suitable binder.

Particulate matter means any airborne finely divided solid or liquid material, other than uncombined water.

Permit to construct or construction permit means a permit issued by the Regional Administrator pursuant to 40 CFR 52.10 or 52.21, or a permit issued by a Tribe pursuant to a program approved by the Administrator under 40 CFR Part 51, Subpart I, authorizing the construction or modification of a stationary source.

Permit to operate or operating permit means a permit issued by the Regional Administrator pursuant to § 49.139 or 40 CFR Part 71, or by a Tribe pursuant to a program approved by the Administrator under 40 CFR Part 51 or 40 CFR Part 70, authorizing the operation of a stationary source.

Plywood means a flat panel built generally of an odd number of thin sheets of veneers of wood in which the grain direction of each ply or layer is at right angles to the one adjacent to it.

PM10 means particulate matter with an aerodynamic diameter less than or equal to a nominal 10 micrometers as measured by a reference method based on Appendix J of 40 CFR Part 50 and designated in accordance with 40 CFR Part 53 or by an equivalent method designated in accordance with 40 CFR Part 53.

Potential to emit means the maximum capacity of an air pollution source to emit an air pollutant under its physical and operational design. Any physical or operational limitation on the capacity of the air pollution source to emit an air pollutant, including air pollution control equipment and restrictions on hours of operation or on the type or amount of material combusted, stored or processed, shall be treated as part of its design if the limitation or the effect it would have on emissions is Federally enforceable.

Press/Cooling vent means any opening through which particulate and gaseous emissions from plywood, particleboard, or hardboard manufacturing are exhausted, either by natural draft or powered fan, from the building housing the process. Such openings are generally located immediately above the board press, board unloader, or board cooling area.

Process source means an air pollution source using a procedure or combination of procedures for the purpose of causing a change in material by either chemical or physical means, excluding combustion.

Rated capacity means the maximum sustainable capacity of the equipment.

Reference method means any method of sampling and analyzing for an air pollutant as specified in the applicable rule.

Refuse means all solid, liquid, or gaseous waste material, including but not limited to, garbage, trash, household refuse, municipal solid waste, construction or demolition debris, or waste resulting from the operation of any business, trade, or industry.

Regional Administrator means the Regional Administrator of EPA Region 10 or an authorized representative of the Regional Administrator.

Residual fuel oil means any oil meeting the specifications of ASTM Grade 4, Grade 5, or Grade 6 fuel oils in ASTM Method D396-98, Standard Specification for Fuel Oils.

Solid fuel means wood, refuse, refuse-derived fuel, tires, tire-derived fuel, and other solid combustible material (other than coal), including any combination thereof.

Solid fuel-fired boiler means a furnace or boiler used for combusting solid fuel for the primary purpose of producing steam or hot water by heat transfer.

Soot blowing means using steam or compressed air to remove carbon from a furnace or from a boiler's heat transfer surfaces.

Stack means any point in a source that conducts air pollutants to the atmosphere, including, but not limited to, a chimney, flue, conduit, pipe, vent, or duct, but not including a flare.

Standard conditions means a temperature of 293 degrees Kelvin (68 degrees Fahrenheit, 20 degrees Celsius) and a pressure of 101.3 kilopascals (29.92 inches of mercury).

Start-up means the setting into operation of a piece of equipment.

Stationary source means any building, structure, facility, or installation that emits, or may emit, any air pollutant.

Tempering oven means any facility used to bake hardboard following an oil treatment process.

Uncombined water means droplets of water that have not combined with hygroscopic particles or contain dissolved solids.

Used oil means petroleum products that have been recovered from another application.

Veneer means a single flat panel of wood not exceeding ¼ inch in thickness formed by slicing or peeling from a log.

Veneer dryer means equipment in which veneer is dried.

Visible emissions means air pollutants in sufficient amount to be observable to the human eye.

Wood means wood, wood residue, bark, or any derivative or residue thereof, in any form, including but not limited to sawdust, sanderdust, wood chips, scraps, slabs, millings, shavings, and processed pellets made from wood or other forest residues.

Wood-fired boiler means a furnace or boiler used for combusting wood for the primary purpose of producing steam or hot water by heat transfer.

Wood-fired veneer dryer means a veneer dryer that is directly heated by the products of combustion of wood in addition to, or exclusive of, steam or natural gas or propane combustion.

Woodwaste burner means a wigwam burner, teepee burner, silo burner, olivine burner, truncated cone burner, or other such wood waste burning device used by the wood products industry for the disposal of wood wastes by burning.

(b) Requirement for testing. The Regional Administrator may require, in a permit to construct or a permit to operate, that a person demonstrate compliance with the “General Rules for Application to Indian Reservations in EPA Region 10” by performing a source test and submitting the test results to the Regional Administrator. A person may also be required by the Regional Administrator, in a permit to construct or permit to operate, to install and operate a continuous opacity monitoring system (COMS) or a continuous emissions monitoring system (CEMS) to demonstrate compliance. Nothing in the “General Rules for Application to Indian Reservations in EPA Region 10” limits the authority of the Regional Administrator to require, in an information request pursuant to section 114 of the Act, a person subject to the “General Rules for Application to Indian Reservations in EPA Region 10” to demonstrate compliance by performing source testing, even where the source does not have a permit to construct or a permit to operate.

(c) Requirement for monitoring, recordkeeping, and reporting. Nothing in the “General Rules for Application to Indian Reservations in EPA Region 10” precludes the Regional Administrator from requiring monitoring, recordkeeping and reporting, including monitoring, recordkeeping and reporting in addition to that already required by an applicable requirement, in a permit to construct or permit to operate in order to ensure compliance.

(d) Credible evidence. For the purposes of submitting compliance certifications or establishing whether or not a person has violated or is in violation of any requirement, nothing in the “General Rules for Application to Indian Reservations in EPA Region 10” shall preclude the use, including the exclusive use, of any credible evidence or information, relevant to whether a source would have been in compliance with applicable requirements if the appropriate performance or compliance test had been performed.

(e) Incorporation by reference. The materials listed in this section are incorporated by reference in the corresponding sections noted. These incorporations by reference were approved by the Director of the Federal Register in accordance with 5 U.S.C. 552(a) and 1 CFR Part 51. These materials are incorporated as they exist on the date of the approval, and a notice of any change in these materials will be published in the Federal Register. The materials are available for purchase at the corresponding addresses noted below, or are available for inspection at the Office of the Federal Register, 800 North Capitol Street, NW., Suite 700, Washington, DC, at the Air and Radiation Docket and Information Center, U.S. EPA, 401 M Street, SW., Washington, DC, and at the EPA Library (MD-35), U.S. EPA, Research Triangle Park, North Carolina.

(1) The materials listed below are available for purchase from at least one of the following addresses: American Society for Testing and Materials, 100 Barr Harbor Drive, West Conshohocken, Pennsylvania 19428-2959; or University Microfilms International, 300 North Zeeb Road, Ann Arbor, Michigan 48106.

(i) ASTM D388-99, Standard Classification of Coals by Rank, IBR approved for § 49.123(a).

(ii) ASTM D396-98, Standard Specification for Fuel Oils, IBR approved for § 49.123(a) and § 49.130(d).

(iii) ASTM D240-92(1997)e2, Standard Test Method for Heat of Combustion of Liquid Hydrocarbon Fuels by Bomb Calorimeter, IBR approved for § 49.123(a).

(iv) ASTM D1826-94(1998), Standard Test Method for Calorific (Heating) Value of Gases in Natural Gas Range by Continuous Recording Calorimeter, IBR approved for § 49.123(a).

(v) ASTM D5865-99a, Standard Test Method for Gross Calorific Value of Coal and Coke, IBR approved for § 49.123(a).

(vi) ASTM E711-87(1996) Standard Test Method for Gross Calorific Value of Refuse-Derived Fuel by the Bomb Calorimeter, IBR approved for § 49.123(a).

(vii) ASTM D2880-98, Standard Specification for Gas Turbine Fuel Oils, IBR approved for § 49.130(e)(1).

(viii) ASTM D4294-98, Standard Test Method for Sulfur in Petroleum Products by Energy-Dispersive X-ray Fluorescence Spectroscopy, IBR approved for § 49.130(e)(1).

(ix) ASTM D6021-96, Standard Test Method for Measurement of Total Hydrogen Sulfide in Residual Fuels by Multiple Headspace Extraction and Sulfur Specific Detection, IBR approved for § 49.130(e)(1).

(x) ASTM D3177-89(1997), Standard Test Methods for Total Sulfur in the Analysis Sample of Coal and Coke, IBR approved for § 49.130(e)(2).

(xi) ASTM D4239-00, Standard Test Methods for Sulfur in the Analysis Sample of Coal and Coke Using High Temperature Tube Furnace Combustion Methods, IBR approved for § 49.130(e)(2).

(xii) ASTM D2492-90(1998), Standard Test Method for Forms of Sulfur in Coal, IBR approved for § 49.130(e)(2).

(xiii) ASTM E775-87(1996), Standard Test Methods for Total Sulfur in the Analysis Sample of Refuse-Derived Fuel, IBR approved for § 49.130(e)(3).

(xiv) ASTM D1072-90(1999), Standard Test Method for Total Sulfur in Fuel Gases, IBR approved for § 49.130(e)(4).

(xv) ASTM D3246-96, Standard Test Method for Sulfur in Petroleum Gas by Oxidative Microcoulometry, IBR approved for § 49.130(e)(4).

(xvi) ASTM D4084-94(1999) Standard Test Method for Analysis of Hydrogen Sulfide in Gaseous Fuels (Lead Acetate Reaction Rate Method), IBR approved for § 49.130(e)(4).

(xvii) ASTM D5504-98, Standard Test Method for Determination of Sulfur Compounds in Natural Gas and Gaseous Fuels by Gas Chromatography and Chemiluminescence, IBR approved for § 49.130(e)(4).

(xviii) ASTM D4468-85(1995)e1, Standard Test Method for Total Sulfur in Gaseous Fuels by Hydrogenolysis and Rateometric Colorimetry, IBR approved for § 49.130(e)(4).

(xix) ASTM D2622-98, Standard Test Method for Sulfur in Petroleum Products by Wavelength Dispersive X-ray Fluorescence Spectrometry, IBR approved for § 49.130(e)(4).

(xx) ASTM D6228-98 Standard Test Method for Determination of Sulfur Compounds in Natural Gas and Gaseous Fuels by Gas Chromatography and Flame Photometric Detection, IBR approved for § 49.130(e)(4).

§ 49.124 Rule for limiting visible emissions.

(a) What is the purpose of this rule? This rule, § 49.124, limits the visible emissions of air pollutants from air pollution sources operating within the Indian reservation in order to control emissions of particulate matter to the atmosphere and ground-level concentrations of PM10 and to detect the violation of any other rules and regulations.

(b) Who is affected by this rule? This rule, § 49.124, applies to any person who owns or operates an air pollution source that emits, or could emit, particulate matter or other visible air pollutants to the atmosphere, unless exempted in paragraph (c) of this section.

(c) What is exempted from this rule? This rule, § 49.124, does not apply to open burning, agricultural activities, non-commercial smoke houses, sweat houses or lodges, smudge pots, furnaces and boilers used exclusively to heat residential buildings with four or fewer dwelling units, fugitive dust from public roads owned or maintained by any Federal, Tribal, State or local government, and emissions from fuel combustion in mobile sources.

(d) What are the opacity limits for air pollution sources?

(1) The visible emissions from an air pollution source must not exceed 20% opacity, averaged over any consecutive 6-minute period, unless paragraph (d)(2) or (d)(3) of § 49.124 applies to the air pollution source.

(2) The visible emissions from an air pollution source may exceed the 20% opacity limit if the owner or operator of the air pollution source demonstrates to the Regional Administrator's satisfaction that the presence of uncombined water, such as steam, is the only reason for the failure of an air pollution source to meet the 20% opacity limit.

(3) The visible emissions from an oil-fired boiler or solid fuel-fired boiler that continuously measures opacity with a continuous opacity monitoring system (COMS) may exceed the 20% opacity limit during start-up, soot blowing, and grate cleaning for a single period of up to 15 minutes in any 8 consecutive hours, but must not exceed 60% opacity at any time.

(e) What is the reference method for determining compliance?

(1) The reference method for determining compliance with the opacity limits is EPA Method 9 of Appendix A of 40 CFR Part 60. A complete description of this method is found in Appendix A.

(2) An alternative reference method for determining compliance is a COMS that complies with Performance Specification 1 found in Appendix B of 40 CFR Part 60.

(3) This rule, § 49.124, does not require any person to conduct Method 9, of Appendix A of 40 CFR Part 60, opacity readings or to install a COMS unless specifically required by the Regional Administrator in a permit to construct or permit to operate.

(f) Definitions of terms used in this rule. The following terms, that are used in this rule, § 49.124, are defined in § 49.123 General provisions: Act, agricultural activities, air pollutant, air pollution source, ambient air, coal, continuous opacity monitoring system (COMS), distillate fuel oil, emission, fuel, fuel oil, fugitive dust, gaseous fuel, grate cleaning, marine vessel, mobile sources, motor vehicle, non-road engine, non-road vehicle, oil-fired boiler, opacity, open burning, particulate matter, permit to construct, permit to operate, PM10, reference method, refuse, Regional Administrator, residual fuel oil, solid fuel, solid fuel-fired boiler, soot blowing, stack, standard conditions, start-up, stationary source, uncombined water, used oil, visible emissions, and wood.

§ 49.125 Rule for limiting the emissions of particulate matter.

(a) What is the purpose of this rule? This rule, § 49.125, limits the amount of particulate matter that can be emitted from certain air pollution sources within the Indian reservation in order to control ground-level concentrations of PM10.

(b) Who is affected by this rule? This rule, § 49.125, applies to any person who owns or operates an air pollution source that emits, or could emit, particulate matter to the atmosphere, unless exempted in paragraph (c) of this section.

(c) What is exempted from this rule? This rule, § 49.125, does not apply to woodwaste burners, furnaces and boilers used exclusively for space heating with a rated heat input capacity of less than 400,000 British thermal units (Btu) per hour, non-commercial smoke houses, sweat houses or lodges, and mobile sources.

(d) What are the particulate matter limits for sources?

(1) Particulate matter emissions from a combustion source (except for wood-fired boilers) must not exceed an average of 0.23 grams per dry standard cubic meter (0.1 grains per dry standard cubic foot), corrected to seven (7) percent oxygen, during any three (3) hour period.

(2) Particulate matter emissions from a wood-fired boiler must not exceed an average of 0.46 grams per dry standard cubic meter (0.2 grains per dry standard cubic foot), corrected to seven (7) percent oxygen, during any three (3) hour period.

(3) Particulate matter emissions from a process source must not exceed an average of 0.23 grams per dry standard cubic meter (0.1 grains per dry standard cubic foot) during any three (3) hour period.

(e) What is the reference method for determining compliance?

(1) The reference method for determining compliance with the particulate matter limits for a combustion source, wood-fired boiler, or process source is EPA Method 5. A complete description of this method is found in Appendix A of 40 CFR Part 60.

(2) This rule, § 49.125, does not require any person to conduct a Method 5 source test unless specifically required by the Regional Administrator in a permit to construct or permit to operate.

(f) Definitions of terms used in this rule. The following terms, that are used in this rule, § 49.125, are defined in § 49.123 General provisions: Act, air pollutant, air pollution source, ambient air, British thermal unit (Btu), coal, combustion source, distillate fuel oil, emission, fuel, fuel oil, gaseous fuel, heat input, incinerator, marine vessel, mobile sources, motor vehicle, non-road engine, non-road vehicle, open burning, particulate matter, permit to construct, permit to operate, PM10, process source, reference method, refuse, residual fuel oil, solid fuel, stack, standard conditions, stationary source, uncombined water, used oil, wood, wood-fired boiler, and woodwaste burner.

§ 49.126 Rule for limiting fugitive particulate matter emissions.

(a) What is the purpose of this rule? This rule, § 49.126, limits the amount of fugitive particulate matter that can be emitted from air pollution sources within the Indian reservation in order to control ground-level concentrations of PM10.

(b) Who is affected by this rule? This rule, § 49.126, applies to any person who owns or operates a source of fugitive particulate matter emissions.

(c) What is exempted from this rule? This rule, § 49.126, does not apply to activities associated with single family residences or residential buildings with four or fewer dwelling units, agricultural activities, or public roads owned or maintained by any Federal, Tribal, State or local government.

(d) What are the requirements for sources of fugitive particulate matter emissions?

(1) The owner or operator of any source of fugitive particulate matter emissions, including any source or activity engaged in materials handling or storage, construction, demolition, or any other operation that is or may be a source of fugitive particulate matter emissions, must take all reasonable precautions to prevent fugitive particulate matter emissions and must maintain and operate the source to minimize fugitive particulate matter emissions.

(2) Reasonable precautions include, but are not limited to the following:

(i) Use, where possible, of water or chemicals for control of dust in the demolition of buildings or structures, construction operations, grading of roads, or clearing of land.

(ii) Application of asphalt, oil (but not used oil), water, or other suitable chemicals on unpaved roads, materials stockpiles, and other surfaces that can create airborne dust.

(iii) Full or partial enclosure of materials stockpiles in cases where application of oil, water, or chemicals is not sufficient or appropriate to prevent particulate matter from becoming airborne.

(iv) Implementation of good housekeeping practices to avoid or minimize the accumulation of dusty materials that have the potential to become airborne, and the prompt cleanup of spilled or accumulated materials.

(v) Installation and use of hoods, fans, and fabric filters to enclose and vent the handling of dusty materials.

(vi) Adequate containment during sandblasting or other similar operations.

(vii) Covering, at all times when in motion, open bodied trucks transporting materials likely to become airborne.

(viii) The prompt removal from paved streets of earth or other material that does or may become airborne.

(e) Are there additional requirements that must be met?

(1) A person subject to this rule, § 49.126, must:

(i) Periodically survey the air pollution source during typical operating conditions to determine if there are sources of fugitive particulate matter emissions. This must be done at least once each calendar quarter, and must be done weekly if dry or dusty materials are handled at the air pollution source. Document the results of the survey, including the date and time of the survey and identification of any sources of fugitive particulate matter emissions found.

(ii) If sources of fugitive particulate matter emissions are present, determine the reasonable precautions that will be taken to prevent fugitive particulate matter emissions.

(iii) Prepare, and update as necessary following each periodic survey, a written plan that specifies the reasonable precautions to be taken and the procedures to be followed to prevent fugitive particulate matter emissions.

(iv) Implement the reasonable precautions and procedures plan, and maintain and operate the source to minimize fugitive particulate matter emissions.

(v) Maintain records for five years that document the periodic surveys and the reasonable precautions that were taken to prevent fugitive particulate matter emissions.

(2) The Regional Administrator may require specific actions to prevent fugitive particulate matter emissions, or impose conditions to maintain and operate the air pollution source to minimize fugitive particulate matter emissions, in a permit to construct or a permit to operate for the source.

(3) A prudent approach to complying with this rule, § 49.126, requires that the owner or operator consider all environmental implications of any particular measures. Efforts to comply with this rule cannot be used as a reason for not complying with other environmental rules, or in the absence of such rules, creating other environmental problems.

(f) Definitions of terms used in this rule. The following terms, that are used in this rule, § 49.126, are defined in § 49.123 General provisions: Agricultural activities, air pollutant, air pollution source, ambient air, emission, fugitive dust, fugitive particulate matter, owner or operator, particulate matter, permit to construct, permit to operate, PM10, Regional Administrator, stack, and uncombined water.

§ 49.127 Rule for woodwaste burners.

(a) What is the purpose of this rule? This rule, § 49.127, phases out the operation of woodwaste burners (commonly known as wigwam or teepee burners), and in the interim, limits the visible emissions from woodwaste burners operating within the Indian reservation in order to control emissions of particulate matter to the atmosphere and ground-level concentrations of PM10.

(b) Who is affected by this rule? This rule, § 49.127, applies to any person who owns or operates a woodwaste burner.

(c) What are the requirements for woodwaste burners?

(1) The owner or operator of a woodwaste burner must shut down and dismantle the woodwaste burner by no later than 2 years after the effective date of this rule, § 49.127. Until the woodwaste burner is shut down, visible emissions from the woodwaste burner must not exceed 20% opacity, averaged over any consecutive 6-minute period.

(2) Until the woodwaste burner is shut down, only wood waste generated onsite may be burned or disposed of in the woodwaste burner.

(3) If there is no reasonably available alternative method of disposal for the wood waste other than by burning it onsite in a woodwaste burner, the owner or operator of the woodwaste burner that is in compliance with the opacity limit in paragraph (c)(1) of this section, may apply to the Regional Administrator for an extension of the 2-year deadline. If the Regional Administrator finds that there is no reasonably available alternative method of disposal, then a 2-year extension of the deadline may be granted. There is no limit to the number of extensions that may be granted by the Regional Administrator.

(d) What is the reference method for determining compliance with the opacity limit?

(1) The reference method for determining compliance with the opacity limit is EPA Method 9. A complete description of this method is found in 40 CFR Part 60, Appendix A.

(2) This rule, § 49.127, does not require any person to conduct Method 9 opacity readings unless specifically required by the Regional Administrator in a permit to construct or permit to operate.

(e) Are there additional requirements that must be met? A person subject to this rule, § 49.127, must submit a plan to shut down and dismantle the woodwaste burner to the Regional Administrator within 180 days after the effective date of this rule, § 49.127. Unless an extension has been granted by the Regional Administrator, the woodwaste burner must be shut down and dismantled within 2 years after the effective date of this rule, § 49.127. The owner or operator of the woodwaste burner must notify the Regional Administrator that the woodwaste burner has been shut down and dismantled within 30 days after completion.

(f) Definitions of terms used in this rule. The following terms, that are used in this rule, § 49.127, are defined in § 49.123 General provisions: Air pollutant, ambient air, emission, opacity, owner or operator, particulate matter, permit to construct, permit to operate, PM10, reference method, Regional Administrator, stationary source, uncombined water, visible emissions, wood, and woodwaste burner.

§ 49.128 Rule for limiting particulate matter emissions from wood products industry sources.

(a) What is the purpose of this rule? This rule, § 49.128, limits the amount of particulate matter that can be emitted from certain wood products industry sources within the Indian reservation in order to control ground-level concentrations of PM10.

(b) Who is affected by this rule? This rule, § 49.128, applies to any person who owns or operates any of the following wood products industry sources:

(1) Veneer manufacturing operations;

(2) Plywood manufacturing operations;

(3) Particleboard manufacturing operations; and

(4) Hardboard manufacturing operations.

(c) What are the particulate matter limits for wood products industry sources? These particulate matter limits are in addition to, and not in lieu of, the particulate matter limits for combustion sources and process sources.

(1) Veneer Dryers at Veneer Manufacturing Operations and Plywood Manufacturing Operations.

(i) Particulate matter emissions from direct natural gas fired or direct propane fired veneer dryers must not exceed 0.3 pounds per 1000 square feet of veneer dried (3/8 inch basis), one-hour average.

(ii) Particulate matter emissions from steam heated veneer dryers must not exceed 0.3 pounds per 1000 square feet of veneer dried (3/8 inch basis), one-hour average.

(iii) Particulate matter emissions from wood fired veneer dryers must not exceed a total of 0.3 pounds per 1000 square feet of veneer dried (3/8 inch basis) and 0.2 pounds per 1000 pounds of steam generated in boilers, prorated for the amount of combustion gases routed to the veneer dryer, one-hour average.

(2) Wood Particle Dryers at Particleboard Manufacturing Operation. Particulate matter emissions from wood particle dryers must not exceed a total of 0.4 pounds per 1000 square feet of board produced by the plant (3/4 inch basis), one-hour average.

(3) Press/Cooling Vents at Hardboard Manufacturing Operations. Particulate matter emissions from hardboard press/cooling vents must not exceed 0.3 pounds per 1000 square feet of hardboard produced (1/8 inch basis), one-hour average.

(4) Tempering Ovens at Hardboard Manufacturing Operations. A person must not operate any hardboard tempering oven unless all gases and vapors are collected and treated in a fume incinerator capable of raising the temperature of the gases and vapors to at least 1500 degrees Fahrenheit for 0.3 seconds or longer.

(d) What is the reference method for determining compliance?

(1) The reference method for determining compliance with the particulate matter limits is EPA Method 202. A complete description of this method is found in 40 CFR Part 51, Appendix M.

(2) This rule, § 49.128, does not require any person to conduct a Method 202 source test unless specifically required by the Regional Administrator in a permit to construct or permit to operate.

(e) Definitions of terms used in this rule. The following terms, that are used in this rule, § 49.128, are defined in § 49.123 General provisions: Act, combustion source, emissions, hardboard, particleboard, particulate matter, permit to construct, permit to operate, plywood, PM10, press/cooling vent, process source, tempering oven, veneer, veneer dryer, wood, and wood-fired veneer dryer.

§ 49.129 Rule for limiting emissions of sulfur dioxide.

(a) What is the purpose of this rule? This rule, § 49.129, limits the amount of sulfur dioxide (SO2) that can be emitted from certain air pollution sources within the Indian reservation in order to control ground-level concentrations of SO2.

(b) Who is affected by this rule? This rule, § 49.129, applies to any person who owns or operates an air pollution source that emits, or could emit, SO2 to the atmosphere.

(c) What is exempted from this rule? This rule, § 49.129, does not apply to furnaces and boilers used exclusively for space heating with a rated heat input capacity of less than 400,000 British thermal units (Btu) per hour, and mobile sources.

(d) What are the sulfur dioxide limits for sources?

(1) Sulfur dioxide emissions from a combustion source must not exceed an average of 500 parts per million by volume, on a dry basis and corrected to seven (7) percent oxygen, during any three (3) hour period.

(2) Sulfur dioxide emissions from a process source must not exceed an average of 500 parts per million by volume, on a dry basis, during any three (3) hour period.

(e) What are the reference methods for determining compliance?

(1) The reference methods for determining compliance with the SO2 limits are EPA Methods 6, 6A, 6B, and 6C as specified in the applicability section of each Method. A complete description of these methods are found in 40 CFR Part 60, Appendix A.

(2) An alternative reference method is a continuous emissions monitoring system (CEMS) that complies with Performance Specification 2 found in 40 CFR Part 60, Appendix B.

(3) This rule, § 49.129, does not require any person to conduct Method 6, 6A, 6B, or 6C of Appendix A of 40 CFR Part 60 source tests or to install a continuous emissions monitoring system (CEMS) unless specifically required by the Regional Administrator in a permit to construct or permit to operate.

(f) Definitions of terms used in this rule. The following terms, that are used in this rule, § 49.129, are defined in § 49.123 General provisions: Act, air pollutant, air pollution source, ambient air, British thermal unit (Btu), coal, combustion source, continuous emissions monitoring system (CEMS), distillate fuel oil, emission, fuel, fuel oil, gaseous fuel, heat input, incinerator, marine vessel, mobile sources, motor vehicle, non-road engine, non-road vehicle, open burning, permit to construct, permit to operate, process source, reference method, refuse, residual fuel oil, solid fuel, stack, standard conditions, stationary source, used oil, wood, and woodwaste burner.

§ 49.130 Rule for limiting sulfur in fuels.

(a) What is the purpose of this rule? This rule, § 49.130, limits the amount of sulfur contained in fuels that are burned at stationary sources within the Indian reservation in order to control emissions of sulfur dioxide (SO2) to the atmosphere and ground-level concentrations of SO2.

(b) Who is affected by this rule? This rule, § 49.130, applies to any person who sells, distributes, uses, or makes available for use, any fuel oil, coal, solid fuel, or gaseous fuel within the Indian reservation.

(c) What is exempted from this rule? This rule, § 49.130, does not apply to fuel oils used exclusively for mobile sources, such as automotive and marine diesel fuels.

(d) What are the sulfur limits for fuels? A person must not sell, distribute, use, or make available for use any fuel oil, coal, solid fuel, or gaseous fuel that contains more than the following amounts of sulfur:

(1) For distillate fuel oil—0.3 percent by weight for ASTM Grade 1 fuel oil;

(2) For distillate fuel oil—0.5 percent by weight for ASTM Grade 2 fuel oil;

(3) For residual fuel oil—1.75 percent sulfur by weight for ASTM Grades 4, 5, or 6 fuel oil;

(4) For used oil—2.0 percent sulfur by weight;

(5) For coal—1.0 percent sulfur by weight;

(6) For solid fuels—2.0 percent sulfur by weight;

(7) For gaseous fuels—1.1 grams of sulfur per dry standard cubic meter of gaseous fuel (400 parts per million at standard conditions).

(e) What are the reference methods for determining compliance? The reference methods for determining the amount of sulfur in a fuel are as follows:

(1) Sulfur content in fuel oil—ASTM methods D2880-98, D4294-98, and D6021-96;

(2) Sulfur content in coal—ASTM methods D3177-89(1997), D4239-00, and D2492-90(1998);

(3) Sulfur content in solid fuels—ASTM method E775-87(1996);

(4) Sulfur content in gaseous fuels—ASTM methods D1072-90(1999), D3246-96, D4084-94(1999), D5504-98, D4468-85(1995)e1, D2622-98, and D6228-98.

(f) Are there additional requirements that must be met?

(1) A person subject to this rule, § 49.130, must:

(i) For fuel oils, obtain, record, and keep records of the percent sulfur by weight from the vendor for each purchase of fuel oil. If the vendor is unable to provide this information, then obtain a representative grab sample for each purchase and test the sample using the reference method.

(ii) For gaseous fuels, either obtain, record, and keep records of the sulfur content from the vendor, or continuously monitor the sulfur content of the fuel gas line using EPA Methods 11 or 16. Complete descriptions of these Methods are found in 40 CFR Part 60, Appendix A. If only pipeline natural gas is used, then keep records showing that only pipeline quality natural gas was used.

(iii) For coal and solid fuels, either obtain, record, and keep records of the percent sulfur by weight from the vendor for each purchase of coal or solid fuel, or obtain a representative grab sample for each day of operation and test the sample using the reference method. The owner or operator of a coal or solid fuel-fired source may apply to the Regional Administrator for a waiver of this provision or for approval of an alternative fuel sampling program.

(2) Records of fuel purchases and fuel sulfur content must be kept for a period of five (5) years and must be made available to the Regional Administrator upon request.

(3) The owner or occupant of a single family residence, and the owner or manager of a residential building with four or fewer dwelling units, is not subject to the requirement to obtain and record the percent sulfur content from the vendor if the fuel used in an oil, coal, or gas furnace is purchased from a licensed fuel distributor.

(g) Definitions of terms used in this rule. The following terms, that are used in this rule, § 49.130, are defined in § 49.123 General provisions: Act, air pollutant, ambient air, coal, distillate fuel oil, emission, fuel, fuel oil, gaseous fuel, marine vessel, mobile sources, motor vehicle, non-road engine, non-road vehicle, owner or operator, reference method, refuse, Regional Administrator, residual fuel oil, solid fuel, standard conditions, stationary source, and used oil.

§ 49.131 General rule for open burning.

(a) What is the purpose of this rule? This rule, § 49.131, limits the types of materials that can be open burned within the Indian reservation in order to control emissions of particulate matter and other noxious fumes to the atmosphere and ground-level concentrations of PM10.

(b) Who is affected by this rule? This rule, § 49.131, applies to any person who conducts open burning.

(c) What is exempted from this rule? The following open fires are exempted from this rule, § 49.131:

(1) Outdoor fires set for cultural or traditional purposes;

(2) Fires set for cultural or traditional purposes within structures such as sweat houses or lodges;

(3) Except during a burn ban under paragraphs (d)(2) and (d)(3) of this section, fires set for recreational purposes provided that no prohibited materials are burned;

(4) Except during a burn ban under paragraphs (d)(2) and (d)(3) of this section, burn barrels located at single family residences or residential buildings with four or fewer dwelling units that are only used to dispose of combustible household wastes generated onsite;

(5) With permission from the Regional Administrator, open outdoor fires used by qualified personnel to train firefighters in the methods of fire suppression and fire fighting techniques, provided that training fires are not allowed to smolder after the training session has terminated. Prior to igniting any structure, the fire protection service shall ensure that the structure does not contain any asbestos or asbestos containing materials; batteries; stored chemicals such as pesticides, herbicides, fertilizers, paints, glues, sealers, tars, solvents, household cleaners, or photographic reagents; stored linoleum, plastics, rubber, tires, or insulated wire; or hazardous wastes. Before requesting permission from the Regional Administrator, the fire protection service must notify any appropriate Tribal air pollution authority and obtain any permissions or approvals required by the Tribe;

(6) With permission from the Regional Administrator, one open outdoor fire each year to dispose of fireworks and associated packaging materials. Before requesting permission from the Regional Administrator, the owner or operator must notify any appropriate Tribal air pollution authority and obtain any permissions or approvals required by the Tribe;

(7) Open burning for the disposal of diseased animals or infested material by order of a public health official.

(d) What are the requirements for open burning?

(1) A person must not open burn, or allow the open burning of, the following materials:

(i) Garbage;

(ii) Dead animals or parts of dead animals;

(iii) Junked motor vehicles or any materials resulting from a salvage operation;

(iv) Tires or rubber materials or products;

(v) Plastics;

(vi) Asphalt or composition roofing, or any other asphaltic material or product;

(vii) Tar, tarpaper, petroleum products, or paints;

(viii) Paper or cardboard other than what is necessary to start a fire;

(ix) Lumber or timbers treated with preservatives;

(x) Construction debris or demolition waste;

(xi) Pesticides, herbicides, fertilizers, or other chemicals;

(xii) Insulated wire;

(xiii) Batteries;

(xiv) Light bulbs;

(xv) Materials containing mercury (thermometers for example);

(xvi) Asbestos or materials containing asbestos;

(xvii) Pathogenic wastes;

(xviii) Hazardous wastes; or

(xix) Any material other than natural vegetation that normally emits dense smoke or noxious fumes when burned.

(2) Except for exempted fires set for cultural or traditional purposes, all open burning is prohibited whenever the Regional Administrator declares a burn ban due to deteriorating air quality. A burn ban may be declared whenever the Regional Administrator determines that air quality levels have exceeded, or are expected to exceed, 75% of any national ambient air quality standard and will continue to exceed that level for at least the next 24 hours.

(3) Except for exempted fires set for cultural or traditional purposes, all open burning is prohibited whenever the National Weather Service issues an air stagnation advisory, or the Regional Administrator declares an air pollution alert, air pollution warning, or air pollution emergency pursuant to § 49.137 Air pollution episodes.

(4) Nothing in this rule, § 49.131, exempts or excuses any person from complying with applicable laws and ordinances of other governmental jurisdictions responsible for fire control.

(e) Are there additional requirements that must be met?

(1) A person subject to this rule, § 49.131, must conduct open burning as follows:

(i) Prohibited materials must not be open burned;

(ii) All materials to be open burned must be kept as dry as possible through the use of a cover or dry storage;

(iii) Before igniting a burn, noncombustibles must be separated from the materials to be open burned to the greatest extent practicable;

(iv) Natural or artificially induced draft must be present;

(v) To the greatest extent practicable, materials to be open burned must be separated from the grass or peat layer; and

(vi) A fire must not be allowed to smolder.

(2) A person must not initiate any open burning subject to this rule when:

(i) The Regional Administrator has declared a burn ban;

(ii) An air stagnation advisory has been issued by the National Weather Service; or

(iii) An air pollution alert, warning, or emergency has been declared by the Regional Administrator.

(3) Any person conducting open burning subject to this rule, § 49.131, when such an advisory is issued or declaration is made must either immediately extinguish the fire, or immediately withhold additional material such that the fire burns down.

(f) Definitions of terms used in this rule. The following terms, that are used in this rule, § 49.131, are defined in § 49.123 General provisions: Air pollutant, ambient air, burn barrel, combustible household wastes, emission, open burning, particulate matter, PM10, Regional Administrator, stack, and uncombined water.

§ 49.132 Rule for general open burning permits.

(a) What is the purpose of this rule? This rule, § 49.132, establishes a permitting program for open burning within the Indian reservation in order to control emissions of particulate matter and other noxious fumes to the atmosphere and ground-level concentrations of PM10.

(b) Who is affected by this rule? This rule, § 49.132, applies to any person who conducts open burning.

(c) What is exempted from this rule? The following open fires are exempted from this rule, § 49.132:

(1) Outdoor fires set for cultural or traditional purposes;

(2) Fires set for cultural or traditional purposes within structures such as sweat houses or lodges;

(3) Fires set for recreational purposes, provided that no prohibited materials are burned;

(4) Forestry or silvicultural burning;

(5) Agricultural burning; and

(6) Burn barrels located at single family residences or residential buildings with four or fewer dwelling units that are only used to dispose of combustible household wastes generated onsite.

(d) What are the requirements for open burning?

(1) A person must apply for and obtain a permit for the open burn, have the permit available on site during the open burn, and conduct the open burning in accordance with the terms and conditions of the permit.

(2) A person must comply with the § 49.131 General rule for open burning or the EPA-approved Tribal open burning rule, as applicable.

(3) Nothing in this rule, § 49.132, exempts or excuses any person from complying with applicable laws and ordinances of other governmental jurisdictions responsible for fire control.

(e) Are there additional requirements that must be met?

(1) A person subject to this rule, § 49.132, must submit an application to the Regional Administrator for each open burn. An application must be submitted in writing at least one working day, and no earlier than 5 working days, prior to the requested date that the burn would be conducted, and must contain, at a minimum, the following information:

(i) Street address of the property upon that the proposed open burning will occur. If there is no street address of the property, the legal description of the property.

(ii) Name, mailing address, and telephone number of the person who will be responsible for conducting the proposed open burning.

(iii) A plot plan showing the location of the proposed open burning in relation to the property lines and indicating the distances and directions of the nearest residential and commercial properties.

(iv) The type and quantity of materials proposed to be burned, including the estimated volume of material to be burned and the area over that burning will be conducted.

(v) A description of the measures that will be taken to prevent escaped burns, including but not limited to the availability of water.

(vi) The requested date (or dates if the duration of the burn is more than one day) that the proposed open burning would be conducted.

(vii) Any other information specifically requested by the Regional Administrator.

(2) If the proposed open burning is consistent with this rule (§ 49.132) and § 49.131 General rule for open burning (or the EPA-approved Tribal open burning rule), the Regional Administrator may issue a burn permit. The permit will authorize burning only for the requested date(s) and will include any conditions that the Regional Administrator determines are necessary to ensure compliance with this rule (§ 49.132), § 49.131 General rule for open burning (or the EPA-approved Tribal open burning rule), and to protect the public health and welfare.

(3) When reviewing an application, the Regional Administrator shall take into consideration the size, duration, and location of the proposed open burn, the current and projected air quality conditions, the forecasted meteorological conditions, and other scheduled burning activities in the surrounding area. Where the Regional Administrator determines that the proposed open burning can be conducted without causing an adverse impact on air quality, a permit may be issued.

(4) The Regional Administrator, to the extent practical, will coordinate the issuance of open burning permits with the opening burning permit programs of surrounding jurisdictions.

(f) Definitions of terms used in this rule. The following terms, that are used in this rule, § 49.132, are defined in § 49.123 General provisions: Agricultural burning, air pollutant, ambient air, burn barrel, combustible household wastes, emission, forestry or silvicultural burning, open burning, particulate matter, PM10, Regional Administrator, stack, and uncombined water.

§ 49.133 Rule for agricultural burning permits.

(a) What is the purpose of this rule? This rule, § 49.133, establishes a permitting program for agricultural burning within the Indian reservation in order to control emissions of particulate matter and other noxious fumes to the atmosphere and ground-level concentrations of PM10.

(b) Who is affected by this rule? This rule, § 49.133, applies to any person who conducts agricultural burning.

(c) What are the requirements for agricultural burning?

(1) A person must apply for and obtain a permit for the agricultural burn, have the permit available onsite during the agricultural burn, and conduct the agricultural burning in accordance with the terms and conditions of the permit.

(2) A person must comply with § 49.131 General rule for open burning or the EPA-approved Tribal open burning rule, as applicable.

(3) Nothing in this rule, § 49.133, exempts or excuses any person from complying with applicable laws and ordinances of other governmental jurisdictions responsible for fire control.

(d) Are there additional requirements that must be met?

(1) A person subject to this rule, § 49.133, must submit an application to the Regional Administrator for each proposed agricultural burn. An application must contain, at a minimum, the following information:

(i) Street address of the property upon which the proposed agricultural burning will occur. If there is no street address of the property, the legal description of the property.

(ii) Name, mailing address, and telephone number of the person who will be responsible for conducting the proposed agricultural burning.

(iii) A plot plan showing the location of the proposed agricultural burning in relation to the property lines and indicating the distances and directions of the nearest residential and commercial properties.

(iv) The type and quantity of agricultural wastes proposed to be burned, including the estimated weight of material to be burned and the area over which burning will be conducted.

(v) A description of the burning method(s) to be used (pile or stack burn, open field or broadcast burn, windrow burn, mobile field sanitizer, etc.) and the amount of material to be burned with each method.

(vi) A description of the measures that will be taken to prevent escaped burns, including but not limited to the availability of water and plowed firebreaks.

(vii) The requested date(s) that the proposed agricultural burning would be conducted.

(viii) Any other information specifically requested by the Regional Administrator.

(2) If the proposed agricultural burning is consistent with this rule, § 49.133, and § 49.131 General rule for open burning (or the EPA-approved Tribal open burning rule), the Regional Administrator may issue a preliminary burn permit.

(3) On the morning of the day that the agricultural burning is to be conducted (or on Friday morning if the burn is to be conducted on a weekend, or on the morning of the last workday before a holiday), the person responsible for the burning must contact the Regional Administrator to receive final approval for the burn. Final approval can be obtained either verbally or in writing and will authorize burning to be conducted in accordance with the preliminary burn permit.

(4) When reviewing an application, the Regional Administrator shall take into consideration the size, duration, and location of the proposed burn, the current and projected air quality conditions, the forecasted meteorological conditions, and other scheduled burning activities in the surrounding area. Where the Regional Administrator determines that the proposed agricultural burning can be conducted without causing an adverse impact on air quality, final approval may be granted.

(5) The Regional Administrator, to the extent practical, will consult with and coordinate final approvals with the open burning permit programs of surrounding jurisdictions.

(e) Definitions of terms used in this rule. The following terms, that are used in this rule, § 49.133, are defined in § 49.123 General provisions: Agricultural burning or agricultural burn, air pollutant, ambient air, emission, open burning, particulate matter, PM10, Regional Administrator, stack, and uncombined water.

§ 49.134 Rule for forestry burning permits.

(a) What is the purpose of this rule? This rule, § 49.134, establishes a permitting program for forestry burning within the Indian reservation in order to control emissions of particulate matter and other noxious fumes to the atmosphere and ground-level concentrations of PM10.

(b) Who is affected by this rule? This rule, § 49.134, applies to any person who conducts forestry burning.

(c) What are the requirements for forestry burning?

(1) A person must apply for and obtain a permit for the forestry burn, have the permit available onsite during the forestry burn, and conduct the forestry burning in accordance with the terms and conditions of the permit.

(2) A person must comply with § 49.131 General rule for open burning or the EPA-approved Tribal open burning rule, as applicable.

(3) Nothing in this rule, § 49.134, exempts or excuses any person from complying with applicable laws and ordinances of other governmental jurisdictions responsible for fire control.

(d) Are there additional requirements that must be met?

(1) A person subject to this rule must submit an application to the Regional Administrator for each forestry burn. An application must contain, at a minimum, the following information:

(i) Street address of the property upon which the proposed forestry burning will occur. If there is no street address of the property, the legal description of the property.

(ii) Name, mailing address, and telephone number of the person who will be responsible for conducting the proposed forestry burning.

(iii) A plot plan showing the location of the proposed forestry burning in relation to the property lines and indicating the distances and directions of the nearest residential and commercial properties.

(iv) The type and quantity of forestry residues proposed to be burned, including the estimated weight of material to be burned and the area over which burning will be conducted.

(v) A description of the burning method(s) to be used (pile burn, broadcast burn, windrow burn, understory burn, etc.) and the amount of material to be burned with each method.

(vi) A description of the measures that will be taken to prevent escaped burns, including but not limited to the availability of water and firebreaks.

(vii) The requested date(s) that the proposed forestry burning would be conducted.

(viii) Any other information specifically requested by the Regional Administrator.

(2) If the proposed forestry burning is consistent with this rule, § 49.134, and § 49.131 General rule for open burning (or the EPA-approved Tribal open burning rule), the Regional Administrator may issue a preliminary burn permit.

(3) On the morning of the day that the forestry burning is to be conducted (or on Friday morning if the burn is to be conducted on a weekend, or on the morning of the last workday before a holiday), the person responsible for the burning must contact the Regional Administrator to receive final approval for the burn. Final approval can be obtained either verbally or in writing and will authorize burning to be conducted in accordance with the preliminary burn permit.

(4) When reviewing an application, the Regional Administrator shall take into consideration the size, duration, and location of the proposed burn, the current and projected air quality conditions, the forecasted meteorological conditions, and other scheduled burning activities in the surrounding area. Where the Regional Administrator determines that the proposed forestry burning can be conducted without causing an adverse impact on air quality, final approval may be granted.

(5) The Regional Administrator, to the extent practical, will consult with and coordinate final approvals with the opening burning permit programs of surrounding jurisdictions.

(e) Definitions of terms used in this rule. The following terms, that are used in this rule, § 49.134, are defined in § 49.123 General provisions: Air pollutant, ambient air, emission, forestry or silvicultural burning, open burning, particulate matter, PM10, Regional Administrator, stack, and uncombined water.

§ 49.135 Rule for emissions detrimental to human health and welfare.

(a) What is the purpose of this rule? This rule, § 49.135, is intended to prevent the emission of air pollutants from any air pollution source operating within the Indian reservation from being detrimental to human health and welfare.

(b) Who is affected by this rule? This rule, § 49.135, applies to any person who owns or operates an air pollution source.

(c) What are the requirements for air pollution sources?

(1) A person must not cause or allow the emission of any air pollutants from an air pollution source, in sufficient quantities and of such characteristic and duration, that the Regional Administrator determines:

(i) Causes or contributes to a violation of any national ambient air quality standard; or

(ii) Is, or would likely be, injurious to human health and welfare.

(2) If the Regional Administrator makes either of the above determinations, then the Regional Administrator may require the owner or operator of the source to install air pollution controls or to take reasonable precautions to reduce or prevent the emissions. If the Regional Administrator determines that the installation of air pollution controls or reasonable precautions are necessary, then the Regional Administrator will require the owner or operator to obtain a permit to construct or permit to operate for the source. The specific requirements will be established in the required permit to construct or permit to operate.

(3) Nothing in this rule, § 49.135, affects the ability of the Regional Administrator to issue an order pursuant to section 303 of the Act to require the owner or operator to immediately reduce or cease the emission of air pollutants.

(4) Nothing in this rule, § 49.135, shall be construed to impair any cause of action or legal remedy of any person, or the public, for injury or damages arising from the emission of any air pollutant in such place, manner, or amount as to constitute a common law nuisance.

(d) What does someone subject to this rule need to do? A person subject to this rule, § 49.135, must comply with the terms and conditions of any permit to construct, permit to operate, or order issued by the Regional Administrator.

(e) Definitions of terms used in this rule. The following terms, that are used in this rule, § 49.135, are defined in § 49.123 General provisions: Air pollutant, air pollution source, ambient air, emission, owner or operator, permit to construct, permit to operate, Regional Administrator, and stationary source.

Tribal Alternative Rule

§ 49.136 Rule for emissions detrimental to persons, property, cultural or traditional resources.

(a) What is the purpose of this rule? This rule, § 49.136, is intended to prevent the emission of air pollutants from any air pollution source operating within the Indian reservation from being detrimental to persons, property, or cultural or traditional resources.

(b) Who is affected by this rule? This rule, § 49.136, applies to any person who owns or operates an air pollution source.

(c) What are the requirements for air pollution sources?

(1) A person must not cause or allow the emission of any air pollutants from an air pollution source, in sufficient quantities and of such characteristic and duration, that the Regional Administrator determines:

(i) Causes or contributes to a violation of any national ambient air quality standard;

(ii) Is, or would likely be, injurious to human health and welfare, animal or plant life, or property;

(iii) Unreasonably interferes with the enjoyment of life or property; or

(iv) Is, or would likely be, damaging to unique Tribal cultural or traditional resources.

(2) If the Regional Administrator makes any of the above determinations, then the Regional Administrator may require the owner or operator of the source to install air pollution controls or to take reasonable precautions to reduce or prevent the emissions. If the Regional Administrator determines that the installation of air pollution controls or reasonable precautions are necessary, then the Regional Administrator will require the owner or operator to obtain a permit to construct or permit to operate for the source. The specific requirements will be established in the required permit to construct or permit to operate.

(3) Nothing in this rule, § 49.136, affects the ability of the Regional Administrator to issue an order pursuant to section 303 of the Act to require the owner or operator to immediately reduce or cease the emission of air pollutants.

(4) Nothing in this rule, § 49.136, shall be construed to impair any cause of action or legal remedy of any person, or the public, for injury or damages arising from the emission of any air pollutant in such place, manner, or amount as to constitute a common law nuisance.

(d) What does someone subject to this rule need to do? A person subject to this rule, § 49.136, must comply with the terms and conditions of any permit to construct, permit to operate, or order issued by the Regional Administrator.

(e) Definitions of terms used in this rule. The following terms, that are used in this rule, § 49.136, are defined in § 49.123 General provisions: Air pollutant, air pollution source, ambient air, emission, owner or operator, permit to construct, permit to operate, Regional Administrator, and stationary source.

§ 49.137 Rule for air pollution episodes.

(a) What is the purpose of this rule? This rule, § 49.137, establishes procedures for addressing the excessive buildup of certain air pollutants during periods of stagnant air. This rule is intended to prevent the occurrence of an air pollution emergency within the Indian reservation due to the effects of these air pollutants on human health.

(b) Who is affected by this rule? This rule, § 49.137, applies to the Regional Administrator and any person who owns or operates an air pollution source within the Indian reservation.

(c) What are the requirements of this rule?

(1) Air pollution action level triggers. Conditions justifying the declaration of an air pollution alert, air pollution warning, or air pollution emergency shall exist whenever the Regional Administrator determines that the accumulation of air pollutants in any place is attaining, or has attained, levels that could lead to a threat to human health. The following criteria will be used for making these determinations:

(i) Air stagnation advisory. An air stagnation advisory shall be declared whenever the National Weather Service issues an atmospheric stagnation advisory.

(ii) Air pollution alert. An air pollution alert shall be declared when any one of the following levels is reached, or is projected to be reached, at any monitoring site and the meteorological conditions are such that the level is expected to continue or reoccur over the next 24 hours.

(A) Particulate matter (PM10)—350 micrograms per cubic meter, 24-hour average;

(B) Carbon monoxide (CO)—17 milligrams per cubic meter (15 ppm), 8-hour average;

(C) Sulfur dioxide (SO2)—800 micrograms per cubic meter (0.3 ppm), 24-hour average;

(D) Ozone (O3)—400 micrograms per cubic meter (0.2 ppm), 1-hour average;

(E) Nitrogen dioxide (NO2)—1,130 micrograms per cubic meter (0.6 ppm), 1-hour average; and 282 micrograms per cubic meter (0.15 ppm), 24-hour average.

(iii) Air pollution warning. An air pollution warning shall be declared when any one of the following levels is reached, or is projected to be reached, at any monitoring site and the meteorological conditions are such that the level is expected to continue or reoccur over the next 24 hours.

(A) Particulate matter (PM10)—420 micrograms per cubic meter, 24-hour average;

(B) Carbon monoxide (CO)—34 milligrams per cubic meter (30 ppm), 8-hour average;

(C) Sulfur dioxide (SO2)—1,600 micrograms per cubic meter (0.6 ppm), 24-hour average;

(D) Ozone (O3)—800 micrograms per cubic meter (0.4 ppm), 1-hour average;

(E) Nitrogen dioxide (NO2)—2,260 micrograms per cubic meter (1.2 ppm), 1-hour average; and 565 micrograms per cubic meter (0.3 ppm), 24-hour average.

(iv) Air pollution emergency. An air pollution emergency shall be declared when any one of the following levels is reached, or is projected to be reached, at any monitoring site and the meteorological conditions are such that the level is expected to continue or reoccur over the next 24 hours.

(A) Particulate matter (PM10)—500 micrograms per cubic meter, 24-hour average;

(B) Carbon monoxide (CO)—46 milligrams per cubic meter (40 ppm), 8-hour average;

(C) Sulfur dioxide (SO2)—2,100 micrograms per cubic meter (0.8 ppm), 24-hour average;

(D) Ozone (O3)—1,000 micrograms per cubic meter (0.5 ppm), 1-hour average;

(E) Nitrogen dioxide (NO2)—3,000 micrograms per cubic meter (1.6 ppm), 1-hour average; and 750 micrograms per cubic meter (0.4 ppm), 24-hour average.

(v) Termination. Once declared, an air pollution alert, warning, or emergency shall remain in effect until the criteria for that level is no longer met. At such time, the Regional Administrator will make a new determination and shall make an appropriate declaration of the new level.

(2) Announcements by the Regional Administrator. The Regional Administrator shall request that announcement of an air stagnation advisory, air pollution alert, air pollution warning, or air pollution emergency be broadcast on local television and radio stations in the affected area and posted on their websites. Announcements will also be posted on the EPA Region 10 website and, where possible, on the websites of Tribes within the affected area. These announcements will indicate that air pollution levels exist that could potentially be harmful to human health and indicate actions that people can take to reduce exposure. The announcements will also request voluntary actions to reduce emissions from sources of air pollutants as well as indicate that a ban on open burning is in effect.

(3) Voluntary curtailment of emissions by sources. Whenever the Regional Administrator declares an air stagnation advisory or air pollution alert sources of air pollutants shall be requested to take voluntary actions to reduce emissions. People should refrain from using their wood-stoves and fireplaces unless they are their sole source of heat. People should reduce their use of motor vehicles to the extent possible. Industrial sources should curtail operations or switch to a cleaner fuel if possible.

(4) Mandatory curtailment of emissions by order of the Regional Administrator.

(i) Open burning must cease in accordance with the requirements of § 49.131 General rule for open burning.

(ii) During an air pollution warning or air pollution emergency, the Regional Administrator may issue an order to any air pollution source requiring such source to curtail or eliminate the emissions.

(d) Definitions of terms used in this rule. The following terms, that are used in this rule, § 49.137, are defined in § 49.123 General provisions: Air pollutant, air pollution source, ambient air, emission, fuel, motor vehicle, open burning, and Regional Administrator.

§ 49.138 Rule for the registration of air pollution sources and the reporting of emissions.

(a) What is the purpose of this rule? This rule, § 49.138, allows the Regional Administrator to develop and maintain a current and accurate record of air pollution sources and their emissions within the Indian reservation.

(b) Who is affected by this rule? This rule, § 49.138, applies to any person who owns or operates an air pollution source except those exempted below.

(c) What is exempted from this rule? This rule, § 49.138, does not apply to the following air pollution sources:

(1) Mobile sources;

(2) Single family residences, and residential buildings with four or fewer dwelling units;

(3) Air conditioning units used for human comfort that are not subject to applicable requirements under Title VI of the Act and do not exhaust air pollutants into the atmosphere from any manufacturing or industrial process;

(4) Ventilating units used for human comfort that do not exhaust air pollutants into the atmosphere from any manufacturing or industrial process;

(5) Furnaces and boilers used exclusively for space heating with a rated heat input capacity of less than 400,000 British thermal units (Btu) per hour;

(6) Cooking of food, except for retail and wholesale businesses that both cook and sell cooked food (restaurants, for example);

(7) Consumer use of office equipment and products;

(8) Janitorial services and consumer use of janitorial products;

(9) Maintenance and repair activities, except for air pollution sources engaged in the business of maintaining and repairing equipment, such as automobile repair shops or appliance repair shops;

(10) Agricultural activities and forestry activities, including agricultural burning and forestry burning; and

(11) Open burning.

(d) What are the requirements of this rule? Any person who owns or operates an air pollution source subject to this rule must register the source with the Regional Administrator as specified below.

(e) Are there additional requirements that must be met? A person subject to this rule, § 49.138, must register an air pollution source as follows:

(1) Initial registration. The owner or operator of an air pollution source that exists on the effective date of this rule must register the air pollution source with the Regional Administrator by no later than one year after the effective date of this rule. The owner or operator of a new air pollution source must register with the Regional Administrator within 90 days after beginning operation. Submitting an initial registration does not relieve the owner or operator from the requirement to obtain a permit to construct if the new air pollution source is subject to those rules.

(2) Annual re-registration. After initial registration, the owner or operator of an air pollution source must re-register with the Regional Administrator by February 15 of each year. The re-registration must include all of the information required in the initial registration and must be updated to reflect any changes since the previous registration. For information that has not changed since the previous registration, the owner or operator may reaffirm in writing the correctness and current status of the information previously furnished to the Regional Administrator.

(3) Information to include in initial registration and annual re-registration (all that are applicable).

(i) Name of the air pollution source and the nature of the business.

(ii) Street address, telephone number, and facsimile number of the air pollution source.

(iii) Name, mailing address, and telephone number of the owner or operator.

(iv) Name, mailing address, telephone number, and facsimile number of the local individual responsible for compliance with this rule.

(v) Name and mailing address of the individual authorized to receive requests for data and information.

(vi) A description of the production processes and a related flow chart.

(vii) Identification of emission units and air pollutant generating activities.

(viii) A plot plan showing the location and height of all emission units and air pollutant generating activities. The plot plan must also show the property lines of the air pollution source and indicate the distance and direction of the nearest residential or commercial property.

(ix) Type and quantity of fuels, including the sulfur content of fuels, used on a daily and annual basis.

(x) Type and quantity of raw materials used on a daily and annual basis.

(xi) Estimates of the total actual emissions for the air pollution source of the following air pollutants: particulate matter emissions, PM10 emissions, sulfur dioxide (SO2), nitrogen oxides (NOX), carbon monoxide (CO), volatile organic compounds (VOC), lead (Pb), fluorides, sulfuric acid mist, hydrogen sulfide (H2S), total reduced sulfur (TRS), and reduced sulfur compounds. Include all of the calculations for the estimates.

(xii) Estimated efficiency of air pollution control equipment under present or anticipated operating conditions.

(xiii) Any other information specifically requested by the Regional Administrator.

(4) Procedure for estimating emissions. The initial registration and annual re-registration must include an estimate of actual emissions taking into account equipment, operating conditions, and air pollution control measures. The emission estimates must be based upon actual test data, or in the absence of such data, upon procedures acceptable to the Regional Administrator. Any emission estimates submitted to the Regional Administrator must be verifiable using currently accepted engineering criteria. The following procedures are generally acceptable for estimating emissions from air pollution sources:

(i) Source-specific emission tests;

(ii) Mass balance calculations;

(iii) Published, verifiable emission factors that are applicable to the source;

(iv) Other engineering calculations; or

(v) Other procedures to estimate emissions specifically approved by the Regional Administrator.

(5) Report of relocation. The owner or operator of an air pollution source must report any relocation of the source to the Regional Administrator no later than 30 days prior to the relocation of the source. Submitting a report of relocation does not relieve the owner or operator from the requirement to obtain a permit to construct if the relocation of the air pollution source would be a new source or modification subject to any Federal or Tribal permit to construct rule.

(6) Report of change of ownership. The owner or operator of an air pollution source must report any change of ownership to the Regional Administrator within 90 days after the change in ownership is effective.

(7) Report of closure. The owner or operator of an air pollution source must submit a report of closure to the Regional Administrator within 90 days after the cessation of operations.

(8) Certification of truth and accuracy. All registrations and reports must include a certification by the owner or operator as to the truth, accuracy, and completeness of the information. This certification must state that, based on information and belief formed after reasonable inquiry, the statements and information are true, accurate, and complete.

(f) Definitions of terms used in this rule. The following terms, that are used in this rule, § 49.138, are defined in § 49.123 General provisions: Act, actual emissions, agricultural activities, air pollutant, air pollution source, ambient air, British thermal unit (Btu), emission, emission factor, emission unit, fuel, marine vessel, mobile source, motor vehicle, new air pollution source, non-road engine, non-road vehicle, open burning, owner or operator, particulate matter, permit to construct, PM10, rated capacity, Regional Administrator, stack, stationary source, and uncombined water.

§ 49.139 Rule for non-Title V operating permits.

(a) What is the purpose of this rule? This rule, § 49.139, establishes a permitting program to provide for the establishment of Federally-enforceable requirements for air pollution sources within the Indian reservation.

(b) Who is affected by this rule?

(1) This rule, § 49.139, applies to:

(i) The owner or operator of any air pollution source who wishes to obtain a Federally-enforceable limitation on the source's actual emissions or potential to emit;

(ii) Any air pollution source for which the Regional Administrator determines that additional Federally-enforceable requirements are necessary to ensure compliance with the implementation plan; or

(iii) Any air pollution source for which the Regional Administrator determines that additional Federally-enforceable requirements are necessary to ensure the attainment and maintenance of any national ambient air quality standard or prevention of significant deterioration increment.

(2) To the extent allowed by 40 CFR Part 71, or a Tribal operating permit program approved pursuant to 40 CFR Part 70, a Title V operating permit may be used in lieu of an operating permit under this section to establish the limitations or requirements in paragraph (b)(1).

(c) What are the procedures for obtaining an owner-requested operating permit?

(1) The owner or operator of an air pollution source who wishes to obtain a Federally-enforceable limitation on the source's actual emissions or potential to emit shall submit an application to the Regional Administrator requesting such limitation. The application must contain the information specified in paragraph (d) of this section.

(2) Within 60 days after receipt of an application, the Regional Administrator shall determine if it contains the information specified in paragraph (d) of this section and if so, shall deem it complete for the purpose of preparing a draft permit to operate. If the Regional Administrator determines that the application is incomplete, it shall be returned to the owner or operator along with a description of the necessary information that must be submitted in order for the application to be deemed complete.

(3) The Regional Administrator shall prepare a draft permit to operate and a draft technical support document that describes the proposed limitations and their effect on the actual emissions and/or potential to emit of the air pollution source.

(4) The Regional Administrator shall provide a copy of the draft permit to operate and draft technical support document to the owner or operator of the air pollution source and shall provide an opportunity for the owner or operator to meet with EPA and discuss the proposed limitations.

(5) The Regional Administrator shall provide an opportunity for public comment on the draft permit to operate as follows:

(i) A copy of the draft permit to operate, the draft technical support document, the permit application, and all other supporting materials will be made available for public inspection in at least one location in the area affected by the air pollution source.

(ii) A notice shall be made by prominent advertisement in a newspaper of general circulation in the area affected by the air pollution source of the availability of the draft permit to operate and supporting materials and of the opportunity to comment. Where possible, notices shall also be made in the Tribal newspaper.

(iii) Copies of the notice shall be provided to the owner or operator of the air pollution source, the Tribal governing body, and the State, local, and Tribal air pollution authorities having jurisdiction in areas outside of the Indian reservation potentially impacted by the air pollution source.

(iv) A 30-day period for submittal of public comments shall be provided starting upon the date of publication of the notice. If requested, the Regional Administrator may extend the public comment period for up to an additional 30 days.

(6) After the close of the public comment period, the Regional Administrator shall review all comments received and prepare a final permit to operate and final technical support document. The final technical support document will include the responses to all comments received during the public comment period.

(7) The final permit to operate and final technical support document shall be sent to the owner or operator of the air pollution source and will be made available at all of the locations where the draft permit was made available. In addition, the final permit to operate and final technical support document shall be sent to all persons who provided comments on the draft permit to operate.

(8) The final permit to operate shall be a final agency action for purposes of administrative appeal and judicial review.

(d) What must the owner or operator of an air pollution source include in an application for a Federally-enforceable limitation?

(1) The owner or operator of an air pollution source that wishes to obtain a Federally-enforceable limitation must submit to the Regional Administrator an application for a permit to operate that includes the following information:

(i) Name of the air pollution source and the nature of the business.

(ii) Street address, telephone number, and facsimile number of the air pollution source.

(iii) Name, mailing address, and telephone number of the owner or operator.

(iv) Name, mailing address, telephone number, and facsimile number of the local individual responsible for compliance with this rule.

(v) Name and mailing address of the individual authorized to receive requests for data and information.

(vi) For each air pollutant and for all emission units and air pollutant generating activities to be covered by a limitation:

(A) The proposed limitation and a description of its effect on actual emissions or the potential to emit. Proposed limitations may include, but are not limited to, emission limitations, production limits, operational restrictions, fuel or raw material specifications, and/or requirements for installation and operation of emission controls. Proposed limitations must have a reasonably short averaging period, taking into consideration the operation of the air pollution source and the methods to be used for demonstrating compliance.

(B) Proposed testing, monitoring, recordkeeping, and reporting requirements to be used to demonstrate and assure compliance with the proposed limitation.

(C) A description of the production processes and a related flow chart.

(D) Identification of emission units and air pollutant generating activities.

(E) Type and quantity of fuels and/or raw materials used.

(F) Estimated efficiency of air pollution control equipment under present or anticipated operating conditions.

(G) Estimates of the current actual emissions and current potential to emit. Include all of the calculations for the estimates.

(H) Estimates of the allowable emissions and/or potential to emit that would result from compliance with the proposed limitation. Include all of the calculations for the estimates.

(vii) Any other information specifically requested by the Regional Administrator.

(2) Estimates of actual emissions must be based upon actual test data, or in the absence of such data, upon procedures acceptable to the Regional Administrator. Any emission estimates submitted to the Regional Administrator must be verifiable using currently accepted engineering criteria. The following procedures are generally acceptable for estimating emissions from air pollution sources:

(i) Source-specific emission tests;

(ii) Mass balance calculations;

(iii) Published, verifiable emission factors that are applicable to the source;

(iv) Other engineering calculations; or

(v) Other procedures to estimate emissions specifically approved by the Regional Administrator.

(3) All applications for a permit to operate must include a certification by the owner or operator as to the truth, accuracy, and completeness of the information. This certification must state that, based on information and belief formed after reasonable inquiry, the statements and information are true, accurate, and complete.

(e) What are the procedures that the Regional Administrator will follow to require an operating permit?

(1) Whenever the Regional Administrator determines that additional Federally-enforceable requirements are necessary to ensure compliance with the implementation plan or to ensure the attainment and maintenance of any national ambient air quality standard or prevention of significant deterioration increment, the owner or operator of the air pollution source shall be so notified in writing.

(2) The Regional Administrator may require that the owner or operator provide whatever information that the Regional Administrator determines is necessary to establish such requirements in a permit to operate under this rule, § 49.139.

(3) The Regional Administrator shall prepare a draft permit to operate and a draft technical support document that describes the reasons and need for the proposed requirements.

(4) The Regional Administrator shall provide a copy of the draft permit to operate and draft technical support document to the owner or operator of the air pollution source and shall provide an opportunity for the owner or operator to meet with EPA and discuss the proposed requirements.

(5) The Regional Administrator shall provide an opportunity for public comment on the draft permit to operate as follows:

(i) A copy of the draft permit to operate, the draft technical support document, and all other supporting materials will be made available for public inspection in at least one location in the area affected by the air pollution source.

(ii) A notice shall be made by prominent advertisement in a newspaper of general circulation in the area affected by the air pollution source of the availability of the draft permit to operate and supporting materials and of the opportunity to comment. Where possible, notices shall also be made in the Tribal newspaper.

(iii) Copies of the notice shall be provided to the owner or operator of the air pollution source, the Tribal governing body, and the State, local, and Tribal air pollution authorities having jurisdiction in areas outside of the Indian reservation potentially impacted by the air pollution source.

(iv) A 30-day period for submittal of public comments shall be provided starting upon the date of publication of the notice. If requested, the Regional Administrator may extend the public comment period for up to an additional 30 days.

(6) After the close of the public comment period, the Regional Administrator shall review all comments received and prepare a final permit to operate and final technical support document, unless the Regional Administrator determines that additional requirements are not necessary to ensure compliance with the implementation plan or to ensure the attainment and maintenance of any national ambient air quality standard or prevention of significant deterioration increment. The final technical support document will include the responses to all comments received during the public comment period.

(7) The final permit to operate and final technical support document shall be sent to the owner or operator of the air pollution source and will be made available at all of the locations where the draft permit was made available. In addition, the final permit to operate and final technical support document shall be sent to all persons who provided comments on the draft permit to operate.

(8) The final permit to operate shall be a final agency action for purposes of administrative appeal and judicial review.

(f) Definitions of terms used in this rule. The following terms, that are used in this rule, § 49.139, are defined in § 49.123 General provisions: Act, actual emissions, air pollutant, air pollution source, allowable emissions, ambient air, emission, emission factor, Federally enforceable, implementation plan, owner or operator, potential to emit, and Regional Administrator.

§§ 49.140-49.200 [Reserved]

3. Subpart M of Part 49 is amended by adding an undesignated center heading and §§ 49.9861 through 49.9870 to read as follows:

Subpart M—Implementation Plans for Tribes—Region X

Implementation Plan for the Burns Paiute Tribe of the Burns Paiute Indian Colony of Oregon

§ 49.9861 Identification of plan.

This section and §§ 49.9862 through 49.9890 contain the implementation plan for the Burns Paiute Tribe of the Burns Paiute Indian Colony. This plan consists of a combination of Tribal rules and measures and Federal regulations and measures which apply within the Reservation of the Burns Paiute Indian Colony.

§ 49.9862 Approval status.

There are currently no EPA-approved Tribal rules or measures in the implementation plan for the Reservation of the Burns Paiute Indian Colony.

§ 49.9863 Legal authority. [Reserved]

§ 49.9864 Source surveillance. [Reserved]

§ 49.9865 Classification of regions for episode plans.

The air quality control region which encompasses the Reservation of the Burns Paiute Indian Colony is classified as follows for purposes of episode plans:

Pollutant | Classification
Carbon monoxide | III
Nitrogen dioxide | III
Ozone | III
Particulate matter (PM10) | II
Sulfur oxides | III

§ 49.9866 Contents of implementation plan.

The implementation plan for the Reservation of the Burns Paiute Indian Colony consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.9867 EPA-approved Tribal rules and plans. [Reserved]

§ 49.9868 Permits to construct.

Permits to construct are required for new major stationary sources and major modifications to existing major stationary sources pursuant to 40 CFR 52.21.

§ 49.9869 Permits to operate.

Permits to operate are required for sources not subject to 40 CFR Part 71 in accordance with the requirements of § 49.139.

§ 49.9870 Federally-promulgated regulations and Federal implementation plans.

The following regulations are incorporated and made part of the implementation plan for the Reservation of the Burns Paiute Indian Colony:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.9871-49.9890 [Reserved]

4. Subpart M of Part 49 is amended by adding an undesignated center heading and §§ 49.9891 through 49.9900 to read as follows:

Implementation Plan for the Confederated Tribes of the Chehalis Reservation, Washington

§ 49.9891 Identification of plan.

This section and §§ 49.9892 through 49.9920 contain the implementation plan for the Confederated Tribes of the Chehalis Reservation. This plan consists of a combination of Tribal rules and measures and Federal regulations and measures which apply within the Chehalis Reservation.

§ 49.9892 Approval status.

There are currently no EPA-approved Tribal rules or measures in the implementation plan for the Chehalis Reservation.

§ 49.9893 Legal authority. [Reserved]

§ 49.9894 Source surveillance. [Reserved]

§ 49.9895 Classification of regions for episode plans.

The air quality control region which encompasses the Chehalis Reservation is classified as follows for purposes of episode plans:

Pollutant | Classification
Carbon monoxide | III
Nitrogen dioxide | III
Ozone | III
Particulate matter (PM10) | II
Sulfur oxides | II

§ 49.9896 Contents of implementation plan.

The implementation plan for the Chehalis Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.9897 EPA-approved Tribal rules and plans. [Reserved]

§ 49.9898 Permits to construct.

Permits to construct are required for new major stationary sources and major modifications to existing major stationary sources pursuant to 40 CFR 52.21.

§ 49.9899 Permits to operate.

Permits to operate are required for sources not subject to 40 CFR Part 71 in accordance with the requirements of § 49.139.

§ 49.9900 Federally-promulgated regulations and Federal implementation plans.

The following regulations are incorporated and made part of the implementation plan for the Chehalis Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.9901-49.9920 [Reserved]

5. Subpart M of Part 49 is amended by adding an undesignated center heading and §§ 49.9921 through 49.9930 to read as follows:

Implementation Plan for the Coeur D'Alene Tribe of the Coeur D'Alene Reservation, Idaho

§ 49.9921 Identification of plan.

This section and §§ 49.9922 through 49.9950 contain the implementation plan for the Coeur D'Alene Tribe of the Coeur D'Alene Reservation. This plan consists of a combination of Tribal rules and measures and Federal regulations and measures which apply within the Coeur D'Alene Reservation.

§ 49.9922 Approval status.

There are currently no EPA-approved Tribal rules or measures in the implementation plan for the Coeur D'Alene Reservation.

§ 49.9923 Legal authority. [Reserved]

§ 49.9924 Source surveillance. [Reserved]

§ 49.9925 Classification of regions for episode plans.

The air quality control region which encompasses the Coeur D'Alene Reservation is classified as follows for purposes of episode plans:

Pollutant | Classification
Carbon monoxide | III
Nitrogen dioxide | III
Ozone | III
Particulate matter (PM10) | I
Sulfur oxides | II

§ 49.9926 Contents of implementation plan.

The implementation plan for the Coeur D'Alene Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.9927 EPA-approved Tribal rules and plans. [Reserved]

§ 49.9928 Permits to construct.

Permits to construct are required for new major stationary sources and major modifications to existing major stationary sources pursuant to 40 CFR 52.21.

§ 49.9929 Permits to operate.

Permits to operate are required for sources not subject to 40 CFR Part 71 in accordance with the requirements of § 49.139.

§ 49.9930 Federally-promulgated regulations and Federal implementation plans.

(a) The following regulations are incorporated and made part of the implementation plan for the Coeur D'Alene Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.9931-49.9950 [Reserved]

6. Subpart M of Part 49 is amended by adding an undesignated center heading and §§ 49.9951 through 49.9960 to read as follows:

Implementation Plan for the Confederated Tribes of the Colville Reservation, Washington

§ 49.9951 Identification of plan.

This section and §§ 49.9952 through 49.9980 contain the implementation plan for the Confederated Tribes of the Colville Reservation. This plan consists of a combination of Tribal rules and measures and Federal regulations and measures which apply within the Colville Reservation.

§ 49.9952 Approval status.

There are currently no EPA-approved Tribal rules or measures in the implementation plan for the Colville Reservation.

§ 49.9953 Legal authority. [Reserved]

§ 49.9954 Source surveillance. [Reserved]

§ 49.9955 Classification of regions for episode plans.

The air quality control region which encompasses the Colville Reservation is classified as follows for purposes of episode plans:

Pollutant | Classification
Carbon monoxide | III
Nitrogen dioxide | III
Ozone | III
Particulate matter (PM10) | II
Sulfur oxides | III

§ 49.9956 Contents of implementation plan.

The implementation plan for the Colville Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.127 Rule for woodwaste burners.

(f) Section 49.128 Rule for limiting particulate matter emissions from wood products industry sources.

(g) Section 49.129 Rule for limiting emissions of sulfur dioxides.

(h) Section 49.130 Rule for limiting sulfur in fuels.

(i) Section 49.131 General rule for open burning.

(j) Section 49.135 Rule for emissions detrimental to human health and welfare.

(k) Section 49.137 Rule for air pollution episodes.

(l) Section 49.138 Rule for the registration of air pollution sources and the reporting of emissions.

(m) Section 49.139 Rule for non-Title V operating permits.

§ 49.9957 EPA-approved Tribal rules and plans. [Reserved]

§ 49.9958 Permits to construct.

Permits to construct are required for new major stationary sources and major modifications to existing major stationary sources pursuant to 40 CFR 52.21.

§ 49.9959 Permits to operate.

Permits to operate are required for sources not subject to 40 CFR Part 71 in accordance with the requirements of § 49.139.

§ 49.9960 Federally-promulgated regulations and Federal implementation plans.

The following regulations are incorporated and made part of the implementation plan for the Colville Reservation:

(a) Section 49.123 General provisions.

(b) Section 49.124 Rule for limiting visible emissions.

(c) Section 49.125 Rule for limiting the emissions of particulate matter.

(d) Section 49.126 Rule for limiting fugitive particulate matter emissions.

(e) Section 49.127 Rule for woodwaste burners.

(f) Section 49.128 Rule for limiting particulate matter emissions from wood products industry sources.

(g) Section 49.129 Rule for limiting emissions of sulfur dioxide.

(h) Section 49.130 Rule for limiting sulfur in fuels.

(i) Section 49.131 General rule for open burning.

(j) Section 49.135 Rule for emissions detrimental to human health and welfare.

(k) Section 49.137 Rule for air pollution episodes.

(l) Section 49.138 Rule for the registration of air pollution sources and the reporting of emissions.

(m) Section 49.139 Rule for non-Title V operating permits.

§§ 49.9961-49.9980 [Reserved]

7. Subpart M of Part 49 is amended by adding an undesignated center heading and §§ 49.9981 through 49.9990 to read as follows:

Implementation Plan for the Confederated Tribes of the Coos, Lower Umpqua and Siuslaw Indians of Oregon

§ 49.9981 Identification of plan.

This section and §§ 49.9982 through 49.10010 contain the implementation plan for the Confederated Tribes of the Coos, Lower Umpqua and Siuslaw Indians. This plan consists of a combination of Tribal rules and measures and Federal regulations and measures which apply within the Reservation of the Confederated Tribes of the Coos, Lower Umpqua and Siuslaw Indians.

§ 49.9982 Approval status.

There are currently no EPA-approved Tribal rules or measures in the implementation plan for the Reservation of the Confederated Tribes of the Coos, Lower Umpqua and Siuslaw Indians.

§ 49.9983 Legal authority. [Reserved]

§ 49.9984 Source surveillance. [Reserved]

§ 49.9985 Classification of regions for episode plans.

The air quality control region which encompasses the Reservation of the Confederated Tribes of the Coos, Lower Umpqua and Siuslaw Indians is classified as follows for purposes of episode plans:

Pollutant | Classification
Carbon monoxide | III
Nitrogen dioxide | III
Ozone | III
Particulate matter (PM10) | II
Sulfur oxides | III

§ 49.9986 Contents of implementation plan.

The implementation plan for the Reservation of the Confederated Tribes of the Coos, Lower Umpqua and Siuslaw Indians consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.9987 EPA-approved Tribal rules and plans. [Reserved]

§ 49.9988 Permits to construct.

Permits to construct are required for new major stationary sources and major modifications to existing major stationary sources pursuant to 40 CFR 52.21.

§ 49.9989 Permits to operate.

Permits to operate are required for sources not subject to 40 CFR Part 71 in accordance with the requirements of § 49.139.

§ 49.9990 Federally-promulgated regulations and Federal implementation plans.

The following regulations are incorporated and made part of the implementation plan for the Reservation of the Confederated Tribes of the Coos, Lower Umpqua and Siuslaw Indians:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.9991-49.10010 [Reserved]

8. Subpart M of Part 49 is amended by adding an undesignated center heading and §§ 49.10011 through 49.10020 to read as follows:

Implementation Plan for the Coquille Tribe of Oregon

§ 49.10011 Identification of plan.

This section and §§ 49.10012 through 49.10040 contain the implementation plan for the Coquille Tribe. This plan consists of a combination of Tribal rules and measures and Federal regulations and measures which apply within the Reservation of the Coquille Tribe.

§ 49.10012 Approval status.

There are currently no EPA-approved Tribal rules or measures in the implementation plan for the Reservation of the Coquille Tribe.

§ 49.10013 Legal authority. [Reserved]

§ 49.10014 Source surveillance. [Reserved]

§ 49.10015 Classification of regions for episode plans.

The air quality control region which encompasses the Reservation of the Coquille Tribe is classified as follows for purposes of episode plans:

Pollutant | Classification
Carbon monoxide | III
Nitrogen dioxide | III
Ozone | III
Particulate matter (PM10) | II
Sulfur oxides | III

§ 49.10016 Contents of implementation plan.

The implementation plan for the Reservation of the Coquille Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10017 EPA-approved Tribal rules and plans. [Reserved]

§ 49.10018 Permits to construct.

Permits to construct are required for new major stationary sources and major modifications to existing major stationary sources pursuant to 40 CFR 52.21.

§ 49.10019 Permits to operate.

Permits to operate are required for sources not subject to 40 CFR Part 71 in accordance with the requirements of § 49.139.

§ 49.10020 Federally-promulgated regulations and Federal implementation plans.

The following regulations are incorporated and made part of the implementation plan for the Reservation of the Coquille Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10021-49.10040 [Reserved]

9. Subpart M of Part 49 is amended by adding an undesignated center heading and §§ 49.10041 through 49.10050 to read as follows:

Implementation Plan for the Cow Creek Band of Umpqua Indians of Oregon

§ 49.10041 Identification of plan.

This section and §§ 49.10042 through 49.10100 contain the implementation plan for the Cow Creek Band of Umpqua Indians. This plan consists of a combination of Tribal rules and measures and Federal regulations and measures which apply within the Reservation of the Cow Creek Band of Umpqua Indians.

§ 49.10042 Approval status.

There are currently no EPA-approved Tribal rules or measures in the implementation plan for the Reservation of the Cow Creek Band of Umpqua Indians.

§ 49.10043 Legal authority. [Reserved]

§ 49.10044 Source surveillance. [Reserved]

§ 49.10045 Classification of regions for episode plans.

The air quality control region which encompasses the Reservation of the Cow Creek Band of Umpqua Indians is classified as follows for purposes of episode plans:

Pollutant | Classification
Carbon monoxide | III
Nitrogen dioxide | III
Ozone | III
Particulate matter (PM10) | II
Sulfur oxides | III

§ 49.10046 Contents of implementation plan.

The implementation plan for the Reservation of the Cow Creek Band of Umpqua Indians consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10047 EPA-approved Tribal rules and plans. [Reserved]

§ 49.10048 Permits to construct.

Permits to construct are required for new major stationary sources and major modifications to existing major stationary sources pursuant to 40 CFR 52.21.

§ 49.10049 Permits to operate.

Permits to operate are required for sources not subject to 40 CFR Part 71 in accordance with the requirements of § 49.139.

§ 49.10050 Federally-promulgated regulations and Federal implementation plans.

The following regulations are incorporated and made part of the implementation plan for the Reservation of the Cow Creek Band of Umpqua Indians:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10051-49.10100 [Reserved]

10. Subpart M of Part 49 is amended by adding an undesignated center heading and §§ 49.10101 through 49.10110 to end as follows:

Implementation Plan for the Confederated Tribes of the Grand Ronde Community of Oregon

§ 49.10101 Identification of plan.

This section and §§ 49.10102 through 49.10130 contain the implementation plan for the Confederated Tribes of the Grand Ronde Community. This plan consists of a combination of Tribal rules and measures and Federal regulations and measures which apply within the Reservation of the Confederated Tribes of the Grand Ronde Community.

§ 49.10102 Approval status.

There are currently no EPA-approved Tribal rules or measures in the implementation plan for the Reservation of the Confederated Tribes of the Grand Ronde Community.

§ 49.10103 Legal authority.[Reserved]

§ 49.10104 Source surveillance. [Reserved]

§ 49.10105 Classification of regions for episode plans.

The air quality control region which encompasses the Reservation of the Confederated Tribes of the Grand Ronde Community is classified as follows for purposes of episode plans:

Pollutant | Classification
Carbon monoxide | I
Nitrogen dioxide | III
Ozone | I
Particulate matter (PM10) | I
Sulfur oxides | IA

§ 49.10106 Contents of implementation plan.

The implementation plan for the Reservation of the Confederated Tribes of the Grand Ronde Community consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10107 EPA-approved Tribal rules and plans. [Reserved]

§ 49.10108 Permits to construct.

Permits to construct are required for new major stationary sources and major modifications to existing major stationary sources pursuant to 40 CFR 52.21.

§ 49.10109 Permits to operate.

Permits to operate are required for sources not subject to 40 CFR Part 71 in accordance with the requirements of § 49.139.

§ 49.10110 Federally-promulgated regulations and Federal implementation plans.

The following regulations are incorporated and made part of the implementation plan for the Reservation of the Confederated Tribes of the Grand Ronde Community:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10111-49.10130 [Reserved]

11. Subpart M of Part 49 is amended by adding an undesignated center heading and §§ 49.10131 through 49.10140 to read as follows:

Implementation Plan for the Hoh Indian Tribe of the Hoh Indian Reservation, Washington

§ 49.10131 Identification of plan.

This section and §§ 49.10132 through 49.10160 contain the implementation plan for the Hoh Indian Tribe of the Hoh Indian Reservation. This plan consists of a combination of Tribal rules and measures and Federal regulations and measures which apply within the Hoh Indian Reservation.

§ 49.10132 Approval status.

There are currently no EPA-approved Tribal rules or measures in the implementation plan for the Hoh Indian Reservation.

§ 49.10133 Legal authority. [Reserved]

§ 49.10134 Source surveillance. [Reserved]

§ 49.10135 Classification of regions for episode plans.

The air quality control region which encompasses the Hoh Indian Reservation is classified as follows for purposes of episode plans:

Pollutant | Classification
Carbon monoxide | III
Nitrogen dioxide | III
Ozone | III
Particulate matter (PM10) | II
Sulfur oxides | II

§ 49.10136 Contents of implementation plan.

The implementation plan for the Hoh Indian Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10137 EPA-approved Tribal rules and plans. [Reserved]

§ 49.10138 Permits to construct.

Permits to construct are required for new major stationary sources and major modifications to existing major stationary sources pursuant to 40 CFR 52.21.

§ 49.10139 Permits to operate.

Permits to operate are required for sources not subject to 40 CFR Part 71 in accordance with the requirements of § 49.139.

§ 49.10140 Federally-promulgated regulations and Federal implementation plans.

(a) The following regulations are incorporated and made part of the implementation plan for the Hoh Indian Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10141-49.10160 [Reserved]

12. Subpart M of Part 49 is amended by adding an undesignated center heading and §§ 49.10161 through 49.10170 to read as follows:

Implementation Plan for the Jamestown S'Klallam Tribe of Washington

§ 49.10161 Identification of plan.

This section and §§ 49.10162 through 49.10190 contain the implementation plan for the Jamestown S'Klallam Tribe. This plan consists of a combination of Tribal rules and measures and Federal regulations and measures which apply within the Reservation of the Jamestown S'Klallam Tribe.

§ 49.10162 Approval status.

There are currently no EPA-approved Tribal rules or measures in the implementation plan for the Reservation of the Jamestown S'Klallam Tribe.

§ 49.10163 Legal authority. [Reserved]

§ 49.10164 Source surveillance. [Reserved]

§ 49.10165 Classification of regions for episode plans.

The air quality control region which encompasses the Reservation of the Jamestown S'Klallam Tribe is classified as follows for purposes of episode plans:

Pollutant | Classification
Carbon monoxide | III
Nitrogen dioxide | III
Ozone | III
Particulate matter (PM10) | II
Sulfur oxides | II

§ 49.10166 Contents of implementation plan.

The implementation plan for the Reservation of the Jamestown S'Klallam Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10167 EPA-approved Tribal rules and plans. [Reserved]

§ 49.10168 Permits to construct.

Permits to construct are required for new major stationary sources and major modifications to existing major stationary sources pursuant to 40 CFR 52.21.

§ 49.10169 Permits to operate.

Permits to operate are required for sources not subject to 40 CFR Part 71 in accordance with the requirements of § 49.139.

§ 49.10170 Federally-promulgated regulations and Federal implementation plans.

The following regulations are incorporated and made part of the implementation plan for the Reservation of the Jamestown S'Klallam Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10171-49.10190 [Reserved]

13. Subpart M of Part 49 is amended by adding an undesignated center heading and §§ 49.10191 through 49.10200 to read as follows:

Implementation Plan for the Kalispel Indian Community of the Kalispel Reservation, Washington

§ 49.10191 Identification of plan.

This section and §§ 49.1019192 through 49.10220 contain the implementation plan for the Kalispel Indian Community. This plan consists of a combination of Tribal rules and measures and Federal regulations and measures which apply within the Kalispel Reservation.

§ 49.10192 Approval status.

There are currently no EPA-approved Tribal rules or measures in the implementation plan for the Kalispel Reservation.

§ 49.10193 Legal authority. [Reserved]

§ 49.10194 Source surveillance. [Reserved]

§ 49.10195 Classification of regions for episode plans.

The air quality control region which encompasses the Kalispel Reservation is classified as follows for purposes of episode plans:

Pollutant | Classification
Carbon monoxide | III
Nitrogen dioxide | III
Ozone | III
Particulate matter (PM10) | II
Sulfur oxides | III

§ 49.10196 Contents of implementation plan.

The implementation plan for the Kalispel Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10197 EPA-approved Tribal rules and plans. [Reserved]

§ 49.10198 Permits to construct.

Permits to construct are required for new major stationary sources and major modifications to existing major stationary sources pursuant to 40 CFR 52.21.

§ 49.10199 Permits to operate.

Permits to operate are required for sources not subject to 40 CFR Part 71 in accordance with the requirements of § 49.139.

§ 49.10200 Federally-promulgated regulations and Federal implementation plans.

The following regulations are incorporated and made part of the implementation plan for the Kalispel Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10201-49.10220 [Reserved]

14. Subpart M of Part 49 is amended by adding an undesignated center heading and §§ 49.10221 through 49.10230 to read as follows:

Implementation Plan for the Klamath Indian Tribe of Oregon

§ 49.10221 Identification of plan.

This section and §§ 49.10222 through 49.10250 contain the implementation plan for the Klamath Indian Tribe. This plan consists of a combination of Tribal rules and measures and Federal regulations and measures which apply within the Reservation of the Klamath Indian Tribe.

§ 49.10222 Approval status.

There are currently no EPA-approved Tribal rules or measures in the implementation plan for the Reservation of the Klamath Indian Tribe.

§ 49.10223 Legal authority. [Reserved]

§ 49.10224 Source surveillance. [Reserved]

§ 49.10225 Classification of regions for episode plans.

The air quality control region which encompasses the Reservation of the Klamath Indian Tribe is classified as follows for purposes of episode plans:

Pollutant | Classification
Carbon monoxide | III
Nitrogen dioxide | III
Ozone | III
Particulate matter (PM10) | II
Sulfur oxides | III

§ 49.10226 Contents of implementation plan.

The implementation plan for the Reservation of the Klamath Indian Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10227 EPA-approved Tribal rules and plans. [Reserved]

§ 49.10228 Permits to construct.

Permits to construct are required for new major stationary sources and major modifications to existing major stationary sources pursuant to 40 CFR 52.21.

§ 49.10229 Permits to operate.

Permits to operate are required for sources not subject to 40 CFR Part 71 in accordance with the requirements of § 49.139.

§ 49.10230 Federally-promulgated regulations and Federal implementation plans.

The following regulations are incorporated and made part of the implementation plan for the Reservation of the Klamath Indian Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10231-49.10250 [Reserved]

15. Subpart M of Part 49 is amended by adding an undesignated center heading and §§ 49.10251 through 49.10260 to read as follows:

Implementation Plan for the Kootenai Tribe of Idaho

§ 49.10251 Identification of plan.

This section and §§ 49.10252 through 49.10280 contain the implementation plan for the Kootenai Tribe of Idaho. This plan consists of a combination of Tribal rules and measures and Federal regulations and measures which apply within the Reservation of the Kootenai Tribe of Idaho.

§ 49.10252 Approval status.

There are currently no EPA-approved Tribal rules or measures in the implementation plan for the Reservation of the Kootenai Tribe of Idaho.

§ 49.10253 Legal authority. [Reserved]

§ 49.10254 Source surveillance. [Reserved]

§ 49.10255 Classification of regions for episode plans.

The air quality control region which encompasses the Reservation of the Kootenai Tribe of Idaho is classified as follows for purposes of episode plans:

Pollutant | Classification
Carbon monoxide | III
Nitrogen dioxide | III
Ozone | III
Particulate matter (PM10) | I
Sulfur oxides | III

§ 49.10256 Contents of implementation plan.

The implementation plan for the Reservation of the Kootenai Tribe of Idaho consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10257 EPA-approved Tribal rules and plans. [Reserved]

§ 49.10258 Permits to construct.

Permits to construct are required for new major stationary sources and major modifications to existing major stationary sources pursuant to 40 CFR 52.21.

§ 49.10259 Permits to operate.

Permits to operate are required for sources not subject to 40 CFR part 71 in accordance with the requirements of § 49.139.

§ 49.10260 Federally-promulgated regulations and Federal implementation plans.

(a) The following regulations are incorporated and made part of the implementation plan for the Reservation of the Kootenai Tribe of Idaho:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.103261-49.10280 [Reserved]

16. Subpart M of part 49 is amended by adding an undesignated center heading and §§ 49.10281 through 49.10290 to read as follows:

Implementation Plan for the Lower Elwha Tribal Community of the Lower Elwha Reservation Washington

§ 49.10281 Identification of plan.

This section and §§ 49.10282 through 49.10310 contain the implementation plan for the Lower Elwha Tribal Community. This plan consists of a combination of Tribal rules and measures and Federal regulations and measures which apply within the Lower Elwha Reservation.

§ 49.10282 Approval status.

There are currently no EPA-approved Tribal rules or measures in the implementation plan for the Lower Elwha Reservation.

§ 49.10283 Legal authority. [Reserved]

§ 49.10284 Source surveillance. [Reserved]

§ 49.10285 Classification of regions for episode plans.

The air quality control region which encompasses the Lower Elwha Reservation is classified as follows for purposes of episode plans:

Pollutant | Classification
Carbon monoxide | III
Nitrogen dioxide | III
Ozone | III
Particulate matter (PM10) | II
Sulfur oxides | II

§ 49.10286 Contents of implementation plan.

The implementation plan for the Lower Elwha Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10287 EPA-approved Tribal rules and plans. [Reserved]

§ 49.10288 Permits to construct.

Permits to construct are required for new major stationary sources and major modifications to existing major stationary sources pursuant to 40 CFR 52.21.

§ 49.10289 Permits to operate.

Permits to operate are required for sources not subject to 40 CFR part 71 in accordance with the requirements of § 49.139.

§ 49.10290 Federally-promulgated regulations and Federal implementation plans.

The following regulations are incorporated and made part of the implementation plan for the Lower Elwha Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10291-49.10310 [Reserved]

17. Subpart M of part 49 is amended by adding an undesignated center heading and §§ 49.10311 through 49.10320 to read as follows:

Implementation Plan for the Lummi Tribe of the Lummi Reservation, Washington

§ 49.10311 Identification of plan.

This section and §§ 49.10312 through 49.10340 contain the implementation plan for the Lummi Tribe. This plan consists of a combination of Tribal rules and measures and Federal regulations and measures which apply within the Lummi Reservation.

§ 49.10312 Approval status.

There are currently no EPA-approved Tribal rules or measures in the implementation plan for the Lummi Reservation.

§ 49.10313 Legal authority. [Reserved]

§ 49.10314 Source surveillance. [Reserved]

§ 49.10315 Classification of regions for episode plans.

The air quality control region which encompasses the Lummi Reservation is classified as follows for purposes of episode plans:

Pollutant | Classification
Carbon monoxide | III
Nitrogen dioxide | III
Ozone | III
Particulate matter (PM10) | II
Sulfur oxides | II

§ 49.10316 Contents of implementation plan.

The implementation plan for the Lummi Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10317 EPA-approved Tribal rules and plans. [Reserved]

§ 49.10318 Permits to construct.

Permits to construct are required for new major stationary sources and major modifications to existing major stationary sources pursuant to 40 CFR 52.21.

§ 49.10319 Permits to operate.

Permits to operate are required for sources not subject to 40 CFR Part 71 in accordance with the requirements of § 49.139.

§ 49.10320 Federally-promulgated regulations and Federal implementation plans.

The following regulations are incorporated and made part of the implementation plan for the Lummi Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10321-49.10340 [Reserved]

18. Subpart M of Part 49 is amended by adding an undesignated center heading and §§ 49.10341 through 49.10350 to read as follows:

Implementation Plan for the Makah Indian Tribe of the Makah Indian Reservation, Washington

§ 49.10341 Identification of plan.

This section and §§ 49.10342 through 49.10370 contain the implementation plan for the Makah Indian Tribe. This plan consists of a combination of Tribal rules and measures and Federal regulations and measures which apply within the Makah Indian Reservation.

§ 49.10342 Approval status.

There are currently no EPA-approved Tribal rules or measures in the implementation plan for the Makah Indian Reservation.

§ 49.10343 Legal authority. [Reserved]

§ 49.10344 Source surveillance. [Reserved]

§ 49.10345 Classification of regions for episode plans.

The air quality control region which encompasses the Makah Indian Reservation is classified as follows for purposes of episode plans:

Pollutant | Classification
Carbon monoxide | III
Nitrogen dioxide | III
Ozone | III
Particulate matter (PM10) | II
Sulfur oxides | II

§ 49.10346 Contents of implementation plan.

The implementation plan for the Makah Indian Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10347 EPA-approved Tribal rules and plans. [Reserved]

§ 49.10348 Permits to construct.

Permits to construct are required for new major stationary sources and major modifications to existing major stationary sources pursuant to 40 CFR 52.21.

§ 49.10349 Permits to operate.

Permits to operate are required for sources not subject to 40 CFR Part 71 in accordance with the requirements of § 49.139.

§ 49.10350 Federally-promulgated regulations and Federal implementation plans.

The following regulations are incorporated and made part of the implementation plan for the Makah Indian Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10351-49.10370 [Reserved]

19. Subpart M of Part 49 is amended by adding an undesignated center heading and §§ 49.10371 through 49.10380 as follows:

Implementation Plan for the Muckleshoot Indian Tribe of the Muckleshoot Reservation, Washington

§ 49.10371 Identification of plan.

This section and §§ 49.10372 through 49.10400 contain the implementation plan for the Muckleshoot Indian Tribe. This plan consists of a combination of Tribal rules and measures and Federal regulations and measures which apply within the Muckleshoot Reservation.

§ 49.10372 Approval status.

There are currently no EPA-approved Tribal rules or measures in the implementation plan for the Muckleshoot Reservation.

§ 49.10373 Legal authority. [Reserved]

§ 49.10374 Source surveillance. [Reserved]

§ 49.10375 Classification of regions for episode plans.

The air quality control region which encompasses the Muckleshoot Reservation is classified as follows for purposes of episode plans:

Pollutant | Classification
Carbon monoxide | I
Nitrogen dioxide | III
Ozone | I
Particulate matter (PM10) | I
Sulfur oxides | IA

§ 49.10376 Contents of implementation plan.

The implementation plan for the Muckleshoot Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10377 EPA-approved Tribal rules and plans. [Reserved]

§ 49.10378 Permits to construct.

Permits to construct are required for new major stationary sources and major modifications to existing major stationary sources pursuant to 40 CFR 52.21.

§ 49.10379 Permits to operate.

Permits to operate are required for sources not subject to 40 CFR Part 71 in accordance with the requirements of § 49.139.

§ 49.10380 Federally-promulgated regulations and Federal implementation plans.

The following regulations are incorporated and made part of the implementation plan for the Muckleshoot Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10381-49.10400 [Reserved]

20. Subpart M of Part 49 is amended by adding an undesignated center heading and §§ 49.10401 through 49.10410 as follows:

Implementation Plan for the Nez Perce Tribe of Idaho

§ 49.10401 Identification of plan.

This section and §§ 49.10402 through 49.10430 contain the implementation plan for the Nez Perce Tribe. This plan consists of a combination of Tribal rules and measures and Federal regulations and measures which apply within the Nez Perce Reservation.

§ 49.10402 Approval status.

There are currently no EPA-approved Tribal rules or measures in the implementation plan for the Nez Perce Reservation.

§ 49.10403 Legal authority. [Reserved]

§ 49.10404 Source surveillance. [Reserved]

§ 49.10405 Classification of regions for episode plans.

The air quality control region which encompasses the Nez Perce Reservation is classified as follows for purposes of episode plans:

Pollutant | Classification
Carbon monoxide | III
Nitrogen dioxide | III
Ozone | III
Particulate matter (PM10) | I
Sulfur oxides | III

§ 49.10406 Contents of implementation plan.

The implementation plan for the Nez Perce Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.127 Rule for woodwaste burners.

(f) Section 49.128 Rule for limiting particulate matter emissions from wood products industry sources.

(g) Section 49.129 Rule for limiting emissions of sulfur dioxides.

(h) Section 49.130 Rule for limiting sulfur in fuels.

(i) Section 49.131 General rule for open burning.

(j) Section 49.132 Rule for open burning permits.

(k) Section 49.133 Rule for agricultural burning permits.

(l) Section 49.134 Rule for forestry burning permits.

(m) Section 49.136 Rule for emissions detrimental to persons, property, cultural or traditional resources.

(n) Section 49.137 Rule for air pollution episodes.

(o) Section 49.138 Rule for the registration of air pollution sources and the reporting of emissions.

(p) Section 49.139 Rule for non-Title V operating permits.

§ 49.10407 EPA-approved Tribal rules and plans. [Reserved]

§ 49.10408 Permits to construct.

Permits to construct are required for new major stationary sources and major modifications to existing major stationary sources pursuant to 40 CFR 52.21.

§ 49.10409 Permits to operate.

Permits to operate are required for sources not subject to 40 CFR Part 71 in accordance with the requirements of § 49.139.

§ 49.10410 Federally-promulgated regulations and Federal implementation plans.

The following regulations are incorporated and made part of the implementation plan for the Nez Perce Reservation:

(a) Section 49.123 General provisions.

(b) Section 49.124 Rule for limiting visible emissions.

(c) Section 49.125 Rule for limiting the emissions of particulate matter.

(d) Section 49.126 Rule for limiting fugitive particulate matter emissions.

(e) Section 49.127 Rule for woodwaste burners.

(f) Section 49.128 Rule for limiting particulate matter emissions from wood products industry sources.

(g) Section 49.129 Rule for limiting emissions of sulfur dioxide.

(h) Section 49.130 Rule for limiting sulfur in fuels.

(i) Section 49.131 General rule for open burning.

(j) Section 49.132 Rule for open burning permits.

(k) Section 49.133 Rule for agricultural burning permits.

(l) Section 49.134 Rule for forestry burning permits.

(m) Section 49.136 Rule for emissions detrimental to persons, property, cultural or traditional resources.

(n) Section 49.137 Rule for air pollution episodes.

(o) Section 49.138 Rule for the registration of air pollution sources and the reporting of emissions.

(p) Section 49.139 Rule for non-Title V operating permits.

§§ 49.10411-49.10430 [Reserved]

21. Subpart M of Part 49 is amended by adding an undesignated center heading and §§ 49.10431 through 49.10440 to read as follows:

Implementation Plan for the Nisqually Indian Tribe of the Nisqually Reservation, Washington

§ 49.10431 Identification of plan.

This section and §§ 49.10432 through 49.10460 contain the implementation plan for the Nisqually Indian Tribe. This plan consists of a combination of Tribal rules and measures and Federal regulations and measures which apply within the Nisqually Reservation.

§ 49.10432 Approval status.

There are currently no EPA-approved Tribal rules or measures in the implementation plan for the Nisqually Reservation.

§ 49.10433 Legal authority. [Reserved]

§ 49.10434 Source surveillance. [Reserved]

§ 49.10435 Classification of regions for episode plans.

The air quality control region which encompasses the Nisqually Reservation is classified as follows for purposes of episode plans:

Pollutant | Classification
Carbon monoxide | III
Nitrogen dioxide | III
Ozone | III
Particulate matter (PM10) | II
Sulfur oxides | II

§ 49.10436 Contents of implementation plan.

The implementation plan for the Nisqually Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10437 EPA-approved Tribal rules and plans. [Reserved]

§ 49.10438 Permits to construct.

Permits to construct are required for new major stationary sources and major modifications to existing major stationary sources pursuant to 40 CFR 52.21.

§ 49.10439 Permits to operate.

Permits to operate are required for sources not subject to 40 CFR part 71 in accordance with the requirements of § 49.139.

§ 49.10440 Federally-promulgated regulations and Federal implementation plans.

The following regulations are incorporated and made part of the implementation plan for the Nisqually Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10441-49.10460 [Reserved]

22. Subpart M of Part 49 is amended by adding an undesignated center heading and §§ 49.10461 through 49.10470 to read as follows:

Implementation Plan for the Nooksack Indian Tribe of Washington

§ 49.10461 Identification of plan.

This section and §§ 49.10462 through 49.10490 contain the implementation plan for the Nooksack Indian Tribe. This plan consists of a combination of Tribal rules and measures and Federal regulations and measures which apply within the Reservation of the Nooksack Indian Tribe.

§ 49.10462 Approval status.

There are currently no EPA-approved Tribal rules or measures in the implementation plan for the Reservation of the Nooksack Indian Tribe.

§ 49.10463 Legal authority. [Reserved]

§ 49.10464. Source surveillance. [Reserved]

§ 49.10465 Classification of regions for episode plans.

The air quality control region which encompasses the Reservation of the Nooksack Indian Tribe is classified as follows for purposes of episode plans:

Pollutant | Classification
Carbon monoxide | III
Nitrogen dioxide | III
Ozone | III
Particulate matter (PM10) | II
Sulfur oxides | II

§ 49.10466 Contents of implementation plan.

The implementation plan for the Reservation of the Nooksack Indian Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10467 EPA-approved Tribal rules and plans. [Reserved]

§ 49.10468 Permits to construct.

Permits to construct are required for new major stationary sources and major modifications to existing major stationary sources pursuant to 40 CFR 52.21.

§ 49.10469 Permits to operate.

Permits to operate are required for sources not subject to 40 CFR Part 71 in accordance with the requirements of § 49.139.

§ 49.10470 Federally-promulgated regulations and Federal implementation plans.

The following regulations are incorporated and made part of the implementation plan for the Reservation of the Nooksack Indian Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10471-49.10490 [Reserved]

23. Subpart M of Part 49 is amended by adding an undesignated center heading and §§ 49.10491 through 49.10500 to read as follows:

Implementation Plan for the Port Gamble Indian Community of the Port Gamble Reservation, Washington

§ 49.10491 Identification of plan.

This section and §§ 49.10492 through 49.10520 contain the implementation plan for the Port Gamble Indian Community. This plan consists of a combination of Tribal rules and measures and Federal regulations and measures which apply within the Port Gamble Reservation.

§ 49.10492 Approval status.

There are currently no EPA-approved Tribal rules or measures in the implementation plan for the Port Gamble Reservation.

§ 49.10493 Legal authority. [Reserved]

§ 49.10494 Source surveillance. [Reserved]

§ 49.10495 Classification of regions for episode plans.

The air quality control region which encompasses the Port Gamble Reservation is classified as follows for purposes of episode plans:

Pollutant | Classification
Carbon monoxide | I
Nitrogen dioxide | III
Ozone | I
Particulate matter (PM10) | I
Sulfur oxides | IA

§ 49.10496 Contents of implementation plan.

The implementation plan for the Port Gamble Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10497 EPA-approved Tribal rules and plans. [Reserved]

§ 49.10498 Permits to construct.

Permits to construct are required for new major stationary sources and major modifications to existing major stationary sources pursuant to 40 CFR 52.21.

§ 49.10499 Permits to operate.

Permits to operate are required for sources not subject to 40 CFR Part 71 in accordance with the requirements of § 49.139.

§ 49.10500 Federally-promulgated regulations and Federal implementation plans.

The following regulations are incorporated and made part of the implementation plan for the Port Gamble Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10501-49.10520 [Reserved]

24. Subpart M of Part 49 is amended by adding an undesignated center heading and §§ 49.10521 through 49.10530 as follows:

Implementation Plan for the Puyallup Tribe of the Puyallup Reservation, Washington

§ 49.10521 Identification of plan.

This section and §§ 49.10522 through 49.10550 contain the implementation plan for the Puyallup Tribe. This plan consists of a combination of Tribal rules and measures and Federal regulations and measures which apply to lands in trust that are within the 1873 survey area of the Puyallup Tribe (Puyallup Reservation), consistent with the Puyallup Tribe of Indians Land Claims Settlement Act, ratified by Congress in 1989 (25 U.S.C. 1773).

§ 49.10522 Approval status.

There are currently no EPA-approved Tribal rules or measures in the implementation plan for the lands in trust that are within the Puyallup Reservation.

§ 49.10523 Legal authority. [Reserved]

§ 49.10524 Source surveillance. [Reserved]

§ 49.10525 Classification of regions for episode plans.

The air quality control region which encompasses the lands in trust that are within the Puyallup Reservation is classified as follows for purposes of episode plans:

Pollutant | Classification
Carbon monoxide | I
Nitrogen dioxide | III
Ozone | I
Particulate matter (PM10) | I
Sulfur oxides | IA

§ 49.10526. Contents of implementation plan.

The implementation plan for the lands in trust that are within the Puyallup Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10527 EPA-approved Tribal rules and plans. [Reserved]

§ 49.10528 Permits to construct.

Permits to construct are required for new major stationary sources and major modifications to existing major stationary sources pursuant to 40 CFR 52.21.

§ 49.10529 Permits to operate.

Permits to operate are required for sources not subject to 40 CFR Part 71 in accordance with the requirements of § 49.139.

§ 49.10530 Federally-promulgated regulations and Federal implementation plans.

The following regulations are incorporated and made part of the implementation plan for the lands in trust that are within the Puyallup Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10531-49.10550 [Reserved]

25. Subpart M of Part 49 is amended by adding an undesignated center heading and §§ 49.10551 through 49.10560 to read as follows:

Implementation Plan for the Quileute Tribe of the Quileute Reservation, Washington

§ 49.10551 Identification of plan.

This section and §§ 49.10552 through 49.10580 contain the implementation plan for the Quileute Tribe. This plan consists of a combination of Tribal rules and measures and Federal regulations and measures which apply within the Quileute Reservation.

§ 49.10552 Approval status.

There are currently no EPA-approved Tribal rules or measures in the implementation plan for the Quileute Reservation.

§ 49.10553 Legal authority. [Reserved]

§ 49.10554 Source surveillance. [Reserved]

§ 49.10555 Classification of regions for episode plans.

The air quality control region which encompasses the Quileute Reservation is classified as follows for purposes of episode plans:

Pollutant | Classification
Carbon monoxide | III
Nitrogen dioxide | III
Ozone | III
Particulate matter (PM10) | II
Sulfur oxides | II

§ 49.10556 Contents of implementation plan.

The implementation plan for the Quileute Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10557 EPA-approved tribal rules and plans. [Reserved]

§ 49.10558 Permits to construct.

Permits to construct are required for new major stationary sources and major modifications to existing major stationary sources pursuant to 40 CFR 52.21.

§ 49.10559 Permits to operate.

Permits to operate are required for sources not subject to 40 CFR Part 71 in accordance with the requirements of § 49.139.

§ 49.10560 Federally-promulgated regulations and federal implementation plans.

The following regulations are incorporated and made part of the implementation plan for the Quileute Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10561-49.10580 [Reserved]

26. Subpart M of Part 49 is amended by adding an undesignated center heading and §§ 49.10581 through 49.10590 to read as follows:

Implementation Plan for the Quinault Tribe of the Quinault Reservation, Washington

§ 49.10581 Identification of plan.

This section and §§ 49.10582 through 49.10640 contain the implementation plan for the Quinault Tribe. This plan consists of a combination of Tribal rules and measures and Federal regulations and measures which apply within the Quinault Reservation.

§ 49.10582 Approval status.

There are currently no EPA-approved Tribal rules or measures in the implementation plan for the Quinault Reservation.

§ 49.10583 Legal authority. [Reserved]

§ 49.10584 Source surveillance. [Reserved]

§ 49.10585 Classification of regions for episode plans.

The air quality control region which encompasses the Quinault Reservation is classified as follows for purposes of episode plans:

Pollutant | Classification
Carbon monoxide | III
Nitrogen dioxide | III
Ozone | III
Particulate matter (PM10) | II
Sulfur oxides | II

§ 49.10586 Contents of implementation plan.

The implementation plan for the Quinault Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10587 EPA-approved Tribal rules and plans. [Reserved]

§ 49.10588 Permits to construct.

Permits to construct are required for new major stationary sources and major modifications to existing major stationary sources pursuant to 40 CFR 52.21.

§ 49.10589 Permits to operate.

Permits to operate are required for sources not subject to 40 CFR Part 71 in accordance with the requirements of § 49.139.

§ 49.10590 Federally-promulgated regulations and Federal implementation plans.

The following regulations are incorporated and made part of the implementation plan for the Quinault Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10591-49.10640 [Reserved]

27. Subpart M of Part 49 is amended by adding an undesignated center heading and §§ 49.10641 through 49.10650 to read as follows:

Implementation Plan for the Sauk-Suiattle Indian Tribe of Washington

§ 49.10641 Identification of plan.

This section and §§ 49.10642 through 49.10670 contain the implementation plan for the Sauk-Suiattle Indian Tribe. This plan consists of a combination of Tribal rules and measures and Federal regulations and measures which apply within the Reservation of the Sauk-Suiattle Tribe.

§ 49.10642 Approval status.

There are currently no EPA-approved Tribal rules or measures in the implementation plan for the Reservation of the Sauk-Suiattle Tribe.

§ 49.10643 Legal authority. [Reserved]

§ 49.10644 Source surveillance. [Reserved]

§ 49.10645 Classification of regions for episode plans.

The air quality control region which encompasses the Reservation of the Sauk-Suiattle Tribe is classified as follows for purposes of episode plans:

Pollutant | Classification
Carbon monoxide | I
Nitrogen dioxide | III
Ozone | I
Particulate matter (PM10) | I
Sulfur oxides | IA

§ 49.10646 Contents of implementation plan.

The implementation plan for the Reservation of the Sauk-Suiattle Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10647 EPA-approved Tribal rules and plans. [Reserved]

§ 49.10648 Permits to construct.

Permits to construct are required for new major stationary sources and major modifications to existing major stationary sources pursuant to 40 CFR 52.21.

§ 49.10649 Permits to operate.

Permits to operate are required for sources not subject to 40 CFR Part 71 in accordance with the requirements of § 49.139.

§ 49.10650 Federally-promulgated regulations and Federal implementation plans.

The following regulations are incorporated and made part of the implementation plan for the Reservation of the Sauk-Suiattle Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10651-49.10670 [Reserved]

28. Subpart M of Part 49 is amended by adding an undesignated center heading and §§ 49.10671 through 49.10680 to read as follows:

Implementation Plan for the Shoalwater Bay Tribe of the Shoalwater Bay Indian Reservation, Washington

§ 49.10671 Identification of plan.

This section and §§ 49.10672 through 49.10700 contain the implementation plan for the Shoalwater Bay Tribe of the Shoalwater Bay Indian Reservation. This plan consists of a combination of Tribal rules and measures and Federal regulations and measures which apply within the Shoalwater Bay Indian Reservation.

§ 49.10672 Approval status.

There are currently no EPA-approved Tribal rules or measures in the implementation plan for the Shoalwater Bay Indian Reservation.

§ 49.10673 Legal authority. [Reserved]

§ 49.10674 Source surveillance. [Reserved]

§ 49.10675 Classification of regions for episode plans.

The air quality control region which encompasses the Shoalwater Bay Indian Reservation is classified as follows for purposes of episode plans:

Pollutant | Classification
Carbon monoxide | III
Nitrogen dioxide | III
Ozone | III
Particulate matter (PM10) | II
Sulfur oxides | II

§ 49.10676 Contents of implementation plan.

The implementation plan for the Shoalwater Bay Indian Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10677 EPA-approved Tribal rules and plans. [Reserved]

§ 49.10678 Permits to construct.

Permits to construct are required for new major stationary sources and major modifications to existing major stationary sources pursuant to 40 CFR 52.21.

§ 49.10679 Permits to operate.

Permits to operate are required for sources not subject to 40 CFR Part 71 in accordance with the requirements of § 49.139.

§ 49.10680 Federally-promulgated regulations and Federal implementation plans.

The following regulations are incorporated and made part of the implementation plan for the Shoalwater Bay Indian Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10681-49.10700 [Reserved]

29. Subpart M of Part 49 is amended by revising the undesignated center heading and §§ 49.10701 and 49.10702 to read as follows:

Implementation Plan for the Shoshone-Bannock Tribes of the Fort Hall Indian Reservation of Idaho

§ 49.10701 Identification of plan.

This section and §§ 49.10702 through 49.10730 contain the implementation plan for the Shoshone-Bannock Tribes of the Fort Hall Indian Reservation. This plan consists of a combination of Tribal rules and measures and Federal regulations and measures which apply within the Fort Hall Indian Reservation.

§ 49.10702 Approval status.

There are currently no EPA-approved Tribal rules or measures in the implementation plan for the Fort Hall Indian Reservation.

30. Subpart M of Part 49 is amended by revising §§ 49.10704 through 49.10706 to read as follows:

§ 49.10704 Source surveillance. [Reserved]

§ 49.10705 Classification of regions for episode plans.

The air quality control region which encompasses the Fort Hall Indian Reservation is classified as follows for purposes of episode plans:

Pollutant | Classification
Carbon monoxide | III
Nitrogen dioxide | III
Ozone | III
Particulate matter (PM10) | I
Sulfur oxides | II

§ 49.10706 Contents of implementation plan.

The implementation plan for the Fort Hall Indian Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

(l) Section 49.10711 Federal Implementation Plan for the Astaris-Idaho LLC Facility (formerly owned by FMC Corporation) in the Fort Hall PM-10 Nonattainment Area.

31. Subpart M of Part 49 is amended by revising §§ 49.10709 through 49.10710 to read as follows:

§ 49.10709 Permits to operate.

Permits to operate are required for sources not subject to 40 CFR Part 71 in accordance with the requirements of § 49.139.

§ 49.10710 Federally-promulgated regulations and Federal implementation plans.

The following regulations are incorporated and made part of the implementation plan for the Fort Hall Indian Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

(l) Section 49.10711 Federal Implementation Plan for the Astaris-Idaho LLC Facility (formerly owned by FMC Corporation) in the Fort Hall PM-10 Nonattainment Area.

32. Subpart M of Part 49 is amended by adding an undesignated center heading and §§ 49.10731 through 49.10740 to read as follows:

Implementation Plan for the Confederated Tribes of the Siletz Reservation, Oregon

§ 49.10731 Identification of plan.

This section and §§ 49.10732 through 49.10760 contain the implementation plan for the Confederated Tribes of the Siletz Reservation. This plan consists of a combination of Tribal rules and measures and Federal regulations and measures which apply within the Siletz Reservation.

§ 49.10732 Approval status.

There are currently no EPA-approved Tribal rules or measures in the implementation plan for the Siletz Reservation.

§ 49.10733 Legal authority. [Reserved]

§ 49.10734 Source surveillance. [Reserved]

§ 49.10735 Classification of regions for episode plans.

The air quality control region which encompasses the Siletz Reservation is classified as follows for purposes of episode plans:

Pollutant | Classification
Carbon monoxide | III
Nitrogen dioxide | III
Ozone | III
Particulate matter (PM10) | III
Sulfur oxides | III

§ 49.10736 Contents of implementation plan.

The implementation plan for the Siletz Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10737 EPA-approved Tribal rules and plans. [Reserved]

§ 49.10738 Permits to construct.

Permits to construct are required for new major stationary sources and major modifications to existing major stationary sources pursuant to 40 CFR 52.21.

§ 49.10739 Permits to operate.

Permits to operate are required for sources not subject to 40 CFR Part 71 in accordance with the requirements of § 49.139.

§ 49.10740 Federally-promulgated regulations and Federal implementation plans.

The following regulations are incorporated and made part of the implementation plan for the Siletz Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permit.

§§ 49.10741-49.10760 [Reserved]

33. Subpart M of part 49 is amended by adding an undesignated center heading and §§ 49.10761 through 49.10770 to read as follows:

Implementation Plan for the Skokomish Indian Tribe of the Skokomish Reservation, Washington

§ 49.10761 Identification of plan.

This section and §§ 49.10762 through 49.10820 contain the implementation plan for the Skokomish Indian Tribe. This plan consists of a combination of Tribal rules and measures and Federal regulations and measures which apply within the Skokomish Reservation.

§ 49.10762 Approval status.

There are currently no EPA-approved Tribal rules or measures in the implementation plan for the Skokomish Reservation.

§ 49.10763 Legal authority. [Reserved]

§ 49.10764 Source surveillance. [Reserved]

§ 49.10765 Classification of regions for episode plans.

The air quality control region which encompasses the Skokomish Reservation is classified as follows for purposes of episode plans:

Pollutant | Classification
Carbon monoxide | III
Nitrogen dioxide | III
Ozone | III
Particulate matter (PM10) | II
Sulfur oxides | II

§ 49.10766 Contents of implementation plan.

The implementation plan for the Skokomish Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10767 EPA-approved Tribal rules and plans. [Reserved]

§ 49.10768 Permits to construct.

Permits to construct are required for new major stationary sources and major modifications to existing major stationary sources pursuant to 40 CFR 52.21.

§ 49.10769 Permits to operate.

Permits to operate are required for sources not subject to 40 CFR part 71 in accordance with the requirements of § 49.139.

§ 49.10770 Federally-promulgated regulations and Federal implementation plans.

The following regulations are incorporated and made part of the implementation plan for the Skokomish Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10771-49.10820 [Reserved]

34. Subpart M of part 49 is amended by adding an undesignated center heading and §§ 49.10821 through 49.10830 to read as follows:

Implementation Plan for the Spokane Tribe of the Spokane Reservation, Washington

§ 49.10821 Identification of plan.

This section and §§ 49.10822 through 49.10850 contain the implementation plan for the Spokane Tribe. This plan consists of a combination of Tribal rules and measures and Federal regulations and measures which apply within the Spokane Reservation.

§ 49.10822 Approval status.

There are currently no EPA-approved Tribal rules or measures in the implementation plan for the Spokane Reservation.

§ 49.10823 Legal authority. [Reserved]

§ 49.10824 Source surveillance. [Reserved]

§ 49.10825 Classification of regions for episode plans.

The air quality control region which encompasses the Spokane Reservation is classified as follows for purposes of episode plans:

Pollutant | Classification
Carbon monoxide | III
Nitrogen dioxide | III
Ozone | III
Particulate matter (PM10) | II
Sulfur oxides | III

§ 49.10826 Contents of implementation plan.

The implementation plan for the Spokane Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10827 EPA-approved Tribal rules and plans. [Reserved]

§ 49.10828 Permits to construct.

Permits to construct are required for new major stationary sources and major modifications to existing major stationary sources pursuant to 40 CFR 52.21.

§ 49.10829 Permits to operate.

Permits to operate are required for sources not subject to 40 CFR Part 71 in accordance with the requirements of § 49.139.

§ 49.10830 Federally-promulgated regulations and Federal implementation plans.

The following regulations are incorporated and made part of the implementation plan for the Spokane Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10831-49.10850 [Reserved]

35. Subpart M of Part 49 is amended by adding an undesignated center heading and §§ 49.10851 through 49.10860 to read as follows:

Implementation Plan for the Squaxin Island Tribe of the Squaxin Island Reservation, Washington

§ 49.10851 Identification of plan.

This section and §§ 49.10852 through 49.10880 contain the implementation plan for the Squaxin Island Tribe. This plan consists of a combination of Tribal rules and measures and Federal regulations and measures which apply within the Squaxin Island Reservation.

§ 49.10852 Approval status.

There are currently no EPA-approved Tribal rules or measures in the implementation plan for the Squaxin Island Reservation.

§ 49.10853 Legal authority. [Reserved]

§ 49.10854 Source surveillance. [Reserved]

§ 49.10855 Classification of regions for episode plans.

The air quality control region which encompasses the Squaxin Island Reservation is classified as follows for purposes of episode plans:

Pollutant | Classification
Carbon monoxide | III
Nitrogen dioxide | III
Ozone | III
Particulate matter (PM10) | II
Sulfur oxides | II

§ 49.10856 Contents of implementation plan.

The implementation plan for the Squaxin Island Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10857 EPA-approved Tribal rules and plans. [Reserved]

§ 49.10858 Permits to construct.

Permits to construct are required for new major stationary sources and major modifications to existing major stationary sources pursuant to 40 CFR 52.21.

§ 49.10859 Permits to operate.

Permits to operate are required for sources not subject to 40 CFR Part 71 in accordance with the requirements of § 49.139.

§ 49.10860 Federally-promulgated regulations and Federal implementation plans.

The following regulations are incorporated and made part of the implementation plan for the Squaxin Island Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10861-49.10880 [Reserved]

36. Subpart M of Part 49 is amended by adding an undesignated center heading and §§ 49.10881 through 49.10890 to read as follows:

Implementation Plan for the Stillaguamish Tribe of Washington

§ 49.10881 Identification of plan.

This section and §§ 49.10882 through 49.10920 contain the implementation plan for the Stillaguamish Tribe. This plan consists of a combination of Tribal rules and measures and Federal regulations and measures which apply within the Reservation of the Stillaguamish Tribe.

§ 49.10882 Approval status.

There are currently no EPA-approved Tribal rules or measures in the implementation plan for the Reservation of the Stillaguamish Tribe.

§ 49.10883 Legal authority. [Reserved]

§ 49.10884 Source surveillance. [Reserved]

§ 49.10885 Classification of regions for episode plans.

The air quality control region which encompasses the Reservation of the Stillaguamish Tribe is classified as follows for purposes of episode plans:

Pollutant | Classification
Carbon monoxide | I
Nitrogen dioxide | III
Ozone | I
Particulate matter (PM10) | I
Sulfur oxides | IA

§ 49.10886 Contents of implementation plan.

The implementation plan for the Reservation of the Stillaguamish Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10887 EPA-approved Tribal rules and plans. [Reserved]

§ 49.10888 Permits to construct.

Permits to construct are required for new major stationary sources and major modifications to existing major stationary sources pursuant to 40 CFR 52.21.

§ 49.10889 Permits to operate.

Permits to operate are required for sources not subject to 40 CFR Part 71 in accordance with the requirements of § 49.139.

§ 49.10890 Federally-promulgated regulations and Federal implementation plans.

The following regulations are incorporated and made part of the implementation plan for the Reservation of the Stillaguamish Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10891-49.10920 [Reserved]

37. Subpart M of Part 49 is amended by adding an undesignated center heading and §§ 49.10921 through 49.10930 to read as follows:

Implementation Plan for the Suquamish Indian Tribe of the Port Madison Reservation, Washington

§ 49.10921 Identification of plan.

This section and §§ 49.10922 through 49.10950 contain the implementation plan for the Suquamish Indian Tribe of the Port Madison Reservation. This plan consists of a combination of Tribal rules and measures and Federal regulations and measures which apply within the Port Madison Reservation.

§ 49.10922 Approval status.

There are currently no EPA-approved Tribal rules or measures in the implementation plan for the Port Madison Reservation.

§ 49.10923 Legal authority. [Reserved]

§ 49.10924 Source surveillance. [Reserved]

§ 49.10925 Classification of regions for episode plans.

The air quality control region which encompasses the Port Madison Reservation is classified as follows for purposes of episode plans:

Pollutant | Classification
Carbon monoxide | III
Nitrogen dioxide | III
Ozone | III
Particulate matter (PM10) | II
Sulfur oxides | II

§ 49.10926 Contents of implementation plan.

The implementation plan for the Port Madison Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10927 EPA-approved Tribal rules and plans. [Reserved]

§ 49.10928 Permits to construct.

Permits to construct are required for new major stationary sources and major modifications to existing major stationary sources pursuant to 40 CFR 52.21.

§ 49.10929 Permits to operate.

Permits to operate are required for sources not subject to 40 CFR Part 71 in accordance with the requirements of § 49.139.

§ 49.10930 Federally-promulgated regulations and Federal implementation plans.

The following regulations are incorporated and made part of the implementation plan for the Port Madison Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10931-49.10950 [Reserved]

38. Subpart M of Part 49 is amended by adding an undesignated center heading and §§ 49.10951 through 49.10960 to read as follows:

Implementation Plan for the Swinomish Indians of the Swinomish Reservation, Washington

§ 49.10951 Identification of plan.

This section and §§ 49.10952 through 49.10980 contain the implementation plan for the Swinomish Indians. This plan consists of a combination of Tribal rules and measures and Federal regulations and measures which apply within the Swinomish Reservation.

§ 49.10952 Approval status.

There are currently no EPA-approved Tribal rules or measures in the implementation plan for the Swinomish Reservation.

§ 49.10953 Legal authority. [Reserved]

§ 49.10954 Source surveillance. [Reserved]

§ 49.10955 Classification of regions for episode plans.

The air quality control region which encompasses the Swinomish Reservation is classified as follows for purposes of episode plans:

Pollutant | Classification
Carbon monoxide | III
Nitrogen dioxide | III
Ozone | III
Particulate matter (PM10) | II
Sulfur oxides | II

§ 49.10956 Contents of implementation plan.

The implementation plan for the Swinomish Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10957 EPA-approved Tribal rules and plans. [Reserved]

§ 49.10958 Permits to construct.

Permits to construct are required for new major stationary sources and major modifications to existing major stationary sources pursuant to 40 CFR 52.21.

§ 49.10959 Permits to operate.

Permits to operate are required for sources not subject to 40 CFR Part 71 in accordance with the requirements of § 49.139.

§ 49.10960 Federally-promulgated regulations and Federal implementation plans.

The following regulations are incorporated and made part of the implementation plan for the Swinomish Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10961-49.10980 [Reserved]

39. Subpart M of Part 49 is amended by adding an undesignated center heading and §§ 49.10981 through 49.10990 to read as follows:

Implementation Plan for the Tulalip Tribes of the Tulalip Reservation, Washington

§ 49.10981 Identification of plan.

This section and §§ 49.10982 through 49.11010 contain the implementation plan for the Tulalip Tribes. This plan consists of a combination of Tribal rules and measures and Federal regulations and measures which apply within the Tulalip Reservation.

§ 49.10982 Approval status.

There are currently no EPA-approved Tribal rules or measures in the implementation plan for the Tulalip Reservation.

§ 49.10983 Legal authority. [Reserved]

§ 49.10984 Source surveillance. [Reserved]

§ 49.10985 Classification of regions for episode plans.

The air quality control region which encompasses the Tulalip Reservation is classified as follows for purposes of episode plans:

Pollutant | Classification
Carbon monoxide | I
Nitrogen dioxide | III
Ozone | I
Particulate matter (PM10) | I
Sulfur oxides | IA

§ 49.10986 Contents of implementation plan.

The implementation plan for the Tulalip Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.10987 EPA-approved Tribal rules and plans. [Reserved]

§ 49.10988 Permits to construct.

Permits to construct are required for new major stationary sources and major modifications to existing major stationary sources pursuant to 40 CFR 52.21.

§ 49.10989 Permits to operate.

Permits to operate are required for sources not subject to 40 CFR Part 71 in accordance with the requirements of § 49.139.

§ 49.10990 Federally-promulgated regulations and Federal implementation plans.

The following regulations are incorporated and made part of the implementation plan for the Tulalip Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.10991-49.11010 [Reserved]

40. Subpart M of Part 49 is amended by adding an undesignated center heading and §§ 49.11011 through 49.11020 to read as follows:

Implementation Plan for the Confederated Tribes of the Umatilla Reservation, Oregon

§ 49.11011 Identification of plan.

This section and §§ 49.11012 through 49.11040 contain the implementation plan for the Confederated Tribes of the Umatilla Reservation. This plan consists of a combination of Tribal rules and measures and Federal regulations and measures which apply within the Umatilla Reservation.

§ 49.11012 Approval status.

There are currently no EPA-approved Tribal rules or measures in the implementation plan for the Umatilla Reservation.

§ 49.11013 Legal authority. [Reserved]

§ 49.11014 Source surveillance. [Reserved]

§ 49.11015 Classification of regions for episode plans.

The air quality control region which encompasses the Umatilla Reservation is classified as follows for purposes of episode plans:

Pollutant | Classification
Carbon monoxide | III
Nitrogen dioxide | III
Ozone | III
Particulate matter (PM10) | II
Sulfur oxides | III

§ 49.11016 Contents of implementation plan.

The implementation plan for the Umatilla Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.132 Rule for open burning permits.

(i) Section 49.133 Rule for agriculture burning permits.

(j) Section 49.134 Rule for forestry burning permits.

(k) Section 49.136 Rule for emissions detrimental to persons, property, cultural or traditional resources.

(l) Section 49.137 Rule for air pollution episodes.

(m) Section 49.138 Rule for the registration of air pollution sources and the reporting of emissions.

(n) Section 49.139 Rule for non-Title V operating permits.

§ 49.11017 EPA-approved Tribal rules and plans. [Reserved]

§ 49.11018 Permits to construct.

Permits to construct are required for new major stationary sources and major modifications to existing major stationary sources pursuant to 40 CFR 52.21.

§ 49.11019 Permits to operate.

Permits to operate are required for sources not subject to 40 CFR Part 71 in accordance with the requirements of § 49.139.

§ 49.11020 Federally-promulgated regulations and Federal implementation plans.

The following regulations are incorporated and made part of the implementation plan for the Umatilla Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.132 Rule for open burning permits.

(i) Section 49.133 Rule for agriculture burning permits.

(j) Section 49.134 Rule for forestry burning permits.

(k) Section 49.136 Rule for emissions detrimental to persons, property, cultural or traditional resources.

(l) Section 49.137 Rule for air pollution episodes.

(m) Section 49.138 Rule for the registration of air pollution sources and the reporting of emissions.

(n) Section 49.139 Rule for non-Title V operating permits.

§§ 49.11021-49.11040 [Reserved]

41. Subpart M of Part 49 is amended by adding an undesignated center heading and §§ 49.11041 through 49.11050 to read as follows:

Implementation Plan for the Upper Skagit Indian Tribe of Washington

§ 49.11041 Identification of plan.

This section and §§ 49.11042 through 49.11070 contain the implementation plan for the Upper Skagit Indian Tribe. This plan consists of a combination of Tribal rules and measures and Federal regulations and measures which apply within the Reservation of the Upper Skagit Indian Tribe.

§ 49.11042 Approval status.

There are currently no EPA-approved Tribal rules or measures in the implementation plan for the Reservation of the Upper Skagit Indian Tribe.

§ 49.11043 Legal authority. [Reserved]

§ 49.11044 Source surveillance. [Reserved]

§ 49.11045 Classification of regions for episode plans.

The air quality control region which encompasses the Reservation of the Upper Skagit Indian Tribe is classified as follows for purposes of episode plans:

Pollutant | Classification
Carbon monoxide | III
Nitrogen dioxide | III
Ozone | III
Particulate matter (PM10) | II
Sulfur oxides | II

§ 49.11046 Contents of implementation plan.

The implementation plan for the Reservation of the Upper Skagit Indian Tribe consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.11047 EPA-approved Tribal rules and plans. [Reserved]

§ 49.11048 Permits to construct.

Permits to construct are required for new major stationary sources and major modifications to existing major stationary sources pursuant to 40 CFR 52.21.

§ 49.11049 Permits to operate.

Permits to operate are required for sources not subject to 40 CFR Part 71 in accordance with the requirements of § 49.139.

§ 49.11050 Federally-promulgated regulations and Federal implementation plans.

The following regulations are incorporated and made part of the implementation plan for the Reservation of the Upper Skagit Indian Tribe:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.11051-49.11070 [Reserved]

42. Subpart M of Part 49 is amended by adding an undesignated center heading and §§ 49.11071 through 49.11080 to read as follows:

Implementation Plan for the Confederated Tribes of the Warm Springs Reservation of Oregon

§ 49.11071 Identification of plan.

This section and §§ 49.11072 through 49.11100 contain the implementation plan for the Confederated Tribes of the Warm Springs Reservation. This plan consists of a combination of Tribal rules and measures and Federal regulations and measures which apply within the Warm Springs Reservation.

§ 49.11072 Approval status.

There are currently no EPA-approved Tribal rules or measures in the implementation plan for the Warm Springs Reservation.

§ 49.11073 Legal authority. [Reserved]

§ 49.11074 Source surveillance. [Reserved]

§ 49.11075 Classification of regions for episode plans.

The air quality control region which encompasses the Warm Springs Reservation is classified as follows for purposes of episode plans:

Pollutant | Classification
Carbon monoxide | III
Nitrogen dioxide | III
Ozone | III
Particulate matter (PM10) | II
Sulfur oxides | III

§ 49.11076 Contents of implementation plan.

The implementation plan for the Warm Springs Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.11077 EPA-approved Tribal rules and plans. [Reserved]

§ 49.11078 Permits to construct.

Permits to construct are required for new major stationary sources and major modifications to existing major stationary sources pursuant to 40 CFR 52.21.

§ 49.11079 Permits to operate.

Permits to operate are required for sources not subject to 40 CFR Part 71 in accordance with the requirements of § 49.139.

§ 49.11080 Federally-promulgated regulations and Federal implementation plans.

The following regulations are incorporated and made part of the implementation plan for the Warm Springs Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.11081-49.11100 [Reserved]

43. Subpart M of Part 49 is amended by adding an undesignated center heading and §§ 49.11101 through 49.11110 to read as follows:

Implementation Plan for the Confederated Tribes and Bands of the Yakama Indian Nation of the Yakama Reservation, Washington

§ 49.11101 Identification of plan.

This section and §§ 49.11102 through 49.11130 contain the implementation plan for the Confederated Tribes and Bands of the Yakama Indian Nation. This plan consists of a combination of Tribal rules and measures and Federal regulations and measures which apply within the Yakama Reservation.

§ 49.11102 Approval status.

There are currently no EPA-approved Tribal rules or measures in the implementation plan for the Yakama Reservation.

§ 49.11103 Legal authority. [Reserved]

§ 49.11104 Source surveillance. [Reserved]

§ 49.11105 Classification of regions for episode plans.

The air quality control region which encompasses the Yakama Reservation is classified as follows for purposes of episode plans:

Pollutant | Classification
Carbon monoxide | III
Nitrogen dioxide | III
Ozone | IIII
Particulate matter (PM10) | I
Sulfur oxides | III

§ 49.11106 Contents of implementation plan.

The implementation plan for the Yakama Reservation consists of the following rules, regulations, and measures:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§ 49.11107 EPA-approved Tribal rules and plans. [Reserved]

§ 49.11108 Permits to construct.

Permits to construct are required for new major stationary sources and major modifications to existing major stationary sources pursuant to 40 CFR 52.21.

§ 49.11109 Permits to operate.

Permits to operate are required for sources not subject to 40 CFR Part 71 in accordance with the requirements of § 49.139.

§ 49.11110 Federally-promulgated regulations and Federal implementation plans.

The following regulations are incorporated and made part of the implementation plan for the Yakama Reservation:

(a) Section 49.123 General provisions.

(b) Section 49.124 Rule for limiting visible emissions.

(c) Section 49.125 Rule for limiting the emissions of particulate matter.

(d) Section 49.126 Rule for limiting fugitive particulate matter emissions.

(e) Section 49.129 Rule for limiting emissions of sulfur dioxide.

(f) Section 49.130 Rule for limiting sulfur in fuels.

(g) Section 49.131 General rule for open burning.

(h) Section 49.135 Rule for emissions detrimental to human health and welfare.

(i) Section 49.137 Rule for air pollution episodes.

(j) Section 49.138 Rule for the registration of air pollution sources and the reporting of emissions.

(k) Section 49.139 Rule for non-Title V operating permits.

§§ 49.11111-49.11130 [Reserved]

§§ 49.11131-49.17810 [Reserved]

44. Subpart M of Part 49 is amended by revising the “Appendix to Subpart M—Alphabetical Listing of Tribes and Corresponding Sections” to read as follows:

Appendix to Subpart M—Alphabetical Listing of Tribes and Corresponding Sections

Indian tribe | Refer to the following sections in subpart M
Burns Paiute Tribe of the Burns Paiute Indian Colony of Oregon | §§ 49.9861 to 49.9890
Chehalis Reservation, Washington—Confederated Tribes of the | §§ 49.9891 to 49.9920
Coeur d'Alene Tribe of the Coeur D'Alene Reservation, Idaho | §§ 49.9921 to 49.9950
Colville Reservation, Washington—Confederated Tribes of the | §§ 49.9951 to 49.9980
Coos, Lower Umpqua and Siuslaw Indians of Oregon—Confederated Tribes of the | §§ 49.9981 to 49.10010
Coquille Tribe of Oregon | §§ 49.10011 to 49.10040
Cow Creek Band of Umpqua Indians of Oregon | §§ 49.10041 to 49.10100
Grand Ronde Community of Oregon—Confederated Tribes of the | §§ 49.10101 to 49.10130
Hoh Indian Tribe of the Hoh Indian Reservation, Washington | §§ 49.10131 to 49.10160
Jamestown S'Klallam Tribe of Washington | §§ 49.10161 to 49.10190
Kalispel Indian Community of the Kalispel Reservation, Washington | §§ 49.10191 to 49.10220
Klamath Indian Tribe of Oregon | §§ 49.10221 to 49.10250
Kootenai Tribe of Idaho | §§ 49.10251 to 49.10280
Lower Elwha Tribal Community of the Lower Elwha Reservation, Washington | §§ 49.10281 to 49.10310
Lummi Tribe of the Lummi Reservation, Washington | §§ 49.10311 to 49.10340
Makah Indian Tribe of the Makah Indian Reservation, Washington | §§ 49.10341 to 49.10370
Muckleshoot Indian Tribe of the Muckleshoot Reservation, Washington | §§ 49.10371 to 49.10400
Nez Perce Tribe of Idaho | §§ 49.10401 to 49.10430
Nisqually Indian Tribe of the Nisqually Reservation, Washington | §§ 49.10431 to 49.10460
Nooksack Indian Tribe of Washington | §§ 49.10461 to 49.10490
Port Gamble Indian Community of the Port Gamble Reservation, Washington | §§ 49.10491 to 49.10520
Puyallup Tribe of the Puyallup Reservation, Washington | §§ 49.10521 to 49.10550
Quileute Tribe of the Quileute Reservation, Washington | §§ 49.10551 to 49.10580
Quinault Tribe of the Quinault Reservation, Washington | §§ 49.10581 to 49.10640
Sauk-Suiattle Indian Tribe of Washington | §§ 49.10641 to 49.10670
Shoalwater Bay Tribe of the Shoalwater Bay Indian Reservation, Washington | §§ 49.10671 to 49.10700
Shoshone-Bannock Tribes of the Fort Hall Indian Reservation of Idaho | §§ 49.10701 to 49.10730
Siletz Reservation, Oregon—Confederated Tribes of the | §§ 49.10731 to 49.10760
Skokomish Indian Tribe of the Skokomish Reservation, Washington | §§ 49.10761 to 49.10820
Spokane Tribe of the Spokane Reservation, Washington | §§ 49.10821 to 49.10850
Squaxin Island Tribe of the Squaxin Island Reservation, Washington | §§ 49.10851 to 49.10880
Stillaguamish Tribe of Washington | §§ 49.10881 to 49.10920
Suquamish Indian Tribe of the Port Madison Reservation, Washington | §§ 49.10921 to 49.10950
Swinomish Indians of the Swinomish Reservation, Washington | §§ 49.10951 to 49.10980
Tulalip Tribes of the Tulalip Reservation, Washington | §§ 49.10981 to 49.11010
Umatilla Reservation, Oregon—Confederated Tribes of the | §§ 49.11011 to 49.11040
Upper Skagit Indian Tribe of Washington | §§ 49.11041 to 49.11070
Warm Springs Reservation of Oregon—Confederated Tribes of the | §§ 49.11071 to 49.11100
Yakama Indian Nation of the Yakama Reservation, Washington—Confederated Tribes and Bands of the | §§ 49.11101 to 49.11130

[FR Doc. 02-4140 Filed 3-14-02; 8:45 am]

BILLING CODE 6560-50-P